DEPARTMENT OF AGRICULTURE

Forest Service

36 CFR Parts 217 and 219

RIN 0596-AB20

National Forest System Land and Resource Management Planning

AGENCY: Forest Service, USDA.

ACTION: Final rule.

SUMMARY: This final rule describes the framework for National Forest System land and natural resource planning; reaffirms sustainability as the overall goal for National Forest System planning and management; establishes requirements for the implementation, monitoring, evaluation, amendment, and revision of land and resource management plans; and guides the selection and implementation of site-specific actions. The intended effects are to simplify, clarify, and otherwise improve the planning process; to reduce burdensome and costly procedural requirements; to strengthen and clarify the role of science in planning, and to strengthen collaborative relationships with the public and other government entities.

EFFECTIVE DATE: This rule is effective November 9, 2000.

FOR FURTHER INFORMATION CONTACT: Robert S. Cunningham, Assistant Director, Ecosystem Management Coordination, Forest Service, USDA, P.O. Box 96090, Washington, D.C. 20090-6090, (202) 205-2494.

SUPPLEMENTARY INFORMATION: The following outline displays the contents of the preamble to this final regulation.

General Background

The 1982 Planning Rule

Summary of Public Comment

Today's Final Rule

Response to General Comments

Section by Section Response to Public Comments

Purpose, Goals, and Principles

Proposed section 219.1 Purpose.

Proposed section 219.2 Goals and principles for planning.

The Framework for Planning

Proposed section 219.3 Overview.

Proposed section 219.4 Topics of general interest or concern.

Proposed section 219.5 Information development and interpretation.

Proposed section 219.6 Proposed actions.

Proposed section 219.7 Plan decisions that guide future actions.

Proposed section 219.8 Amendment.

Proposed section 219.9 Revision.

Proposed section 219.10 Site-specific decisions and authorized uses of land.

Proposed section 219.11 Monitoring and evaluation.

Collaborative Planning for Sustainability

Proposed section 219.12 Collaboration and cooperatively developed landscape goals.

Proposed section 219.13 Coordination among federal agencies.

Proposed section 219.14 Involvement of state and local governments.

Proposed section 219.15 Interaction with American Indian tribes and Alaska Natives.

Proposed section 219.16 Relationships with interested individuals and organizations.

Proposed section 219.17 Interaction with private landowners.

Proposed section 219.18 Role of advisory groups and committees.

Ecological, Social, and Economic Sustainability

Proposed section 219.19 Ecological, social, and economic sustainability.

Proposed section 219.20 Ecological sustainability.

Proposed section 219.21 Social and economic sustainability.

The Contribution of Science

Proposed section 219.22 The role of assessments, analyses, and monitoring.

Proposed section 219.23 The participation of scientists in planning.

Proposed section 219.24 Science consistency evaluations.

Proposed section 219.25 Science advisory boards.

Special Considerations

Proposed section 219.26 Identifying and designating suitable uses.

Proposed section 219.27 Special designations.

Proposed section 219.28 Determination of land suitable for timber removal.

Proposed section 219.29 Limitation on timber removal.

Planning Documentation

Proposed section 219.30 Land and resource management plan documentation.

Proposed section 219.31 Maintenance of the plan and planning records.

Objections and Appeals

Proposed section 219.32 Objections to amendments or revisions.

Proposed section 219.33 Appeals of site-specific decisions.

Applicability and Transition

Proposed section 219.34 Applicability.

Proposed section 219.35 Transition.

Definitions

Proposed section 219.36 Definitions.

Regulatory Certification

Regulatory Impact

No Takings Implications

Civil Justice Reform Act

Unfunded Mandates Reform

Environmental Impact

Controlling Paperwork Burdens on the Public

Description of the Information Collection

Use of Comments—Federalism

General Background

The Forest Service is responsible for managing the lands and resources of the National Forest System, which includes 192 million acres of land in 42 states, the Virgin Islands, and Puerto Rico. The system is composed of 155 national forests, 20 national grasslands, and various other lands under the jurisdiction of the Secretary of Agriculture (the Secretary).

On October 5, 1999, the Forest Service published a proposed rule (64 FR 54074) to revise the Land and Resource Management Planning rule at 36 CFR part 219. The existing planning rule was adopted on September 30, 1982 (47 FR 43026) and amended in part on June 24, 1983, (48 FR 29122), and September 7, 1983 (48 FR 40383). The rule is required by the Forest and Rangeland Renewable Resources Planning Act of 1974 (88 Stat. 476 et seq.) as amended by the National Forest Management Act of 1976, (90 Stat. 2949 et seq.; 16 U.S.C. 1601-1614) (hereafter, NFMA).

This final rule will help the Forest Service improve forest planning and on-the-ground management and enable the agency to improve the long-term health of the national forests and grasslands while better meeting the needs of the American people. Consistent with the statutory mission of the Forest Service and applicable federal environmental laws, the final rule emphasizes four key concepts. First, it affirms sustainability as the overall goal for national forest and grassland management in accordance with the Multiple-Use Sustained-Yield Act of 1960 (16 U.S.C. 528 et seq.) (hereafter, MUSYA). Second, it requires extensive cooperation and collaboration with the public and other private and public entities. Third, it integrates science more effectively into the planning and management of national forests and grasslands. Finally, the rule eliminates burdensome analytical requirements that were designed to govern the initial development of land and resource management plans and puts into place a new planning framework that addresses problems, issues, and opportunities identified through collaboration with the public, through monitoring or other scientific analyses, or by other means.

The final rule is grounded in the laws that guide National Forest System management. It also provides for the incorporation of significant new scientific information and other lessons the agency has learned since it began implementing NFMA planning regulations in 1982. Indeed, much has been learned in developing, implementing, and litigating the original national forest and grassland plans and the numerous plan amendments and revisions that have been completed during the past two decades.

Congress created the National Forest System “to improve and protect” federal forests (Act of June 4, 1897, ch. 2, 30 Stat. 34-36). The Forest Service is vested with broad authority to make rules “to regulate [the Forests'] occupancy and use and to preserve the forests therein from destruction” 16 U.S.C. 551.

Sustainability of these lands and resources is the essence of Forest Service land and natural resource management from the very beginnings of the National Forest System. Over a century ago, Congress authorized the President to reserve “public land bearing forests * * * whether of commercial value or not, as public reservations,” Act of March 3, 1891, ch. 561, 26 Stat. 1095, 1103, to protect them from unsustainable uses that had damaged watersheds. Six years later in the Organic Administration Act of 1897, Congress provided further direction and management authority for these forest reserves and reaffirmed its intent to provide for sustainable protection and use of these forest reserves. That law provided for the establishment of forest reserves “to improve and protect the forest within the boundaries, or for the purpose of securing favorable conditions of water flows, and to furnish a continuous supply of timber for the use and necessities of citizens of the United States * * *” 16 U.S.C. 475.

In the MUSYA, Congress again affirmed the application of sustainability to the broad range of resources over which the Forest Service has responsibility. MUSYA confirms the Forest Service's authority to manage the national forests and grasslands “for outdoor recreation, range, timber, watershed, and wildlife and fish purposes” (16 U.S.C. § 528), and does so without limiting the Forest Service's broad discretion in determining the appropriate resource emphasis or levels of use of the lands of each national forest and grassland.

Shortly after the passage of MUSYA, the public was becoming increasingly concerned about environmental decline throughout the United States. Congress responded to this concern by enacting several laws directed toward protecting or improving the natural environment, conserving natural resources to meet the needs of the American people in perpetuity, and providing for greater public involvement in agency decisionmaking. Specifically regarding forest land and resource management, Congress enacted the NFMA (16 U.S.C. 1660(6)), which requires the Forest Service to manage the National Forest System lands according to land and resource management plans that provide for multiple-uses and sustained-yield in accordance with MUSYA (16 U.S.C. 1604(e) and (g)(1)). In developing and maintaining these plans, NFMA calls for “integrated consideration of physical, biological, economic and other sciences.” (16 U.S.C. 1604(b)). As Sen. Humphrey stated, in explaining the significance of the NFMA: “The days have ended when the forest may be viewed only as trees and trees viewed only as timber. The soil and the water, the grasses and the shrubs, the fish and the wildlife, and the beauty that is the forest must become integral parts of resource managers' thinking and actions” (122 Cong Rec. 5618-19 (1976)). Similarly, federal courts have recognized that NFMA and related statutes represent a congressional delegation of broad authority that allows the Forest Service to address issues of sustainability using an integrated ecological and socio-economic framework. See, e.g., Seattle Audubon Society v. Lyons, 871 F. Supp. 1291 (W.D. Wash. 1994) aff'd 80 F.3d 1401 (9th Cir. 1996) * * * “Given the current condition of the forests, there is no way the agencies could comply with the environmental laws without planning on an ecosystem basis.”

NFMA also requires the Secretary to promulgate regulations “that set out the process for the development and revision of the land management plans” for units of the National Forest System, and specifies certain procedures, guidelines and goals that should be discussed in the regulations (16 U.S.C. 1604). NFMA expanded on MUSYA and the Endangered Species Act of 1973 (ESA) authorities by including in the requirements for land use planning broad discretion to provide for “diversity of plant and animal communities” and “to preserve the diversity of tree species similar to that existing in the region controlled by the plan” (16 U.S.C. 1604(g)(3)(B)). Additionally, in response to public concerns regarding the sustainability of certain silvicultural techniques, Congress included several limitations and analytical requirements for timber harvest (16 U.S.C. 1604(g)(3)(D) through (F), (k), and (m)). NFMA also requires the Secretary to appoint a “committee of scientists” to assist in carrying out the task of developing and promulgating regulations in accordance with the purposes of the statute (16 U.S.C. 1604(h)).

Congress enacted the National Environmental Policy Act of 1969 (NEPA) (42 U.S.C. 4321 et seq.), “to promote efforts which will prevent or eliminate damage to the environment and biosphere and stimulate the health and welfare of man, [and] enrich the understanding of the ecological systems and natural resources important to the Nation” (42 U.S.C. 4321). Under NEPA, all Forest Service proposals for major federal actions significantly affecting the quality of the human environment must include detailed statements of the environmental effects and alternatives to proposals (42 U.S.C. 4332(C)). Environmental effects include ecological effects “such as the effects on natural resources and on the components, structures, and functioning of affected ecosystems” (40 CFR 1508.8). NEPA also requires the Forest Service to “initiate and utilize ecological information in the planning and development of resource-oriented projects” (42 U.S.C. 4332(H)).

In addition to NEPA, the ESA also bounds the otherwise broad discretion that the Forest Service has over land and resource management. One of the purposes of the ESA is “to provide a means whereby the ecosystems upon which endangered species and threatened species depend may be conserved . . .” (16 U.S.C. 1531(b)). The ESA requires federal agencies such as the Forest Service to “utilize their authorities in furtherance of the purposes of this [Act] by carrying out programs for the conservation of endangered species and threatened species” in consultation with the U.S. Fish and Wildlife Service and the National Marine Fisheries Service (16 U.S.C. 1536(a)(1)).

The 1982 Planning Rule

In accordance with NFMA's direction to develop regulations regarding the development, maintenance, and revision of land and resource management plans for units of the National Forest System, the Secretary promulgated a rule for implementation of the planning requirements on September 30, 1982 (47 FR 43026), as amended (48 FR 29122, June 24, 1983), and (48 FR 40383, Sep. 7, 1983).¹ The rule is codified at 36 CFR part 219.

¹ The Secretary had initially promulgated these rules in 1979, but no forest plans were ever completed under the 1979 rules. Soon after a new Administration took office, the USDA Assistant Secretary for Natural Resources and Environment withdrew these planning rules and sought to revise them. Such controversy was generated as a result, that the Committee of Scientists involved in the development of the 1979 rules was reconvened and enlisted to work on what eventually became the 1982 planning rules.

Many things have changed since the publication of the 1982 rule. Ideas and concepts, such as sustainability and ecosystem management have become more adequately understood and increasingly more important as human uses of natural resources has grown. The Forest Service has also gained a great deal of experience developing, implementing, amending, and revising the existing 127 land and resource management plans under the rule. The Forest Service is now in the process of revising many of these plans in accordance with NFMA's requirement that plans be revised at least once every 15 years. The agency has also developed innovative new planning tools, such as geographical information systems and is engaged in increased collaboration with the public and other federal agencies, tribes, state government, and other interested groups or persons, and uses independent scientific review more frequently.

The concept of sustainability has become an internationally recognized objective for land and resource stewardship. In 1987, the Brundtland Commission Report (The World Commission on Environment and Development) articulated in “Our Common Future” the need for intergenerational equity in natural resource management. The Commission defined sustainability as meeting the needs of the present without compromising the ability of future generations to meet their own needs. During the last twenty years, the world has increasingly come to recognize that the functioning of ecological systems is a necessary prerequisite for strong productive economies, enduring human communities, and the values people seek from wildlands.

Similarly, the Forest Service and scientific community have developed the concepts of ecosystem management and adaptive management. Scientific advances and improved ecological understanding support an approach under which forests and grasslands are managed as ecosystems rather than focusing solely on single species or commodity output. Indeed, ecosystem management places greater emphasis on assessing and managing broad landscapes and sustaining ecological processes. Ecosystem management focuses on the cumulative effects of activities over time and over larger parts of the landscape. Planning and management under ecosystem management also acknowledge the dynamic nature of ecological systems, the significance of natural processes, and the uncertainty and inherent variability of natural systems. Ecosystem management calls for more effective monitoring of management actions and their effects to facilitate adaptive management, which encourages changes in management emphasis and direction as new, scientific information is developed. In accord with ecosystem management, regional ecosystem assessments have become the foundation for more comprehensive planning, sometimes involving multiple forests and other public land management units. The Northwest Forest Plan, for example, affects 17 national forests and 6 BLM districts in a three-state region. The Interior Columbia Basin Ecosystem Project encompasses 25 percent of the entire National Forest System and ten percent of the public lands administered by the BLM nationwide.

In the last 20 years, the number of federal, state and local agencies, Tribes, members of the public, and interested groups wanting to be involved in planning decisions and share stewardship responsibilities has skyrocketed. In many cases, Forest Service personnel have been able to learn significant information, create new understanding, build trust, obtain new resources for implementation and monitoring, and diffuse potential conflicts by engaging these parties more effectively in the planning process through collaboration. While collaborative approaches do not end conflict or necessarily result in consensus, by engaging people and identifying key issues early in the process, they enable the Forest Service to make better decisions and to manage conflict more effectively. Similarly, the Forest Service has learned that independent scientific and public review can greatly enhance the credibility of planning and validate the soundness of stewardship decisions and the reality of achievements.

Taken together, ecosystem management, scientific reviews, and collaboration enable the Forest Service to identify key scientific and public issues and to target its limited resources on trying to resolve those issues at the most appropriate time and geographic scale. Based on these changes in the state of scientific and technical knowledge, the Forest Service's extensive experience, and a series of systematic reviews, the Forest Service has concluded that 36 CFR part 219 must be revised in order to better reflect current knowledge and practices and to better meet the conservation challenges of the future. Indeed, while the 1982 planning rule was appropriate for developing the first round of plans from scratch, it is no longer well suited for implementing the NFMA or responding to the ecological, social, and economic issues currently facing the national forests and grasslands.

The Forest Service has undertaken two systematic reviews of the planning process mandated by the 1982 rules. The first began in 1989, when it conducted a comprehensive review of its land management planning process in cooperation with the Conservation Foundation and Purdue University's Department of Forestry and Natural Resources. The results of this review are documented in a summary report, Synthesis of the Critique of Land Management Planning, Volume One and ten accompanying detailed reports. Based in part on this review, the Forest Service published an Advance Notice of Proposed Rulemaking (56 FR 6508, Feb. 15, 1991) regarding possible revisions to the 1982 planning rule. The agency conducted four public meetings to explain and discuss ideas for revising the planning rule; and received comments from over 600 individuals and groups. These comments were used in the development of a proposed rule published on April 13, 1995 (60 FR 18886). However, due to comments received on the 1995 proposed rule and lessons learned from experiences in developing the Northwest Forest Plan, regional assessments, and other regional ecosystem management strategies, the Secretary elected not to proceed with that proposal.

The second systematic review was undertaken in December 1997, when the Secretary of Agriculture convened a 13-member Committee of Scientists to review the Forest Service planning process and offer recommendations for improvements within the statutory mission of the Forest Service and the established framework of environmental laws. The members of this Committee of Scientists represented a diversity of views, backgrounds, and academic expertise. The Committee's charter was to “provide scientific and technical advice to the Secretary of Agriculture and the Chief of the Forest Service on improvements that can be made in the National Forest System Land and Resource Management Planning Process and to address such topics as how to consider the following in land and resource management plans: biological diversity, use of ecosystem assessments in land and resource management planning, spatial and temporal scales for planning, public participation processes, sustainable forestry, interdisciplinary analysis, and any other issues that the Committee identifies that should be addressed in revised planning regulations.” The Committee was also asked to recommend improvements in Forest Service coordination with other federal, state, and local agencies, and tribal governments while recognizing the unique roles and responsibilities of each agency in the planning process.

The Committee held more than 20 publicly noticed meetings and teleconferences across the country and heard from Forest Service employees, representatives of tribes, state and local governments and other federal agencies, members of the public, former Chiefs of the Forest Service, and members of the original Committee of Scientists regarding their concerns and ideas about the current planning process and the current management of national forests and grasslands.

Following these meetings, the Committee of Scientists issued a final report on March 15, 1999, entitled Sustaining the People's Lands. The Committee found that, through careful management, National Forest System lands can continue to provide many diverse benefits to the American people in perpetuity. These benefits include clean air and water, productive soils, biological diversity, a wide variety of products and services, employment, community development opportunities, and recreation. The Committee recognized that many Forest Service managers have developed innovative ways to commingle science and collaborative public processes to improve land management decisions, and that these innovative strategies provided a good starting point for developing a more integrated, long-lasting, and flexible planning framework. The Committee concluded that the Forest Service can improve its planning and decisionmaking by relying on the concepts and principles of sustainable natural resource stewardship; by applying the best available scientific knowledge to management choices; and by effectively collaborating with a broad array of citizens, other public servants, and governmental and private entities. Accordingly, the Committee recommended a planning framework that would provide flexibility in dealing with a multitude of resource issues at various scales across the landscape and would require managers to integrate public collaboration and science to identify desirable outcomes and promote sustainable management. It also recommended use of adaptive practices, monitoring, performance measures, and budgeting strategies.

Based on scientific advances in forestry, forest management and range science, the 1990 Critique of land and resource management planning and the Committee of Scientists' findings and recommendations as contained in its 1999 report, the various laws and regulations that guide National Forest System planning and management, and over 17 years of experience in developing and implementing the existing 127 land and resource management plans, a team of Forest Service employees from national, regional, and local offices, aided by an interagency steering committee, prepared the October 5, 1999, proposed rule to comprehensively revise the land and resource management planning regulation at 36 CFR part 219 (60 FR 18886 Oct. 5, 1999).

Summary of Public Comment

In addition to the meetings held by the Committee of Scientists, the Forest Service conducted more than twenty public town meetings to solicit input on the proposed rule. At many of the locations, the Forest Service also conducted meetings with representatives from Tribes, state and local governments, and other federal agencies. The agency held town meetings in both rural and urban communities across the country, at the following locations:

St. Louis, MO—Tuesday, October 26, 1999

Hanover, NH—Tuesday, October 26, 1999

Duluth, MN—Thursday, October 28, 1999

Olympia, WA—Tuesday, November 2, 1999

Boise, ID—Monday, November 1, 1999

Juneau, AK—Thursday, November 4, 1999

Salem, OR—Thursday, November 4, 1999

Casper, WY—Tuesday, November 9, 1999

Reno, NV—Wednesday, November 10, 1999

Los Angeles, CA—Saturday, November 13, 1999

Denver, CO—Saturday, November 13, 1999

Little Rock, AR—Tuesday, November 16, 1999

Bozeman, MT—Tuesday, November 16, 1999

Jackson, MS—Thursday, November 18, 1999

Missoula, MT—Thursday, November 18, 1999

Coeur d'Alene, ID—Saturday, November 20, 1999

Montrose, CO—Tuesday, November 30, 1999

Grayling, MI—Wednesday, December 1, 1999

Albuquerque, NM—Thursday, December 2, 1999

Asheville, NC—Saturday, December 4, 1999

Salt Lake, UT—Tuesday, December 7, 1999

Sacramento, CA—Thursday, December 9, 1999

Phoenix, AZ—Thursday, December 9, 1999

Approximately 1339 people attended the public meetings. The public comment period on the proposed rule closed on January 3, 2000, but was subsequently extended to February 10, 2000. Some 10,489 persons or entities submitted written comments on the proposed rule. The respondents consisted of a wide array of individuals, businesses, government agencies, and organizations. Most respondents agreed that the planning regulations needed to be revised and supported the objectives that the Forest Service proposed, but provided numerous comments on how to better achieve those objectives.

Today's Final Rule

Today's final rule will help the Forest Service improve forest planning and on-the-ground management and enable the agency to improve the long-term health of the national forests and grasslands while better meeting the needs of the American people. The final rule affirms ecological, social, and economic sustainability as the overall goal for managing the National Forest System lands and makes the maintenance and restoration of ecological sustainability a first priority for management of the national forests and grasslands so these lands can contribute to economic and social sustainability by providing a sustainable flow of uses, values, products, and services.

The final rule published here today also is designed to facilitate greater public collaboration in all phases of the planning process. The rule expands on existing requirements for collaboration to expand management choices, create new understanding, build trust, obtain new resources for implementation and monitoring, manage conflict more productively, and more fully informed decisionmaking to ensure the long-term sustainability of the multiple resources of national forests and grasslands. The rule encourages land managers to more actively engage the American people, other federal, state and local agencies, Tribes, and interested groups in the planning and management of the national forests and grasslands. In collaborative settings that provide opportunities for early, open, and frequent public involvement, responsible Forest Service officials will play many roles, including serving as process conveners, facilitators, leaders, participants, and decision makers, as appropriate.

The final rule creates opportunities for people, communities, and organizations to work together in the identification of key issues, discussions of opportunities for contributing to sustainability, and development and promotion of landscape goals. Indeed, under the rule, improvements to management practices would be made based upon cooperatively developed landscape goals and other issues which can emerge from a variety of sources such as collaboration, monitoring, evaluation, broad-scale assessments, local analyses, new laws and policies, or simply from discussions among interested persons. The proposed regulation would encourage the public to be involved in identifying concerns and problems, considering available information, assessing current conditions, and identifying potential solutions even before a proposal for agency action is written. This early public involvement would make more information available to the public, enhance its ability to participate in the process, and lead to better communication about expectations and outcomes. To further enhance the collaborative process, advisory committees could be used to assist the responsible official in determining whether there is a reasonable basis for proposing an action to address an issue.

Additionally, the final rule would replace the post-decision appeal process with a pre-decisional objection process. The objection process would only apply to forest and grassland plan revisions and amendments. Under a pre-decisional objection process, a person could object to a pending decision before the agency makes a final decision, a process very similar to the protest procedures now in effect in the Bureau of Land Management. The intent is to provide the reviewing official with an opportunity to work more closely with the responsible official and those filing objections to resolve the objections before a decision is made. A pre-decisional objection process also will enhance interagency collaboration by standardizing objection procedures and will provide incentives to work out substantive differences rather than focus on procedural errors.

The emphasis on collaboration is consistent with direction provided in NFMA and other statutes guiding land and resource management and in concert with the underlying philosophy of national forest management. As reflected in guidance provided by Gifford Pinchot in the first Forest Service administrative manual, Uses of the National Forests (1907), “National Forests are made for and owned by the people. They should also be managed by the people * * * If National Forests are going to accomplish anything worthwhile the people must know all about them and must take a very active part in their management. What the people as a whole want, will be done. To do it, it is necessary that the people carefully consider and plainly state just what they want and then take a very active part in seeing that they get it.”

Another key element in the final rule is greater emphasis on the use of science in planning. The final rule requires the use of the best available science to give the Forest Service and the people, communities, and organizations involved in the planning process sound information on which to make recommendations about the resource conditions and outcomes they desire. The final rule incorporates science in the planning and decisionmaking process in a number of ways.

First, the rule recognizes the lessons learned in recent years about developing and analyzing information at the regional ecosystem level. Regional ecosystem assessments have proven to be an extremely valuable and efficient means of understanding the scientific, ecological, social, and economic issues and trends affecting national forests and grasslands and generating baseline data for use in planning and decisionmaking.

Second, consistent with the 1990 Critique and the Committee of Scientists report, the final rule emphasizes monitoring and evaluation of resource conditions and trends over time so that management can be adapted as conditions change. Specifically, the required monitoring and evaluation will assist in determining if desired outcomes are being achieved and how to adapt if they are not. This emphasis is in keeping with NFMA's direction to ensure research on evaluation of the effects of each management system, based on continuous monitoring and assessment in the field, to the end that it will not produce substantial and permanent impairment of the productivity of the land (16 U.S.C. 1604(g)(3)(C)). As noted by the Committee of Scientists, “Monitoring is a key component of planning * * * Monitoring procedures need to be incorporated into planning procedures and should be designed to be part of the information used to inform decisions. Adaptive management and learning are not possible without effective monitoring of actual consequences from management activities.”

Third, the final rule provides for the establishment of science advisory boards to improve decision makers' and planners' access to current scientific information and analysis. It also provides for an independent scientific review of the effectiveness of land management plans in meeting the goal of sustainability during the revision process, and, when appropriate, science consistency evaluations to determine whether the planning process is consistent with the best available science. As the Committee of Scientists observed, “To ensure public trust and support innovation, scientific and technical review processes need to become essential elements of management and stewardship * * * The more that conservation strategies and management actions are based on scientific findings and analysis, the greater the need for an ongoing process to ensure that the most current and complete scientific and technical knowledge is used.”

Fourth, the proposed rule affirms the Forest Service's commitment to the viability of all species in accordance with the NFMA requirement to provide for the diversity of plant and animal communities and recognizes the unique contributions national forest and grassland stewardship can make in maintaining species viability. At the same time, the rule recognizes the limits of our scientific understanding and financial and technical capability to conduct viability assessments. To assess the viability of appropriate species of flora and fauna, the rule calls for the use of focal species as indicators of ecological conditions and the best available science and information, including professional opinion and the principles of conservation biology.

Finally, the final rule provides a planning framework that facilitates the identification and responsive resolution to emerging problems. The final rule simplifies required planning steps to enable responsible officials to more readily address emerging issues than is possible under the 1982 rule. For example, the final rule would clarify that, where appropriate, multiple planning activities of one or more national forests or grasslands can be combined along administrative boundaries. Additionally, current requirements for detailed analyses, such as those required for benchmark analyses, would be streamlined or eliminated. Moreover, planning would be done at the most appropriate scale in order to address key issues, and forest and grassland plans and projects would use the same planning framework. The final rule also allows the steps in the planning framework to be coordinated with the scoping requirements under the Forest Service NEPA procedures when appropriate. This will reduce duplication in the preparation of environmental documents associated with management of the National Forest System.

In summary, the final rule will enable the Forest Service to make better decisions about the National Forest System and guide Forest Service planning and management clearly and effectively well into the 21st Century. Grounded in law and experience, the final rule affirms sustainability as the overall goal for national forest and grassland management, requires greater cooperation and collaboration with the public and other private and public entities, and more effectively integrates science into Forest Service planning and management. At the same time, the rule also includes the essential features of National Forest System planning that Chief Gifford Pinchot established almost a century ago and that the Forest Service has used throughout the history of the agency. These features include detailed inventories, monitoring of forest conditions, determination of sustainable levels of uses, and exclusion of uses, where necessary, to protect watershed and other resources (1906 Use Book).

Response to General Comments

Many of the comments received did not address specific sections of the proposed rule, but were more general in nature. These comments and responses are summarized below.

Comment: Committee of Scientists Report. A common concern involved the incorporation of the Committee of Scientists' report findings into the proposed planning rule. Some people felt recommendations in the Committee of Scientists report should lay the groundwork for management and guide future management actions. Others, however, believed this report should be subject to peer review by other qualified science professionals. Additionally, some people proposed that the Committee of Scientists' report be open to public scrutiny, requiring public meetings and a public comment period for review of the report. Other respondents suggested that the proposed planning rule include the names and qualifications of the Committee of Scientists' members.

Response: The Committee of Scientists, established by the Secretary of Agriculture under the Federal Advisory Committee Act, represented a spectrum of disciplines and views related to planning for the National Forest System. While formal, scientific peer review of the recommendations of the Committee was not undertaken, the process used in the development of the Committee's report provided for external review and comment. In developing its recommendations, the Committee utilized a very open, deliberative process which included open public meetings, an internet web site accessible to the public which contained its working drafts and related papers, and public meetings. The names and qualifications of the members of the Committee are listed in the report and available on the Committee's web site (www.cof.orst.edu/org/scicomm).

Comment: National Forest Management Act requirements. Many reviewers said that the proposed rule did not clearly identify how it complied with NFMA requirements. These reviewers felt that the intent of NFMA can be realized without revising the current land and resource management planning process.

Response: The preamble of the proposed rule described how the planning rule complied with specific sections of NFMA and reasons for revising the existing planning regulations.

Comment: Need for revising the existing rule. According to several respondents, the Forest Service should demonstrate the need for revising the existing planning rule. In particular, some believed that the length of time the existing rule has been in effect is not justification for implementing a new rule. Others argued that the existing system already fulfills NFMA and NEPA requirements and that some individual forest plans are very effective, and there is no reason for changing the process. Several people argued that the proposed rule does not address deficiencies in the existing rule. The Forest Service should document the inadequacies inherent in the existing planning process. Some commenters asserted that the existing rule should be improved before a new planning rule is implemented.

Response: This comment has previously been addressed in the preamble of the proposed rule and in this final rule document.

Comment: Public trust and credibility. Many respondents expressed concerns regarding the purpose of the proposed planning rule. Some felt the primary objective of the planning process was to establish public trust and credibility. They believed that the trust in Forest Service structure and management was waning and recommended that the agency take steps to rectify this. In addition, the Forest Service should assume the leadership role in the effort to ensure healthy forests.

Response: The Department of Agriculture (Department) is concerned with the lack of trust expressed about the Forest Service by the respondents. The revised planning process is designed to encourage effective communication and cooperation among diverse national forest and grassland users. The Forest Service will continue to participate with others indeveloping management strategies to conserve healthy forests and grasslands.

Comment: Discretionary authority. Some reviewers were concerned that the proposed regulations would broaden the discretionary power of Forest Service officials. These individuals asserted that the current discretionary authority of the Forest Service has resulted in increased litigation. They were concerned that further increase in authority could result in additional appeals and lawsuits.

Response: The Department does not agree with the comment that increased discretion creates increased litigation. Increased discretionary authority may provide the needed flexibility to craft appropriate solutions to complex natural resource issues acceptable to a wide variety of interests. It has been the experience of the Forest Service and others that inflexible policies are often the genesis of misunderstandings and eventual litigation. The planning rule is intended to improve opportunities to collaborate with a wide variety of people and reach well-reasoned and sustainable solutions to natural resource issues.

Comment: Statutory authority. Many public comments focused on the statutory authority for the proposed planning rule stating that the proposed rule should both recognize and comply with existing laws. Some people felt that the proposed rule provided improved integration of environmental laws and regulations; while, others said that the proposed rule goes beyond legal limitations and that only Congress can make such changes in national policy.

Response: The Department agrees that the planning rule improves the integration of current laws and recognizes it as consistent with the laws that guide all Forest Service activities. A full discussion related to this concern is addressed in this preamble under the heading statutory authority.

Comment: Public Lands Planning and Management Improvement Act. Some reviewers noted that the Public Lands Planning and Management Improvement Act (PLPMIA) offered provisions for meeting human and wildlife needs. They felt that act should be used to help streamline the management process, resolve contradictory laws, and modernize the land management laws.

Response: The Congress is considering the proposed legislation, but it is not law and therefore does not apply. Moreover, the Department believes human and wildlife needs are adequately represented in the final planning rule, see sections 219.20 and 219.21, and the management process is streamlined.

Comment: Conflicts over values. In the words of one respondent, “Most of the crises that beset the Forest Service since the age of environmentalism have concerned conflicts over values, not individual land use decisions.” Value conflicts can only be resolved through effective policymaking, this person contended, and the Forest Service's policymaking efforts are in need of improvement.

Response: The planning framework outlined in the regulation is intended to provide a flexible mechanism to identify and solve issues before they mature into intractable problems pitting people against one another, rather than seeking mutually beneficial results. There is no intention to diminish the importance of the values people possess with regard to the use and enjoyment of national forests and grasslands. Better policies are the result of people working together to solve common problems.

Comment: Analysis of prior appeals. Some respondents suggested that the Forest Service address prior appeals against Forest Service decisions as part of the proposed planning rule. They believed that interviews with people who filed appeals should be incorporated into the planning process.

Response: Appeals and the concerns of national forest and grassland users were considered in development of the planning rule. The team that developed the proposed regulation and response to public comment based their work on years of experience in addressing the concerns of interested citizens. The increased emphasis that the planning rule places on collaboration is a direct response to improve working relationships among interested citizens.

Comment: Vested water rights. Some respondents are concerned that discretionary authority granted to forest planners in the proposed planning rule may override states' water rights. They asserted that no law allows ecological needs to surpass vested state water rights.

Response: The planning regulation does not override existing water rights adjudication procedures.

Comment: Selling the national forests. One person suggested that the Forest Service sell some of the national forest land back to United States citizens in order to generate tax revenue.

Response: This rule addresses management of lands in public ownership. Planning conducted in accordance with this rule may address land ownership adjustment needs where that is an issue. It is beyond the authority of the Secretary of Agriculture to sell national forests and grasslands to generate tax revenue.

Comment: Civil rights analysis. One reviewer asked if the proposed rule would require a civil rights impact analysis, as required by Departmental Regulation 4300-4, “since the rule will affect various publics.”

Response: A civil rights impact analysis has been prepared and is available upon request from the person listed at the beginning of this final rulemaking document under FOR FURTHER INFORMATION CONTACT. The analysis describes the increased opportunities many people will have to become engaged in National Forest System planning under the new rule. It concludes that “no adverse civil rights impacts are anticipated on the delivery of benefits or other program outcomes on an underrepresented population, to U.S. populations or communities, or employees of USDA on a national level.”

Comment: General clarity. Many comments reflected a need to reevaluate the clarity of the language used in the proposed planning rule. Many contended the general comprehensibility of the language needed to be improved to allow the public to better understand the concepts of the rule. Many of the respondents felt that the document was too verbose and redundant to understand. Further, some people argued that the proposed rule was too complex for most citizens to comprehend. In addition, some contended that the format of the proposed rule inundated the reader with a multitude of long and tedious subdivisions, which made the document difficult to follow.

Response: The Department has made a genuine effort to simplify the language of the final rule. The length of the text has been reduced, and several technical terms (e.g. ecological integrity and watershed integrity) have been eliminated to improve readability. The text about sustainability has been rearranged to combine analysis requirements related to sustainability with other analysis requirements. In addition, the goals and principles are simplified in the final rule.

Comment: Discretionary versus compulsory direction. Many people indicated that the language of the proposed planning rule was too discretionary. Words like “should” and “may,” many believed, should be replaced with more definitive wording such as “shall” or “must.” These respondents asserted that the nebulous nature of the rule would weaken its enforceability. By contrast, others said that the proposed regulation had too many “must” and “shall” statements and would, therefore, be impossible to implement because of all the restrictions imposed.

Response: The Department has carefully considered which provisions of the final planning regulation should be discretionary versus compulsory direction and the use of this language should not be viewed as either increasing or decreasing the importance of the planning procedures in developing sound solutions to natural resource issues. The final rule does not contain any “shall” statements.

Section-by-Section Response to Public Comments

The majority of comments addressed specific sections of the proposed rule. These comments and responses are summarized below.

Purpose, Goals, and Principles

In the proposed rule this chapter is named “Purpose, Goals, and Principles.” In the final rule, it is shortened to “ Purpose and Principles.” Revisions were made to clarify and simplify language in the final rule.

Proposed Section 219.1—Purpose. This section described the purpose of the proposed rule. The proposed rule guides planning efforts toward the overall goal of sustainability. Purposes are to: (1) Guide stewardship; (2) set forth a process for amending and revising plans and for monitoring plan implementation; and (3) guide selection and implementation of site-specific actions. The national forests were set aside and protected from exploitation to embrace, as a matter of national policy, a system of sustainable forest reserves to protect water resources and ensure a continuous supply of timber for benefit of the American public. The proposed rule incorporated language recommended by the Committee of Scientists (see Chapter 8, “Sustaining the People's Lands”).

Comment: Ecological Sustainability and Compliance with the Multiple-Use Sustained-Yield Act of 1960 and the Organic Administration Act. Many respondents felt that the agency erred in placing ecological sustainability as the first priority. They felt that the agency was ignoring its legislative mandates for multiple-use and had slighted the importance of humans and their needs in the management of National Forest System lands.

According to some respondents, changing the emphasis of planning to ecological sustainability would virtually make it impossible to comply with the MUSYA. They were concerned that the MUSYA requirement, to ensure a continued supply of products and services in perpetuity, would be jeopardized. Additional public comments expressed concern that provisions of the Organic Administration Act of 1897 could not be achieved with ecological sustainability as the primary objective.

Response: The proposed rule's focus on sustaining ecosystems is fully compatible with the Forest Service's underlying statutes. In order to ensure that the multiple-uses can be sustained in perpetuity, decisions must be made with sustainability as the overall guiding principle. Ecological sustainability lays a necessary foundation for national forests and grasslands to contribute to the economic and social needs of citizens. Without first maintaining, and where appropriate restoring, ecologically sustainable systems the productivity of the land for various social and economic uses could be impaired, therefore, planning for multiple-use, sustained-yield management of national forest and grasslands must operate within a baseline level that ensures the sustainability of ecological systems. Although some respondents perceived a conflict between emphasis on sustainable ecosystems and legislative mandates, the Department does not believe this is true. Instead, the Department sees ecological sustainability not only as a complement to multiple-use, sustained-yield management, but also as a prerequisite for it.

It is the Department's view that the rule is consistent with the Forest Service's conservation and legislative mandates. Contrary to some comments received, the proposed rule did not change the overarching purpose for planning. Rather, it affirmed the direction in the MUSYA. As used in the final rule, sustainability embodies the congressional mandates of multiple-use and sustained-yield without impairing the productivity of the land. In the final rule, sustainability is described as comprising three intricately linked elements that integrate the ecological, social, and economic aspects of our world. It is virtually impossible to separate one element from the other.

For example, without a sound social and economic system in place, people are more likely to over-exploit the natural world to meet basic human needs. At the same time, ecological resources constitute the foundation upon which our ability to meet other needs ultimately rests. Ecological elements are the capital, the investment in our future. Sustainability provides for meeting needs of the present generation without compromising the ability of future generations to meet their needs. In response to public comment, language is added at the end of section 219.1 of the final rule to clarify the relationship among ecological, social, and economic sustainability.

Under the Organic Administration Act of 1897, the forest reserves were set aside and protected from exploitation, with the intention to embrace a system of sustainable forest reserves that would protect water resources and ensure a continuous supply of timber for the benefit of the American public. As the U.S. population grows and the environmental consequences of human activities are better understood, it is not only logical, but it is imperative that knowledge and skills are applied to ensure the sustainable, continuous use and enjoyment of our natural resource legacy as described in the Organic Administration Act.

Ecological sustainability has always been the linchpin of managing national forests and grasslands. The final rule provides for progressively improving the understanding of how to achieve sustainable use and enjoyment of the National Forest System through monitoring results and effective engagement of scientific knowledge and the skills and interests of citizens, elected officials, and others. The increased use of national forests and grasslands requires increased knowledge and understanding of sustainable multiple-uses. If the ecological basis of the national forests and grasslands is compromised in providing products, services uses, and values, then a “continuous supply of products and services” will not be achieved in “perpetuity” as required by MUSYA.

Proposed Section 219.2—Goals and principles for planning. This section of the proposed rule identified five major goals for land and resource management planning, with each goal having a set of supporting principles. In the final rule, this section has been renamed “Principles.”

Comment: Quantifiable information. Many believed the proposed planning rule should include objective and quantifiable information. In particular, some respondents recommended that the proposed planning rule provide statistical data to support the need for the plan revisions. They felt that access to quantifiable information could allow the public to offer more informed comments. Others suggested that the proposed rule include measures to assess goal achievement in forest planning. One respondent contended that beauty and inspiration are too subjective to use as points of consideration in land resource and management planning.

Response: A premise of the final rule is science-based decisionmaking, including use of the best available information. Sections 219.5, 219.20, and 219.21 in the final rule describe appropriate assessments and analyses needed prior to proposing a site-specific action or a plan amendment or revision. The rule also stresses the development and implementation of monitoring strategies to use in evaluating plan implementation and achievement of sustainability (section 219.11). The development of both qualitative and quantitative information described in the planning rule will improve the overall understanding and sustainable use of the National Forest System.

Comment: Sampling interested parties to determine resource objectives. Developing, achieving, and evaluating planning goals and objectives elicited a number of comments. One recreational organization recommended that the Forest Service survey a random sample of parties interested in National Forest System lands when determining specific resource objectives. They suggested by using a random sampling scheme, the agency could assure that all interests have an opportunity to provide input in the planning process.

Response: The final rule does not require specific tools or analytical approaches to sampling user preferences. The information and analysis described in section 219.21 may be obtained through sampling in appropriate circumstances. The rule also provides opportunities for interested and affected people to participate in planning for the use and enjoyment of their national forests and grasslands. While sampling methods may prove useful for many tasks, the Department believes it is imperative that people participate with Forest Service personnel in planning.

Comment: Long-term planning. Several respondents suggested that the proposed planning rule emphasize long-term planning. These people felt that long-term forest health should take precedence over short-term economic gains by resource extraction companies.

Response: While the planning rule does not set forth specific short-term versus long-term standards, the planning rule is designed to ensure that short-term uses do not damage or otherwise harm the long-term sustainability of each national forest and grassland.

Comment: Ecological values. Some respondents believed that ecological values should be defined as intrinsic goals rather than constraints. The conservation of ecological values was important for many who recommended that the proposed planning rule be used as a guide in preserving national forests. They expressed concern that the increasing human population will ultimately encroach on the few natural places left. They asserted preservation of National Forest System lands to offset this loss is imperative.

Response: The final planning rule states that the first priority for stewardship of the national forests and grasslands is to maintain or restore ecological sustainability. If the preservation of a unit of land is necessary to ensure long-term sustainability, that decision would be made through the planning process in a plan amendment or revision receiving full public review and comment within the Forest Service NEPA procedures.

Comment: Balancing economic and social needs. Several people expressed the belief that balancing economic and social needs should be a priority in national forest planning. Specifically, one person suggested that balancing selective logging practices, road maintenance, and access to national forest lands is crucial for successful forest management. Others recommended that the proposed rule's effects on industries and communities be evaluated prior to implementation.

Response: Balancing the production of multiple values, uses, products, and services from each national forest and grassland is a continual process achieved through collaboration and planning. The planning rule is intended to enhance collaboration and the balancing of social and economic needs in a sustainable environment. A cost-benefit analysis was done for the planning rule and is available. Regulatory implications are discussed later in this preamble.

Comment: Restricting corporate industry. Some respondents felt that restricting corporate industry use of national forests and grasslands should be a priority in planning. Respondents contended that, relatively speaking, large corporations pose greater detrimental impacts to national forests than do recreational users. The Forest Service should focus on improving and maintaining forests, rather than, as one person commented, “catering to degrading commercial ventures.” In contrast, others felt that the restoration of ecosystems as a guiding principle is not a valid, achievable planning goal.

Response: The Department believes that it is appropriate for both large corporations as well as small companies to have an active role in the management and stewardship of national forests and grasslands. In the planning rule, no group is provided an unfair advantage or disadvantage in securing use or access to natural resources.

Comment: Balancing the world's resource needs. Other respondents asserted that Forest Service's mission statement should include balancing the world's resource needs. “With both balance and agreement, the Forest Service can once again be the world's leader in land and natural resource management,” they contended. Some citizens feared the scope of the proposed planning effort might make the United States dependent on other countries for raw materials. “Since we have some of the best environmental laws to deal with,” they write, “it makes little sense globally to obtain raw materials from countries who do not have adequate restrictions.”

Response: As described in the NFMA, the Forest Service * * * “has both a responsibility and an opportunity to be a leader in assuring that the Nation maintains a natural resource conservation posture that will meet the requirements of our people in perpetuity.” Regarding the global nature of today's world, it is certainly appropriate to consider the resource needs, uses, and practices of our national trading partners and others. The planning rule sets the stage for the wise, sustained use of the national forests and grasslands, and provides a link to national level planning, though which national policy makers can consider methods to improve the production and use of renewable natural resources in the United States and elsewhere.

Comment: Limiting planning to smaller areas. Some people felt that forest plans should be directed toward unit-sized planning efforts. These respondents believed that keeping planning limited to smaller areas ensures greater understanding by both the public and forest managers.

Response: The planning regulations provide for adjusting the boundaries of planning based on the scope and scale of issues addressed. In many places, planning and involvement with the public will take place in areas smaller than a national forest or grassland. Only in the revision process is it required that the entire national forest or grassland be considered. Even in that circumstance, decisions may be made that apply only to geographic areas within or among administrative units.

Other changes. In the final rule, this section has been reorganized and restructured for clarity and readability. Goal statements have been removed from this section in the final rule to prevent confusion with the term “goal” used in other contexts. Much of the text in the proposed rule provided background information regarding the principles of planning. The final rule provides more of an outline format to specifically highlight six planning principles and their key characteristics.

Paragraph (a) of the proposed rule provided that “planning must be directed toward assuring the ecological sustainability of our watersheds, forests, and rangelands.” The final rule has added language to maintain or restore the ecological sustainability of national forests and grasslands. This change is made to recognize the importance of “restoration” of national forest and grasslands.

Paragraph (a)(2) in the final rule provides that “scientifically based strategies for sustainability” benefit from independent scientific review. This change was made to this section from the proposed rule to acknowledge the importance of independent scientific review in this new planning structure.

The Framework for Planning

Proposed Section 219.3—Overview. This section of the proposed rule described the overall framework for planning, the levels of planning and decisionmaking, and the key elements of the planning framework.

Comment: Clarification of the planning framework. Many respondents felt that the planning framework needs more specific guidance and requirements. Claiming that the framework will not assure consistency between different units of the National Forest System, some people recommended that the planning rule include uniform guidance applicable to each national forest and grassland. Other respondents asserted that the objectives of the framework are too vague and should include specific objectives for planning. Many people believed the planning rule inadequately addresses standards and guidelines that they think could result in a lack of agency accountability, inability to achieve planning goals, and inadequate protection of the environment. Some of these respondents suggested maintaining the minimum management requirements of the current rule. Others recommended including specific and enforceable standards and guidelines in the proposed planning rule, while some asked that these types of standards be established in individual national forest and grassland plans.

Response: The Department believes that less specific planning guidance is needed after almost two decades of experience implementing NFMA. The planning process included in the final rule is essentially unchanged from the proposed rule, and provides a flexible process that is responsive to issues associated with current conditions and experience with implementing the current plan. Standards required in all plans are addressed in section 219.7. Plan requirements for ecological sustainability are found in section 219.20(b).

Comment: Decisionmaking authority. Some respondents felt that the Forest Service is attempting to avoid its responsibility by emphasizing collaborative processes and recommended that the planning rule should further emphasize the agency's decisionmaking responsibility. Other respondents requested clarification on decisionmaking. They suggested that the planning rule describe national level planning processes as well as decisionmaking authority on multi-forest or regional projects. Other respondents expressed general concern regarding the implementation of the proposed rule and recommended making trial runs on a few forest plans before implementing the changes system-wide.

Response: It is the responsibility of the Forest Service to encourage involvement with the public in the management of the public's lands. The Forest Service is redeeming this responsibility by providing for early involvement and collaboration through the planning framework. Instead of working in an isolated environment, the agency will openly address the issues confronting the national forests and grasslands, enlisting the assistance of interested and affected parties through expanded public involvement and collaboration. The intent is to foster a good faith effort to reach resolution on agreed upon problems before final decisions are made, and to hopefully reduce the level of costly lawsuits. However, the definition of “responsible official” makes it clear that this individual and the Forest Service have the authority and responsibility to oversee the planning process and make decisions on proposed actions.

Linkage to the national strategic plan has been added or clarified in several places in the final rule, including section 219.3(b). Multiple-forest and regional decisions are also addressed in this section.

Comment: Local-level planning and decisionmaking. Several respondents felt that the planning rule should emphasize local-level planning and decisionmaking, while others believed the proposed rule places too much responsibility at the local level. Some of the people favored increased focus and responsibility at the local level contended that the proposed rule's provisions not only are costly and inefficient, but also allow senior Forest Service authorities to undermine local decisions and planning efforts. Such actions, they contended, will alienate the public. These respondents suggested that the final rule limit national and regional level planning and decisionmaking. Other people who support a local level focus believed that local Forest Service officials are more knowledgeable about their specific forest or grassland than national officials and therefore are able to make better planning decisions. These respondents recommended increasing the decisionmaking authority of local agency officials. In contrast to these views, some respondents believed the proposed rule would place excessive authority at the local level. These people primarily felt that either additional requirements or higher levels of oversight were necessary to ensure consistency in planning among national forests or grasslands. Several of these respondents recommended that the proposed rule provide specific rules and guidelines for Forest Supervisors, while others suggested that the proposed rule maintain requirements for regional guidance and oversight.

Response: Fundamental to this rule is the notion that there is a hierarchy of scale to be considered when addressing resource management issues, and that it is the nature of the issue that guides the selection of the appropriate scale and level of the organization to address it. By not tying decisionmaking authority to a specific organizational position, the Department is promoting flexibility to do what makes sense for the issues ripe for consideration. The National Forest or Grassland Supervisor is the person most familiar with the resources and publics interested in his or her forest or grassland, and often the most appropriate to make decisions affecting those lands.

The rule should not be interpreted as excluding higher-level officials from decisions made at the forest and grassland level. If an issue warrants higher-level study and decisionmaking, such tasks can be undertaken. Also, through the objection process (section 219.32) the higher-level officials actually join the problem-solving process before an administrative decision is adopted. Advisory committees (section 219.18) provide yet another source of input to local decisionmaking.

Comment: Adequacy of funding. Many respondents felt that the implementation of the proposed planning process will require significant additional resources. They asserted that funding, staffing, and equipment needs will make the proposed planning processes prohibitively expensive. Several respondents believed that the proposed rule would restrict needed planning proposals based on inadequate funding. “Plans should identify necessary actions even if adequate funding does not exist,” wrote one organization. More specifically, other respondents focused more on funding for particular management actions. One such person suggested that the proposed rule address funding to mitigate potential damage from forest management activities.

Response: The Department believes that, rather than requiring significant additional resources, the planning framework, as adopted in the final rule, will put more resource earlier in the planning process and require less at the end of the process. This will shift the planning process from one of confrontation to collaboration. The scope of the planning effort will also be more focused on the issues selected for evaluation.

While funding of planning and projects remains an item under the prerogative of Congress, the Department hopes that Congress will support projects built using this collaborative process. In addition, the revised rule will promote a closer link to the budget process through requirements for ongoing consideration of budgetary information (section 219.30). By evaluating the alternatives at the current or likely budgets, while considering other spending levels, as appropriate, the analysis will be based on realistic expectations and be more useful as strategic documents.

Other changes. Paragraph (a) in the proposed rule included five premises of the planning framework. Premise (1) is found in sections 219.5 and 219.12 of the final rule. Premise (2) is included as 219.3(c) in the final rule. Premise (3) is included in section 219.30 “Plan documentation” of the final rule. Premise (4) is included as 219.3(b)(4) and 219.10 of the final rule. Premise (5) is a general description of the planning framework and included in sections 219.3-219.11 of the final rule.

Paragraph (b) in the proposed rule, described the levels at which planning may occur, and who may be the responsible official. In the final rule, paragraph (b) is restructured in outline form. Planning will be conducted at the appropriate level depending on the scope and scale of the issues. In addition, the final rule specifically recognizes the role of the Forest Service national strategic plan required under the Government Performance and Results Act of 1993 (GPRA). The GPRA directs government agencies to establish national long-term goals, outcome measures, and strategies. The final rule clarifies that these are to be considered in managing the National Forest System. In particular, it provides for the development of outcome measures to evaluate ecological, social, and economic impacts, accountability, and management performance. The development of outcome measures will be included in the Forest Service directives System.

Paragraph (c) in the proposed rule lists the key elements. The list in the final rule has been changed slightly to line up with the subsequent sections of the planning framework and use consistent terminology. Cooperatively developed landscape goals are no longer specifically listed, however, they are still included in section 219.12 and may be considered as issues (section 219.4). This change was made to clarify the key elements of planning.

Proposed Section 219.4—Topics of general interest or concern. This section of the proposed rule established a process for identifying, discussing, and, if appropriate, acting on topics of general interest or concern that might emerge from a variety of sources. The process for identifying these topics was to be used for both plan amendments and revisions as well as for site-specific plans. In the final rule, this section has been renamed “Identification and consideration of issues.”

Comment: Identification of issues. Many respondents believed that the proposed rule should provide additional details about how issues will be identified. Specifically, some people felt that current Forest Service public involvement methods do not provide an accurate representation of the interested public. They recommended that the Forest Service conduct unbiased sampling to determine public opinion about forest plans.

Response: The proposed rule established a collaborative process that will be used in addition to current public involvement methods. This approach is retained in the final rule. This process will improve the identification of issues. Also, the flexibility in approaches is very important to the collaborative process. Sampling is addressed in section 219.1 of the preamble.

Comment: Evaluation of topics. Many respondents expressed concern about the evaluation of topics of concern. Most of these people felt that the proposed rule gives the responsible official too much discretion in considering whether action will be taken on these topics. Many of these respondents felt the discretion in the rule could allow responsible officials to ignore important concerns.

Response: The regulation actually increases the accountability of the responsible official for addressing issues that are “ripe” for resolution. As now, the decision to move an issue forward for resolution is an agency prerogative. Accountability is increased however through the more open and collaborative process for identifying issues.

Comment: Limiting discretion. Several people advocated limiting discretion and suggested a number of remedies to this perceived problem such as establishing requirements for reasonableness and timeliness in the evaluation of topics of general concern, creating guidelines for the consideration and documentation of topics of general concern and requiring that the responsible official's decisions on topics of concern should be subject to administrative appeal or judicial review.

Response: The Department does not agree. It is imperative that the responsible officials maintain sole responsibility to review the circumstances surrounding an issue before investing time and agency resources in addressing one or more aspects of the issue. Each day, each responsible official has a host of possible issues pressed forward. It is through experience and collaboration with others that the issues that should be addressed are addressed. As described in the planning rule, there are several ways that a host of people, including higher-level officials, can become engaged in the identification and potential resolution of issues important in the plan area.

Other changes. The most noticeable change in this section, as adopted in the final rule, is replacement of “topics of general interest or concern” with the term “issues.” Although some members of the Committee of Scientists found “issues” to have a negative connotation, and to imply that some action must be taken, many found the terminology of the proposed rule to be vague and verbose. Therefore, the final rule refers to “issues.” This is consistent with the current planning regulations and more familiar with the public and within the agency.

Editorial changes were made to the proposed rule, including changes in terminology, to remain consistent with other parts of the rule (for example, “ecological sustainability” and “range of expected variability”). The words “consistent” and “consistency” in the proposed rule are changed to avoid confusion with the use of that terminology in NFMA and section 219.10.

Proposed Section 219.5—Information development and interpretation. This section of the proposed rule described information needed to further consider a topic of general interest or concern. It provided direction on conducting broad-scale assessments and local analyses.

Comment: Discretion of responsible official. Some respondents felt that the discretionary authority given to the responsible official in the proposed rule may conflict with provisions for the use of scientific and collaborative input. These people recommended that the proposed rule limit the discretion of the responsible official in determining whether the available information is sufficient or additional data collection is needed.

Response: Implementation of the planning process of this rule promotes collaborative problem solving. The responsible official has access to a wide variety of information from staff specialists and a knowledgeable and often active national forest or grassland user community. A decision to initiate collection of additional data is a managerial choice that may be assisted by scientific review and science advisory boards, as appropriate. As many years of experience have demonstrated for many issues, when authorities closely match responsibilities, the quality of decisions and overall public service improves.

Comment: Development of information. Some people recommended restricting large-scale planning to non-decisional, data collection efforts. Still others believed accurate data are essential for the Forest Service to assess the need for actions and to measure the effectiveness of its actions in planning. These people suggested that the proposed rule emphasized collecting and maintaining sufficient natural resource data. Some citizens asserted that the proposed rule should specify appropriate analysis tools and models to ensure consistency between national forests and grasslands.

Response: The Department agrees with the importance of applying the best available data, and has emphasized that need in the final rule. It encourages multi-scale assessments and analyses prior to proposing any actions. The final rule also promotes monitoring to obtain data, and scientific review of its use. In order to be able to respond promptly to scientific advances, the Department has avoided including specific analysis tools or models in a regulation. The Department believes that large-scale decisions may be necessary to respond to some issues; however, it does not expect every broad-scale assessment to lead to broad-scale decisions.

Comment: Public Involvement. Public involvement in information development and interpretation was a significant concern for many people. These people contended that the proposed rule's provisions on information development and interpretation do not provide sufficient opportunities for public input or review. Some of these people suggested that the proposed rule include provisions requiring collaboration in information development and interpretation, while others requested that the proposed rule comply with NEPA requirements. Another respondent believed that the final planning regulations should incorporate the guidelines for interdisciplinary planning teams from the 1982 planning regulations.

Response: The planning rule has several provisions for encouraging the public to participate in the identification and resolution of natural resource management issues. As described in sections 219.12 to 219.18, it is the intent of the rule that the Forest Service participate with others in building stewardship capacity—the ability to develop ideas, take action, and solve problems (section 219.2). The planning framework is characterized by an interdisciplinary collaborative approach (section 219.3). In addition, the NEPA process applied to planning must be interdisciplinary. The final rule also provides that each broad scale assessment should be designed and conducted with the assistance of scientists, resource professionals, government entities, and other individuals and organizations knowledgeable of the assessment area (section 219.5(a)(2)).

Comment: Interest group involvement. Some respondents expressed concerns regarding what groups will be involved in information development and interpretation. Some of these people felt that the Forest Service does not recognize or respect the knowledge and past stewardship of private property holders and lessees. These individuals recommended that the proposed rule emphasize the role of lessees and private property holders in information development and interpretation. Other respondents specifically suggested that the Forest Service engage environmental groups in conducting ecological assessments.

Response: As described in the planning rule, it is the intent of the Department and the Forest Service that a wide variety of people, including property holders and lessees and environmental groups engage in the consideration of their natural resources and in the stewardship of their national forests and grasslands (see sections 219.16 and 219.17). The final rule also provides that each broad scale assessment be designed and conducted with the assistance of scientists, resource professionals, government entities, and other individuals and organizations knowledgeable of the assessment area (section 219.5(a)(2)).

Comment: Consideration of activities outside of national forest boundaries. Believing that the failure to address national supply and demand trends could lead to an oversupply of specific resources, one respondent recommended that the proposed rule require the consideration of these trends in decisions specifically regarding grazing permits. Another person felt that consideration of activities outside National Forest System unit boundaries in planning could restrict resource extraction. This person suggested that the Forest Service be prohibited from restricting resource use on such a basis. Other respondents believed that the proposed rule fails to address the effects of agency planning on lands outside of National Forest System lands. These people recommended that the proposed rule should explicitly recognize these impacts.

Response: The planning process is designed to enable the Forest Service to address each of the above comments at the appropriate time and place. For example, if the supply and demand of a particular natural resource is relevant at a national scale, the Chief of the Forest Service, working with others, may address the concern. Likewise, if the supply of a local resource use is of concern to one or more communities, that may very well be an issue that is addressed in the revision or amendment to a plan. Planning is tailored to fit the needs of people in the use and enjoyment of their national forests and grasslands. Section 219.17(c) of the final rule was changed to include consideration of the effects of managing National Forest System lands on adjacent lands.

Comment: Use of broad-scale assessments. Many respondents expressed preferences about the use of broad-scale assessments in national forest planning. Some people opposed the use of broad-scale assessments, feeling that these efforts will be excessively expensive and that this expense will hinder the implementation of project proposals. Some respondents supported the use of broad-scale assessments in planning, and they believe private lands adjacent to national forests and grasslands should be included in such assessments. Focusing more on who should oversee the development of assessment processes, other respondents recommended that the final rule require the Forest Service to lead broad-scale assessments. These people felt that the proposed rule allows unacceptable influence by nongovernmental entities and that this could lead to decisions that are not in the best public interest.

Response: The amount and level of data collection and synthesis needed varies with the issue and the nature of the decision to be made. The responsible official is to determine if the information on hand is sufficient, or if additional information is desirable and can be obtained at a reasonable cost and in a timely manner. Where the issue is broad in scale, a broad-scale assessment is often needed. Where the issue is more limited in scale, local analyses are more appropriate. The final planning rule provides a flexible process that yields the data appropriate to address an issue, rather than mandating one approach. Information and data may be solicited and accepted from a variety of sources, including broad-scale assessments prepared or led by others. Managers must use their professional judgment to gauge the usefulness, reliability, and value of the information received.

Comment: Broad-scale assessments and NEPA public involvement requirements. Some respondents' comments focused on the proposed rule's relationship with National Environmental Policy Act (NEPA) public input requirements. These respondents felt that the provisions of the proposed rule allow the development of large-scale or national planning parameters outside the scope of public scrutiny. These people suggested that broad-scale assessments should not be used in place of the NEPA scoping process.

Response: Broad-scale assessments do not constitute a decision point—they are a source of data and information that may be used in later decisionmaking by the agency or others. The preparation of broad-scale assessments is intended to be an open and collaborative process, one that encourages participation by interested and affected parties. Involvement in broad-scale assessments in no way supplants or eliminates the requirement for scoping under NEPA or other public involvement in other aspects of the planning framework. The text of the regulation in section 219.6, Proposed actions, emphasizes that NEPA requirements must be met for every proposed action, and activities associated with broad-scale assessments are intended to complement, rather than replace the scoping process of NEPA for subsequent decisionmaking.

Comment: Adequacy of data in broad-scale assessments. Many respondents expressed concern regarding the adequacy of data used in broad-scale assessments. Some of these people felt that the proposed rule would allow the use of inadequate or out-dated data. According to one person, the use of this data “leads to erroneous conclusions; these erroneous conclusions lead to poorly thought-out recommendations.” Other respondents asserted that the proposed rule weakens existing requirements for the use of current data. One respondent specifically requested that the agency seek additional funds to perform broad-scale assessments to avoid impacting Forest Service research station budgets.

Response: The planning rule has several provisions for the inclusion of the best available science in all activities associated with planning as described in sections 219.22 to 219.25. Through science advisory boards and the use of science consistency evaluations, the best available science is sought for each key step in the planning process.

Comment: Local analyses. A few respondents suggested that the proposed rule emphasize local analyses, while others requested that the rule include clarification on what local analyses entail. One person, claiming that the Forest Service lacks the information necessary to make informed planning decisions, recommended that the proposed rule require landscape assessments be conducted on all national forests and grasslands.

Response: The planning process is designed to ensure that the appropriate information is gathered and evaluated before decisions are made. The extensive collaboration among interested and affected people as well as the increased involvement of science in the planning process are intended to highlight information needs and ensure appropriate consideration of all elements affecting sustainable use of national forests and grasslands. The rule encourages the use of local analyses as a basis for proposals at a comparable scale.

Comment: Terminology to describe spatial scales. One respondent questioned the use of “broad” and “local” to describe the scale of analysis in the proposed planning regulations. “Coarse” and “fine filters” are the technical terms most often used in Forest Service management plans and this person felt these widely used and clearly defined terms should replace “broad” and “local” in the final rule.

Response: Even though the terms “coarse” and “fine” filters are used frequently among some natural resource professionals, they are not identical to scale descriptors. We do refer to these terms in our response to comments for section 219.20. We believe that the use of the terms “broad” and “local” in the final rule describe the extent of assessments and analyses to a larger number of national forest and grassland users.

Comment: Scope of spatial and temporal scales. Several respondents supported the collection and analysis of ecological data on a variety of spatial and temporal scales. One respondent suggested that the final rule expand the scale of analysis to include cumulative effects of global magnitude. Conversely, some individuals questioned the use of a variety of spatial and temporal scales. Such a mandate requires funding and staffing beyond the means of the current Forest Service structure, according to these respondents. One citizen questioned the utility of using varying scales, asserting that such a hierarchical approach would lead to specific project plans containing forgiving, default language that lacks serious standards and thresholds.

Response: The variable scale planning process envisioned by the planning rule is intended to enable planners, managers, and the public to identify and act upon important issues at the appropriate scale for their resolution. Through the identification of issues that may cross many political boundaries, interested and affected people can work together to reach common solutions among many landowners and natural resource users. Cumulative impacts will also be addressed through agency NEPA procedures. Appropriate analyses and monitoring of results are used to ensure that the cumulative effects of small actions do not result in unwanted or unanticipated impacts. The responsible official has the authority to determine the appropriate scope and scale of analysis and data collection. In making this determination, the responsible official appropriately applies collaborative processes and uses the best available science.

Other changes. The proposed rule stated that the Regional Forester is responsible for National Forest System participation in broad-scale assessments. The final rule requires Station Directors and Regional Foresters to have joint responsibility for Forest Service participation in broad-scale assessments. It no longer addresses Forest Service participation in broad-scale assessments led by others. The Department believes it is not necessary to address the possible actions of others in this rule.

The requirement to use the best available scientific information and analysis is moved to sections 219.22 and 219.23 in the final rule. Examples of possible uses of assessment information in the proposed rule are generalized to “other purposes” in the final rule, and the language made consistent with the description of uses of local analysis. The final rule clarifies that assessments be used to evaluate the factors that contribute to the conditions and trends observed and is important in gaining understanding of issues.

The proposed rule stated that the purpose of local analyses was to provide information to aid in the identification of possible actions or projects to achieve desired conditions. The final rule expands the use of local analyses so that an analysis could be tailored to the scope of issues rather than potential actions. Similarly, the final rule provides for the use of social or economic analysis units for local analyses if warranted by the scope and context of the issues under consideration.

The components of both broad-scale assessments and local analyses were described as mandatory in the proposed rule. The amount and level of data collection and synthesis needed varied with the issue and the nature of the decision to be made. The responsible official was to determine if the information on hand was sufficient, or if additional information was desirable and could be obtained at a reasonable cost and in a timely manner. Where the issue was broad in scale, a broad-scale assessment was often needed. Where the issue was more limited in scale, local analyses were more appropriate. The final rule provides for a flexible process that yields the data appropriate to address an issue, eliminating unnecessary analysis requirements. Information and data can be solicited and accepted from a variety of sources, including broad-scale assessments prepared or led by others. Managers must use their professional judgment to gauge the usefulness, reliability, and value of the information received.

Proposed Section 219.6—Proposed actions. This section identifies the point at which a responsible official initiates a decisionmaking process to resolve an issue, based on the information that has been developed and interpreted. No public concerns explicitly related to this section were identified in the analysis of public comment. Paragraph (b) was redrafted in the final rule to make it clear that public involvement and collaborative activities, related to issue identification and analyses of information, can be used as part of the scoping process required in the Forest Service NEPA procedures.

Proposed Section 219.7—Plan decisions that guide future actions. This section of the proposed rule described categories of decisions in land and resource management plans that would guide future agency actions. The title was changed in the final rule to “Plan decisions.”

Comment: Consistency of plan decisions among plan areas. Some people question how the Forest Service will maintain consistency between national forests if regional guides are eliminated as indicated in the proposed rule

Response: The proposed rule allowed the scope of decisions to be tailored to the scope of the issues relevant to the plan area. Decisions may be made simultaneously for multiple administrative units, in a manner similar to what has occurred with regional guide amendments under the current rule. Section 219.3 of the final rule authorizes and encourages joint planning on multiple administrative units. In addition, the objection process (section 219.32), the addition of science consistency evaluations (section 219.24), and the requirement to incorporate regional guide direction into agency procedures or plan decisions (section 219.35) ensure consistency among national forests and grasslands.

Comment: Desired conditions. Many people commented on the proposed planning rule's emphasis on desired conditions. Some contended that the emphasis on desired conditions was an improvement over the Forest Service's perceived current focus on products and services. One respondent recommended that specific requirements for detailed descriptions of desired future conditions be included in plans. Some respondents believed that the proposed rule did not clearly define how “desired future conditions” would be developed.

Response: The Department agrees that emphasis on the desired conditions, rather than an estimate of what may or may not be produced from a unit of land, provides a more meaningful basis for people to discuss suitable and unsuitable uses of specific areas within national forests and grasslands. The planning rule uses the term “desired condition” rather than “desired future condition” to stress the point that there are many areas of national forests and grasslands that are now in a “desired condition” and that use of the term “future” was not necessary. In addition, the term “goal” was removed as a planning decision. A clear explanation of a desired condition for all or a part of a plan area included statements that describe the conditions sought or the “goals” of the area. Therefore, it is not necessary to have a category of plan decisions that are called “goals.” The Department believes that the responsible official should evaluate and address conditions relevant to the issues and the scope of the decision being made, and does not feel it is appropriate to include in the rule more specific requirements for how to develop desired conditions.

Comment: Standards and guidelines. Some respondents asserted that the existing rule is unclear about the difference between standards and guidelines and that this has “caused a lot of confusion, false expectations, and conflict.” These people recommended clarifying the difference between guidelines and standards in the proposed rule. Others believed that the proposed planning regulations should establish enforceable criteria for the development of objectives, standards, and guidelines in forest planning rather than relegating such criteria to the Forest Service Manual.

Response: This concern is addressed in the final rule by modifying the definition for standards (section 219.7) and by removing the term “guidelines.” This was done because the use of both terms, standards and guidelines, was confusing. In the proposed rule, the mandatory or discretionary nature of a provision was contained in the description of that provision, not by whether it was labeled a standard or a guideline. In the final rule, a provision that is labeled as a standard in a plan can be either mandatory or discretionary depending upon the language of the standard and the scope of its requirements.

Comment: Range of management alternatives. Of those respondents who address requirements for forest plans in the proposed rule, many felt that “consideration of a full range of management alternatives” will “allow planners to identify important management options, thresholds, and trade-offs.” These people suggested the proposed rule include provisions requiring the Forest Service to develop a full range of management alternatives in its forest plans. One organization contended that the proposed planning regulations should retain programmatic consultation as a means to challenge land and resource management plans.

Response: The Department believes that the collaboration emphasized by this rule will lead to a thorough examination of the options and tradeoffs relevant to the issues that have been identified. A full range of management alternatives that meets the purpose and need for changes in the proposed plan is required in accordance with Forest Service NEPA procedures. Neither the proposed nor final rule directly addressed Endangered Species Act consultation procedures, which are described in 50 CFR part 402. The final rule does require the incorporation of non-discretionary terms of biological opinions into plans (section 219.20(b)(3)).

Comment: Preservation of ecological diversity. Several respondents cited the current rule's requirements for the prevention of “large-scale conversions of national forest lands to a single-tree species” as an example of the imperative language they would like to see retained in the final rule.

Response: The final rule provides for ecological diversity in section 219.20, wherein plan decisions must provide for ecosystem composition and structure similar to that which would be expected under natural disturbance regimes. The Department believes that large-scale type conversions would not meet this requirement and that more imperative language is not necessary.

Comment: Preservation of scenic beauty. One person requested that the proposed rule require specific guidelines for the preservation of scenic beauty. Asserting that one of the primary values of national forests mentioned by the public is scenic beauty, this respondent feels the Forest Service should address this concern in the final rule.

Response: The final rule requires that standards be developed for each plan that includes methods of achieving aesthetic objectives.

Comment: Watershed restoration. Several individuals felt the proposed rule needed to include specific guidelines for restoring and protecting water resources. Some suggested that the criteria for watershed restoration and protection be expanded. Several individuals believed the proper functioning of all the physical components of watersheds is an essential prerequisite to attaining ecological sustainability.

Response: The Department believes that it has given high priority to watershed restoration by including aquatic and riparian systems as a component of ecological sustainability (section 219.20(a)(1)(i)(B)), and focusing on ecological sustainability. In addition, watershed condition is one of the factors in section 219.28 used for the identification of lands were timber may not be harvested.

Comment: Restorative employment. One individual believed that the Forest Service should shift emphasis from fostering an extractive economy to championing restorative employment on national forests.

Response: This rule establishes ecological sustainability as the first priority for stewardship of the national forests and grasslands (section 219.19). It also requires the Forest Service to consider opportunities to provide social and economic benefits to communities through natural resource restoration strategies (section 219.21).

Comment: Invasive species. Believing that invasive species disrupt expected ecosystem functions, several citizens felt that the failure to sufficiently address this concern was a major flaw in the proposed rule. One respondent asserted that roads are the major vectors for the spread of noxious weeds throughout national forests. Road construction and off-road vehicle use need to be restricted, this individual asserted, if the spread of noxious weeds is to be slowed. Conversely, another individual believed the proposed planning regulations should qualify the mandate to control the spread of non-native species. Although this person stated that the Forest Service should not knowingly spread invasive species, this individual believed that there are situations where these processes occur naturally and therefore it would be “extremely expensive if not impossible for the agency to prevent the phenomena.” Another respondent requested that the proposed planning regulations address the ecological and human health impacts of chemical applications to control invasive species.

Response: The final rule includes invasive or noxious plant or animal species as factors to consider in evaluating and providing for ecosystem diversity (section 219.20). Where such factors are contributing to loss of ecological sustainability, the Department expects invasive species to be an issue that is sufficiently addressed. Use of chemicals or other kinds of treatments would not normally be determined as part of a plan decision, as described by this rule. Separate national road management and roadless area policy initiatives are addressing road construction and management. Off-road vehicle use would be addressed through the planning process at a local level.

Comment: Fire management strategies. Some respondents felt that the Forest Service should suppress fires. Allowing forests to burn was seen as a waste of resources to these people. Others asserted that the Forest Service should allow fires to burn, proposing that restoring fire disturbance regimes will, in turn, help restore ecological sustainability. One respondent questioned how the Forest Service would prescribe fire to restore ecosystems while maintaining the air resource value of visibility. This individual felt that the proposed planning regulations should clarify how this conflict will be resolved.

Response: The Department does not believe that this rule is the appropriate place to resolve questions of fire management policy. However, the planning framework provided by this rule will facilitate resolving them at the appropriate scale. Fire may be an issue handled at the national or regional scale. For example, the Forest Service has recently developed new information about the risk of catastrophic fires that may be useful for planning at a national or regional level. Planning could also happen at the forest plan or landscape level if scientific information or a local community suggested that fire was an issue that should be addressed through a specific project or series of projects and the responsible official determined that the issue should be considered and sufficient information existed to address it. The collaborative and flexible planning process outlined in this final rule is fully consistent with ongoing efforts at the Forest Service to address fire risks to communities and the environment.

Comment: Wildlife on grazing allotments. Believing that hunting has greater economic potential than that of grazing, another person suggested that game species be given priority over cattle in management area allocations. Elk and bison are not only endemic, but they would also provide hunting revenues according to this individual.

Response: The Department does not believe that this rule is the appropriate place to resolve questions of livestock and big game conflicts. However, the planning framework provided by this rule will facilitate resolving conflicts at the appropriate scale.

Other changes. The introductory paragraph in the final rule differs in two ways from the proposed rule. The paragraph clarifies that decisions may apply to all or parts of a plan area and must reflect the ongoing and anticipated actions of landowners adjacent and within national forest and grassland boundaries. It acknowledges the possibility that plan decisions may commit resources to site-specific uses in some cases.

The proposed rule described four categories of decisions. The final rule lists five and shortens the descriptions of each. Standards are separated from objectives because these are considered to be different types of decisions. Objectives describe intended results over a projected period of time. Standards describe the limitations necessary to achieve objectives. Standards are adopted, when needed, to achieve objectives and desired conditions.

In paragraph (c) of the final rule, standards have been defined more specifically than in the proposed rule to emphasize that they are requirements, rather than statements of intent, and that they apply to land uses and management actions rather than outcomes. The proposed rule included three standards required by NFMA. The final rule adds a fourth general category of standards that must be included to ensure achievement of sustained multiple-use of national forests and grasslands.

Paragraph (d) in the final rule was paragraph (c) in the proposed rule and addresses suitable land uses. Livestock grazing is added to the list of suitable land uses within the National Forest System based on comments received for section 219.26. Paragraph (e) in the final rule was paragraph (d) in the proposed rule. This section requires an identifiable monitoring and evaluation strategy that is required by each plan in section 219.11.

Proposed Section 219.8—Amendment. This section of the proposed rule addressed amendments to plans as an addition to or the modification or deletion of one or more of the decisions listed in section 219.7. An amendment to a plan was defined as a plan decision. It also addressed the process through which amendments must be made. There were no additional requirements beyond those presented in the rest of the planning framework and Forest Service NEPA procedures.

Comment: Timeframes. Many respondents expressed concerns regarding the time period of Forest Service planning efforts. Some of these people felt that the proposed rule's provisions allow for various parties to delay amendment and revision processes. Some of these respondents recommended that the proposed rule include specific time limitations on revisions and amendments, while one person suggested that the proposed rule include provisions allowing ongoing activities to continue during plan amendments. Some believed the proposed planning regulations should require consideration of impacts to the entire planning area during amendment, revision, and objection procedures.

Response: The Department envisions that proposed amendments and revisions be completed in a timely manner considering the complexity of the issues and public interest in pending proposals. Ongoing activities may continue while an existing plan is being amended or revised (40 CFR 1506.1(c)). Impacts must be considered in accordance with NEPA procedures.

Comment: Significant plan amendments. One person felt that the proposed rule circumvents the criteria for determining “significant amendments” described in the NFMA. In the proposed and final rule, a proposed plan amendment that may create significant environmental impact is deemed to be a significant amendment as described in NFMA. This person suggested that the proposed rule does not comply with the NFMA requirements in that a plan amendment that may create large social or economic effects should require a significant plan amendment. However, a plan amendment that would create only social or economic effects would not necessarily require preparation of an environmental impact statement. A change in the projected level of timber production was cited as an example of such a situation.

Response: The Department believes that any plan amendment that may create significant environmental effects should be considered as a significant amendment as described in the NFMA. It is unreasonable to conclude that a plan amendment may create only social or economic effects apart from physical or biological effects. The proposed amendment that may create significant environmental effects would require preparation of an environmental impact statement and a 90-day public review period for the draft environmental impact statement. Such an amendment would be a significant amendment to a plan.

Comment: Provisions related to amendments and revisions need additional requirements. A few people recommended the proposed rule include specific criteria for initiating amendments and revisions. Another respondent recommended that the proposed rule include specific provisions for the review of environmental impact statements generated by other federal agencies for actions impacting national forest plans.

Response: The Department expects that amendments will occur frequently in response to new information and newly identified issues. If conditions have changed significantly throughout the plan area, the responsible official may revise the plan. In the final rule, the decision to propose an amendment or a revision, if under the legal time limit, remains discretionary, as in both the current and proposed rules. This enables the responsible official to consider resource and administrative factors, and other applicable information prior to proposing to amend a plan. While not specifically mentioned in the rule, the Department expects the Forest Service to consider environmental impact statements prepared by other agencies as potential sources of issues to be addressed.

Other changes. The final rule references other applicable sections of the rule for additional requirements to consider in making an amendment. The final rule changes the focus of paragraph (b) from addressing “Plan amendments in conjunction with site-specific decisions” to “Environmental review of a proposed plan amendment.”

Proposed Section 219.9—Revision. This section of the proposed rule described the process to be used periodically to review the plan. Paragraph (a) of this section of the rule describes revision as a process that is required in accordance with 16 U.S.C. 1604(f)(5).

Comment: Adaptability. Contending that the current planning process is so slow that it produces obsolete plans, some respondents supported the proposed rule's emphasis on adaptability. One person even asserted that, given ongoing updates, the requirement for revisions every fifteen years is unnecessary and should be eliminated.

Response: The fifteen-year timeframe for revisions is a statutory requirement. The final rule has been changed, however, so that it does not incorporate a specific timeframe. Rather, it allows the timeframe to be governed by applicable law. Under the rule, the scope of revision is not open-ended, but focuses on the identified issues. If there are few issues, the process should be focused and simplified accordingly.

Comment: Relationship to the proposed Roadless Area Conservation Rule. Some individuals explicitly requested that the Forest Service clarify the relationship between the proposed Roadless Area Conservation Rule (proposed roadless rule) and the planning rule and how the planning rule will account for the proposed roadless rule through the planning process. In addition, some respondents suggested that the local planning process is better suited to determine future management direction than national rulemaking for roadless areas, particularly for those roadless areas not yet identified.

Response: The final rule clarifies the relationship of the planning rule with the proposed Roadless Area Conservation Rule (proposed roadless rule) described in Forest Service Roadless Area Conservation, Draft Environmental Impact Statement, Volume 2, dated May, 2000 and 65 FR 30276, May 10, 2000. The terms “inventoried roadless areas” and “unroaded areas” are described in the planning rule to clarify the relationship of the final planning rule to the proposed roadless rule and the Forest Service's recently proposed road management policy. The proposed road management policy describes analysis methods and procedures that would complement the planning-related activities of national forests and grasslands. The proposed rule regarding roadless areas would prohibit road construction and reconstruction in inventoried roadless areas. It would also require land managers to consider certain roadless area characteristics during plan revision and to then decide in the context of overall multiple-use objectives whether additional protections should be afforded inventoried roadless areas or other unroaded areas. Similarly, the proposed planning rule would require the responsible official to consider designating roadless areas during plan revision along with any needed plan decisions related to such areas. The final planning rule clarifies that analyses and decisions regarding inventoried roadless areas and other unroaded areas, other than the national prohibitions that may be established in the final Roadless Area Conservation Rule, will be made through the planning process articulated in this final rule. Under this final rule, the responsible official is required to evaluate inventoried roadless areas and unroaded areas and identify areas that warrant protection and the level of protection to be afforded.

Public comments suggested, and the Department agrees, that the procedures described in the proposed roadless rule were very similar to those outlined in the proposed planning rule. Moreover, comments suggested that appropriate roadless area protections could be best considered using the explicit collaboration, science, sustainability, and planning requirements of the planning rule.

The Department has determined that the review of the roadless characteristics contemplated by the proposed roadless rule is an explicit function of land management planning and should be addressed through this rule. Moreover, most of the roadless area characteristics identified in section 294.13 of the proposed roadless rule are characteristics otherwise required to be analyzed during plan revision or at other times as deemed appropriate by the responsible official. In the final planning rule, the requirements for identifying roadless areas and additional roadless area protections are an explicit part of the plan revision process as described in section 219.9(b)(8). The analysis and treatment of characteristics of roadless areas as identified in the proposed roadless rule are listed below as they compare to the requirements of the final planning rule.

Proposed roadless rule | Final planning rule
294.13(a) At the time of plan revision, the quality and importance of nine characteristics of inventoried roadless areas and unroaded areas must be evaluated | Section 219.9(b)(8) requires the responsible official to consider inventoried roadless areas and unroaded areas in all plan revisions and at other times as appropriate through the criteria in section 219.20(a) and 219.21(a). Those sections require development and analysis of information at a variety of spatial and temporal scales.
294.13(a)(1) Soil, water, and air; and 294.13(a)(2) Sources of public drinking water | 219.20(a)(1)(i)(B) Water resources: the diversity, abundance, and distribution of aquatic and riparian systems including streams, stream banks, coastal waters, estuaries, groundwater, lakes, wetlands, shorelines, riparian areas, and floodplains; stream channel morphology and condition, and flow regimes.
| 219.20(a)(1)(i)(C) Soil resources: soil productivity; physical, chemical, and biological properties; soil loss; and compaction.
| 219.20(a)(1)(i)(D) Air resources: air quality, visibility, and other air resource values.
| 219.20(a)(2)(i)(F) An evaluation of the effects of air quality on ecological systems including water.
| 219.20(a)(2)(i)(G) An estimation of current and foreseeable future Forest Service consumptive and non-consumptive water uses and the quantity and quality of water needed to support those uses and contribute to ecological sustainability.
294.13(a)(3) Diversity of plant and animal communities | 219.20(a)(2)(ii) Evaluations of species diversity must include, as appropriate, assessments of the risks to species viability and the identification of ecological conditions needed to maintain species viability over time.
| 219.36 Ecological conditions: Components of the biological and physical environment that can affect the diversity of plant and animal communities, including species viability, and the productive capacity of ecological systems. These could include the abundance and distribution of aquatic and terrestrial habitats, roads and other structural developments, human uses, and invasive and exotic species.
294.13(a)(4) Habitat for threatened, endangered, proposed, candidate, and sensitive species and for those species dependent on large, undisturbed areas of land | 219.20(a)(2)(ii)(A) The viability of each species listed under the Endangered Species Act as threatened, endangered, candidate, and proposed species must be assessed. Individual species assessments must be used for these species.
| 219.20(a)(2)(ii)(B) For all other species, including other species-at-risk and those species for which there is little information, a variety of approaches may be used, including individual species assessments and assessments of focal species or other indicators used as surrogates in the evaluation of ecological conditions needed to maintain species viability.
| 219.36 Species-at-risk: Federally listed endangered, threatened, candidate, and proposed species and other species for which loss of viability, including reduction in distribution or abundance, is a concern within the plan area. Other species-at-risk may include sensitive species and state listed species. A species-at-risk also may be selected as a focal species.
294.13(a)(5) Primitive, semi-primitive non-motorized, and semi-primitive motorized classes of dispersed recreation | Section 219.27(c) The consideration of recreation-related uses of land is addressed in the planning framework and within administratively designated areas that may include inventoried roadless areas and unroaded areas as well as motorized and non-motorized public use areas.
294.13(a)(6) Reference landscapes | 219.20(a)(2)(i)(H) An identification of reference landscapes to provide for evaluation of the effects of actions.
294.13(a)(7) Landscape character and scenic integrity | The consideration of landscapes and scenic integrity is within the development of landscape goals (section 219.12(b)) and consideration of issues.
294.13(a)(8) Traditional cultural properties and sacred sites | 219.21(a) For plan revisions, and to the extent the responsible official considers to be appropriate for plan amendments or site-specific decisions, the responsible official must develop or supplement the information and analyses related to the following:
| 219.21(a)(1) Describe and analyze, as appropriate.
| 219.21(a)(1)(i) Demographic trends; * * * cultural and American Indian tribe land settlement patterns; social and cultural history; * * * and other appropriate social and cultural information.
294.13(a)(9) Other locally identified unique characteristics | 219.5 The responsible official, in his or her discretion, may choose the methods and determine the scope of information development and interpretation for an issue under consideration. A broad-scale assessment or a local analysis may be developed or supplemented if appropriate to the scope and scale of an issue.
| 219.5(b) Local analyses. Local analyses provide ecological, social, or economic information as deemed appropriate by the responsible official. Local analyses may cover watersheds, ecological units, and social and economic units, and may tier to or provide information to update a broad-scale assessment. Local analyses should provide the following, as appropriate.
| 219.5(b)(6) Recommendations for proposals (§ 219.6(a)) or identification of other issues (§ 219.4).

Other changes. The final rule clarifies that the revision process is completed when the responsible official signs a record of decision for a plan revision. Language to this effect was in paragraph (a) of the proposed rule and is found in the final rule in paragraph (e). Paragraph (b) lists steps to be taken to initiate the revision process. A number of clarifying changes were made in these steps. In paragraph (b)(2), issues were added to the list of information sources to be summarized. Paragraph (b)(2) in the proposed rule was separated into two parts, (b)(3) and (b)(4). Between them, they make it clear that the evaluations of sustainability presented in sections 219.20 and 219.21 must be performed on the current plan prior to revision, in order to assess the plan's contribution to sustainability.

Paragraph (b)(3) of the proposed rule is renumbered (b)(5) in the final rule. Based on response to public comments the text in (b)(3) of the proposed rule is moved to (b)(8) and revised to include the identification and evaluation of inventoried roadless areas and unroaded areas. A sentence requiring the determination of warranted protections of these areas during the revision process or at other appropriate times is added to this section to ensure that plan decisions address these areas. Paragraph (b)(4) of the proposed rule is renumbered (b)(6) in the final rule and the term “priority” is deleted to avoid the appearance of decisions being made at this early stage of the process. Regarding paragraph (b)(9) in the final rule, outcomes are to be projected for the 15-year the life of the plan, rather than 10 years, which is consistent with section 219.30.

Paragraphs (c) and (d) in the proposed rule are reorganized. As mentioned above, the meaning of revision is clarified. The only substantive change is the removal of specific requirements for the content of the Notice of Intent to revise plan decisions, and the requirement for a 45-day review period that were included in the proposed rule, paragraph (d). Because paragraph (e) in the final rule requires each plan revision to have an environmental impact statement that in turn requires an accompanying Notice of Intent, the content of the Notice of Intent would be governed by Forest Service NEPA procedures.

Paragraph (e) of the final rule was changed to be consistent with the intent of section 219.32, which prohibits the responsible official from approving a plan amendment until the conclusion of the objection process.

Paragraph (h) of the proposed rule required establishment of a revision schedule. This requirement is moved to section 219.35, as part of the transition process.

Proposed Section 219.10—Site-specific decisions and authorized uses of land. This section of the proposed rule described the basic steps and requirements that apply to planning for site-specific decisions. It also addressed the statutory requirement between permits, contracts, and other instruments be considered with the applicable land and resource management plan. In the final rule, this section has been renamed “Site-specific decisions.”

Comment: Site-specific amendments. Many respondents felt that the proposed planning rule should clarify how amendments to approve site-specific decisions will apply to national forest and grassland plans. They asserted that inconsistencies between site-specific plans and national forest plans be clarified in the final rule. One organization recommended that the Forest Service develop and include specific criteria and guidelines pursuant to determining the appropriate action regarding site-specific decisions.

Response: Detailed guidance for addressing potential inconsistencies with the plan has been provided by Forest Service directives. The Department intends to streamline the planning process, and therefore does not believe there is a need to add more detailed information to the final planning regulation to address this concern.

Comment: Appropriateness of including site-specific decisions. Some respondents believed that the proposed planning rule should emphasize site-specific planning actions on national forests. Specifically, unique ecosystems contained within broad-scale analysis areas, they contended, needed to be addressed independently in forest planning efforts. Conversely, others believed the proposed planning rule should not address project-level planning. “Requiring that project planning follow the same process as set forth for forest plans,” one person asserted, “will essentially mean an end to project planning, as it will be entirely too cumbersome, time-consuming, and expensive.”

Response: The Department believes that joining site-specific planning and forest planning into one shared planning framework will result in better project integration and an increased measure of efficiency, both in terms of the planning process and in achieving resource objectives. One framework will make it easier for the public to understand and participate in Forest Service planning at all levels. Sections of the framework applicable to site-specific planning have been specifically identified in the final rule to ensure that project planning will be conducted efficiently. The Department believes that this approach will encourage appropriate treatment of unique ecosystems through planning at an appropriate scale.

Comment: Exemptions. Some respondents felt that the proposed planning rule should provide specific criteria for granting exemptions to forest plans. An appeals process for exemption decisions, they asserted, should also be included. The proposed planning rule should include reasonable and negotiated schedules for compliance for non-exempted authorized uses, some contended.

Response: The NFMA requires that authorized uses be consistent with applicable plans. It provides for amendment of plans, but not for exemptions from them. The proposed rule provided for an exemption process. The Department now believes that the same purposes can be achieved through an amendment or revision process that addresses issues related to ongoing authorized uses.

Other changes. Paragraph (a) of the proposed rule required the application of the planning requirements of the entire subpart to site-specific decisions. The final rule clarifies which sections are relevant to project decisions. Paragraph (a) of the proposed rule describes the options available to a responsible official if a proposed site-specific decision is not consistent with an applicable land and resource management plan. Similar guidance is currently found in the Forest Service directive system and is not included in the final rule.

Paragraph (b) of the proposed rule contained extensive directions on what to do with existing permits, contracts, and other instruments authorizing the use and occupancy of National Forest System lands when a plan is amended or revised, including an exemption process. Many people are distrustful of exemptions from plan decisions. NFMA explicitly provides for amendment of plans, but not for exemptions from them. The same purposes can be achieved through an amendment or revision process that addresses issues related to ongoing authorized uses. The paragraph is not included in the final rule. For such authorizations, paragraph (b) also requires consistency with existing plans at the time of their issuance. In the final rule, authorized uses of land are included as site-specific decisions. The title of this section was changed to reflect the relationship of authorizations and site-specific decisions.

Proposed Section 219.11—Monitoring and evaluation. This section of the proposed rule described the monitoring and evaluation requirements for site-specific actions and land and resource management plans. To more accurately reflect the use of monitoring information in developing appropriate adjustments to ongoing and planned actions, this section of the final rule is renamed “Monitoring and evaluation for adaptive management”.

Comment: Monitoring for site-specific decisions. Many respondents felt that monitoring and evaluation is essential to assess the effectiveness of management activities. They recommended that the planning rule emphasize monitoring and evaluation, especially for site-specific decisions.

Response: The proposed rule emphasized the importance of monitoring in achieving sustainability. The final rule retains this emphasis. Monitoring and evaluation is a key component of adaptive management and dealing with uncertainty and risk in managing complex natural systems.

Comment: Monitoring and evaluation requirements. Many people were concerned with the flexibility of the monitoring and evaluation requirements, and some respondents believed that the proposed rule should include criteria for developing monitoring strategies.

Others felt that the proposed rule's requirements are too restrictive. “Research demonstrates that determining sample size, sampling frequency, and even sampling methods is an adaptive process,” one person wrote, “therefore, including details on frequency of sampling and sampling protocols in the land and resource management plan will constrain the monitoring system such that effective monitoring will be less likely.”

Response: The Department does not believe there was unwarranted flexibility in the requirements for monitoring and evaluation in the proposed rule. There was a lack of clear descriptions of monitoring requirements in this section of the proposed rule. This section is revised to improve its clarity and readability.

For ecological sustainability, the final rule requires the monitoring strategy to include an assessment of the status and trend of selected physical and biological characteristics of ecosystem diversity (section 219.20(a)(1)). It must also assess the status and trends of ecological conditions known or suspected to support focal species and selected species-at-risk including population monitoring for some species. For social and economic sustainability, the final rule requires the monitoring strategy to include periodic review of national, regional, and local supply and demand for products, services, and values, with special consideration given to those uses, values, products, and services that the Forest Service is uniquely poised to provide.

The proposed rule required the monitoring strategy to include the frequency of measurement and sampling protocols. In the final rule, the selection of monitoring methods, as well as reasons for selection of the methodologies, must be documented as part of the monitoring strategy. In addition, the final rule provides that, unless required by the monitoring strategy, monitoring methods may be changed to reflect new information without plan amendment or revision. The Department does not believe that including details on frequency of sampling and sampling protocols in the monitoring strategy will constrain the monitoring system.

Comment: Specific monitoring requirements. One person contended, “No level of monitoring, linked with current understanding of ecological systems, can provide the information necessary to determine, unequivocally, long-term sustainability.” This person recommended the elimination of monitoring requirements for different management practices. Others suggested that the planning rule specifically address water quality monitoring methods in the proposed rule.

Response: The proposed rule does not provide for the information necessary to determine, unequivocally, long-term sustainability. Rather, it views monitoring and evaluation as a key component of adaptive management, enabling the Forest Service to deal with uncertainty and risk in managing complex natural systems. The final rule retains this emphasis on monitoring and evaluation.

The proposed rule did not specifically address methods for monitoring for water quality. The final rule requires assessment of the status and trend of selected physical and biological characteristics of ecosystem diversity (section 219.20(a)(1)). These include the diversity, abundance, and distribution of aquatic and riparian systems including streams, stream banks, coastal waters, estuaries, groundwater, lakes, wetlands, shorelines, riparian areas, and floodplains; stream channel morphology and condition, and flow regimes. The Department believes that methods for water resource monitoring are best documented in the monitoring strategy for a plan rather than included in the planning rule.

Comment: Quality and type of data collected. Some people felt that poor quality data will continue to impact the agency's ability to conduct adequate assessments. They recommended that the proposed rule require the collection of adequate monitoring data. Other respondents addressed concerns regarding the use of models as tools for monitoring. One person asserted that “all models are inherently wrong and similarly the assumptions of models are always violated.” Several people suggested that the planning rule recognize the limitations of planning models and emphasize proven monitoring methods, especially field monitoring.

Response: The primary focus of monitoring and evaluation is based upon on-the-ground results and measures of how well activities provide for sustainability and fulfill desired conditions and objectives. In the final rule, each plan must contain a practicable, effective, and efficient monitoring strategy. Data and models used to address the monitoring requirements are to use the best science available. Under the adaptive approach to management described by the planning framework, many management activities are continually tested against planned and actual results. Appropriate adjustments can be made as new information becomes available.

Comment: Coordination among interested groups. Some recommended that the proposed rule be strengthened to ensure that monitoring efforts are coordinated with appropriate and interested parties. Some respondents specifically suggested that state and local government representatives be involved in monitoring activities. Various respondents expressed preferences about who should conduct or assist with monitoring efforts. Some people felt that monitoring activities should be restricted to qualified parties, while others recommended the inclusion of diverse interests in these activities.

Response: In the proposed rule, monitoring and evaluation is coordinated and, to the extent practicable, conducted jointly with other federal agencies, state, local, and tribal governments, scientific and academic communities, or other interested parties. In addition, the proposed rule required the responsible official to provide appropriate opportunities for the public to be involved in monitoring and evaluation. The final rule retains only the former provision as the latter provision was viewed as redundant.

The Department believes that monitoring is an important opportunity for the public to become directly involved with the conservation and stewardship of their national forests and grasslands. As in other steps of the planning framework, the expectation is that responsible officials will ensure opportunities are provided for appropriate collaboration.

Comment: Adequacy of funding to support the monitoring and evaluation requirements. Some respondents did not favor the requirement that the responsible official shall ensure that adequate funding is available for monitoring specifically required in project-level decision documents. Many people feared that inadequate funding could hinder the implementation of necessary projects. The Congressional budget process, they asserted, needs to be considered in developing the proposed rule. Other respondents, concerned about the adequacy of funding for monitoring, believed that the proposed rule's monitoring requirements will be excessively expensive and suggested that the rule emphasize that monitoring should not require significant additional costs.

Response: The Department believes that it is reasonable to expect the responsible official to make a fairly accurate prediction of future funding. First, the responsible official has the budget history of the unit and should be able to make a reasonable estimate on funding availability. Second, the responsible official has the flexibility to adjust the size and complexity of projects to reduce funding. Finally, the responsible official sets the stage for monitoring by documenting what is needed for specific projects in preliminary budget proposals. As noted by the Committee of Scientists, monitoring is an indispensable part of land and resource stewardship. To date, it has not been integrated into the planning and implementation process. Yet, including monitoring within the planning process may be the single most important shift that can happen in forest stewardship. The monitoring process creates the information necessary for future decisions, reduces the cost of future inventory analysis, and lessens the likelihood of management mistakes.

Comment: Linkage of project approval to monitoring funding. Many people voiced general support for the proposed rule's provisions requiring adequate funding for monitoring as a condition for project approval. Conversely, several other respondents felt that project approval should not be connected to funding for monitoring. These people asserted that this condition will hinder project implementation and conflicts with congressional budgetary authority. Focusing more on accountability, a few respondents suggested that the proposed rule require that responsible officials include their rationale for supporting expectations of adequate funding for monitoring in decision documents.

Response: The Department has retained language in the final rule concerning adequate funds for monitoring and evaluation of site-specific decisions. It is important to clarify that monitoring is not required for all site-specific projects. Where it is identified as important to understanding and ensuring sustainability, monitoring is considered as part of the project in the decision process.

Comment: Mechanisms for funding monitoring. Several respondents felt that it is unfair to require industrial interests to fund monitoring for projects that these interests propose. These people asserted that the proposed rule should not include such provisions. Other respondents recommended that the Forest Service seek legislative approval to establish a fund specifically for monitoring.

Response: The Department has retained language in the final rule concerning adequate funds for monitoring and evaluation of site-specific decisions. References were not made to industrial or non-industrial interests funding monitoring in the proposed or final rule. Monitoring is considered as part of the cost of doing the project where it is required.

Comments: Monitoring and evaluation of social and economic sustainability. Some respondents believed that the proposed rule has inadequate requirements for the evaluation of economic and social sustainability and recommended an expansion of the evaluation criteria in the final rule. Other respondents requested clarification of the requirements for review of national, regional, and local supply and demand for products, services, and values. One organization believed that the proposed rule should emphasize monitoring and evaluation processes that focus on the products, services, and values that both the Forest Service and local governments specifically provide. One person explicitly suggested that the Forest Service remove the term “values” from the proposed rule's items for consideration when monitoring for economic and social sustainability because it “will allow a manager to use a variety of undefined and arbitrary ‘values’ to counteract a demand for products or services.” Another person asked the Forest Service to require inventories of timber resources. Inventories of areas not suited for timber production, this person contended, are essential to gauge economic sustainability.

Response: The requirements for evaluating economic and social sustainability are identified in sections 219.5 and 219.21. Coordination of monitoring with partners is encouraged in section 219.11(e). The requirements for evaluating ecological, economic, and social sustainability have been increased in the final rule. The plan monitoring strategy must provide periodic reviews of national, regional, and local supply and demand for products, services, and values. It requires the responsible official to evaluate the effectiveness of information and analyses described in 219.21 (a) in providing reliable information regarding social and economic sustainability. This provides an adaptive approach to address many of the concerns made by the respondents, including inventories of areas not suited for timber production and assessing supply and demand for products, services, and values.

Other changes. The monitoring and evaluation section of the final rule is reorganized to more clearly describe the strategy of monitoring plan decisions and characteristics of sustainability required by each plan. Each plan will contain a practicable, effective, and efficient monitoring strategy to evaluate sustainability by monitoring appropriate plan decisions and characteristics of sustainability. Section 219.5 provides that this type of information will be prepared within “reasonable costs and in a timely manner.”

In the proposed rule paragraph (a), “Monitoring and evaluation requirements,” is reorganized and renamed “Plan monitoring strategy” to more accurately describe requirements. To simplify the presentation of required information, specific requirements for the use of monitoring information listed in paragraph (a) of the proposed rule are moved to paragraph (d), “use of monitoring information,” in the final rule. Monitoring methods described in paragraph (a) of the proposed rule are moved to paragraph (c) of the final rule to distinguish these requirements from the monitoring strategy, thus ensuring that appropriate adjustments in sampling frequencies and technical methods are implemented as monitoring progresses. The final rule clarifies that changes in monitoring methods are not plan decisions unless they are specifically required within the monitoring strategies described in a plan.

Paragraph (b) of the proposed rule, “Coordination,” described the need for collaboration and coordination in the development and implementation of monitoring programs. This paragraph is renumbered as paragraph (e) of the final rule, simplified, and renamed, “Coordination of monitoring and evaluation.”

Paragraph (c) of the proposed rule, “Project monitoring,” is renamed “Monitoring of site-specific actions” and renumbered paragraph (b) in the final rule. The text of the paragraph is modified to specify that the responsible official must determine funding will be adequate to complete specifically described monitoring and evaluation before authorizing a site-specific action. The proposed rule is not specific regarding who is responsible for a determination of the appropriate funding prior to authorization of an action.

Paragraph (d) in the proposed rule, “Monitoring and evaluation report,” is moved to paragraph (f) in the final rule, “A summary of the results of monitoring.” Two items required for “Identification of topics of general interest or concern,” and “A list of amendments, revisions and summaries of outcomes,” are removed from this section in the final rule. These items are required by section 219.30, “Plan documentation,” and not necessary to repeat as a requirement in the monitoring and evaluation report.

Paragraphs (e) and (f), “Monitoring of ecological, social, and economic sustainability” in the proposed rule, are redrafted to follow the content of sections 219.20 and 219.21 of the final rule. They are incorporated into paragraph (a), “Plan monitoring strategy,” in the final rule. Because sustainability is the foundation for providing multiple uses of national forest and grasslands and monitoring activities are directed toward effective and efficient strategies to evaluate sustainability, it is appropriate that the characteristics of sustainability are described in conjunction with development of the plan monitoring strategy.

Collaborative Planning for Sustainability

In the proposed rule, sections 219.12 to 219.18 outlined the opportunities for the public and others to be actively engaged in the Forest Service's land management planning process. Collaboration with the public is one of the overriding themes of this rule. The agency recognizes that these are the “people's lands” and the public should be actively involved in their planning and management. These sections identify multiple opportunities for early and continuous involvement by the public.

Proposed Section 219.12—Collaboration and cooperatively developed landscape goals. This section detailed opportunities for the public to become involved in the development of landscape goals for national forests and grasslands. This section also detailed the role the responsible official will play in fostering an understanding of the purposes of the National Environmental Policy Act.

Comment: Resolving conflicts. Some people suggested that the proposed rule include guidelines regarding what should be involved in collaboration and how potential conflicts among different parties will be handled. The responsible official, one business contended, needs to ensure that the parties involved in collaboration are all interested in problem solving. “The collaborative approach only works when you have a group that is interested in the solutions to the problems,” wrote this business representative. “It is a disaster when only part of the group wants to find solutions.” One person addressed a different perceived shortcoming of collaboration. “When the outcome of collaboration is different from what participants want,” this person wrote, “they often distrust the Forest Service and choose not to participate in future collaborate efforts.”

Response: Based on comments, section 219.12(a) of the final rule has been strengthened to provide that the “responsible official” must seek to “actively engage” the public and others in stewardship and planning of National Forest System lands. This change was made to emphasize the importance of actively working with the public and other agencies in forest planning. As noted in the Committee of Scientists Report, collaboration is about working together on issues of mutual concern in a manner that best fits the needs of people, place, and issues of concern.

In response to the comment on the commitment of parties to resolve problems, the final rule does not list any specific criteria for participation in the collaborative process. It is incumbent on the responsible official to identify the parties that will be “actively engaged” in the planning process. Section 219.12(a) of the final rule states that “the responsible official shall consider the distinct roles, jurisdictions, and relationships of interested and affected governments, organizations, groups, and individuals.”

In regard to the comment on the Forest Service's role in the outcome of collaboration, the final rule provides that the “responsible official shall provide early and frequent opportunities for people to participate openly and meaningfully in planning and has discretion to determine how to provide these opportunities.” The overall intent of this rule is to have the Forest Service working together with others to cooperatively resolve natural resource issues.

Collaborative planning is not a stop-and-start activity but rather an ongoing effort, with varying levels of intensity. Its purpose is to reach out to communities and other stakeholders and build stewardship relationships needed to achieve an integrated landscape for planning to achieve goals of sustainability.

Comment: Discretionary authority. The discretionary authority of the Forest Service was another source of concern for many respondents. Specifically, the proposed provision stating that, “The responsible official has full discretion to determine how and to what extent to use the collaborative process” evoked fears that the decision maker will be able to, in the words of one respondent, “manipulate the process to achieve a predetermined target under the collaborative decisions label.” To prevent this perceived abuse of discretionary power, several people recommended that the proposed planning rule require the responsible official to adhere to certain procedures such as documenting the rationale for choosing a given collaborative process and specifying when and how public input will be solicited. Others suggested that the proposed planning regulations retain current requirements for collaboration because they believe existing guidelines are more stringent in requiring opportunities for involvement with the public.

Response: The proposed rule provided that the responsible official has “full discretion * * * to determine how and to what extent” to use the collaborative processes outlined in certain sections of the proposed rule. Based on comments, this provision in the final rule has been changed in section 219.12(a) to provide the responsible official “has discretion to determine how to provide these opportunities.” The language “to what extent” has been removed from the final rule. The Department made this change to emphasize that the agency would use collaborative techniques in planning and stewardship of national forests and grasslands. Section 219.12(a) of the final rule recognizes that the responsible official may play several roles, such as leader, organizer, facilitator, or participant, in achieving collaboration.

In addition, discretion of the agency to consider “cooperatively developed landscape goals” has been modified in the final rule. Section 219.12(b)(3) provides that the responsible official “shall consider” (emphasis added) the cooperatively developed landscape goals as an issue for planning.

In regard to the comment on involvement with the public requirements, the rule does not conflict with any other public involvement processes the agency currently uses. In fact, the rule complements the existing public involvement requirements and increases opportunities for collaboration with the public throughout the planning process.

Comment: Implementation. The proposed planning rule, several believed, should clarify how collaborative planning goals relate to NEPA requirements and other goals proposed in the planning rule. In particular, the Forest Service must not substitute proposed collaborative processes for NEPA analysis, according to one organization. Clarification is also needed, one person wrote, regarding how the proposed collaborative planning process is different from the scoping process under NEPA. Other people suggested that the planning rule include recognition of the fact that collaboratively developed goals may not be consistent with other proposed goals such as ecological sustainability or emphasis on science. Some respondents agreed that collaborative planning is a laudable goal but, doubt that it will be realized. Citing a variety of past examples in which the Forest Service perceivably discounted local interests, several respondents wondered whether the Forest Service will actually adopt management directions developed through collaborative efforts. The Forest Service, others suggested, should disclose how public comments are used in forest planning.

Response: The proposed rule provided that the responsible official should use collaboration to develop landscape goals for “ecological units” that may be associated with National Forest System lands. In the final rule, this provision has been changed to using collaborative efforts “to develop or propose landscape goals for areas that include National Forest System lands.” The Department made this change to broaden the use of collaboratively developed landscape goals, not just to ecological units, but to all lands associated with the National Forest System. With respect to the comment on consistency of collaboratively developed landscape goals and ecological sustainability, Section 219.4 of the final rule provides that the responsible official should consider the extent to which addressing the issues relates to or provides an opportunity to contribute to the “restoration or maintenance of ecological sustainability.”

In regard to landscape goals and NEPA, the language in section 219.12(b)(2) in the proposed rule has been retained in the final rule that recognized the importance and understanding of collaborative efforts and the National Environmental Policy Act. Section 219.12(b)(2) of the final rule explicitly recognizes the link between NEPA and collaborative planning. In section 219.5 of the final rule, the Department has clarified that “the results from broad-scale assessments, local analyses, monitoring activities, and other studies that are not plan or site-specific decisions or proposals . . . are not subject to Forest Service NEPA procedures.” The Department made this change to clarify that these landscape goals are broad landscape goals and not decisions requiring NEPA analysis. With respect to public comments during the planning process, all public comments are available for review. In regard to scoping and collaborative planning, the Department views collaborative planning as complementary to the NEPA scoping process. This is one more avenue for the agency to actively engage the public in land and resource planning.

In regard to the comments about the Forest Service adopting management directions developed in collaborative efforts, the overall intent and emphasis in the rule is for the Forest Service, along with other parties, to “actively engage” in a collaborative planning process to problem solve and identify mutual goals and interests. The collaborative process does not ensure what decision will be made by the responsible official.

Comment: Efficiency. Other people worried that the involvement of “uninformed” parties, single-issue organizations, or individuals or groups that cannot demonstrate a “relevant relationship to the subject matter of a proposed plan” results in an inefficient and laborious collaborative process. Similarly, some respondents asserted that if the Forest Service were required to consider all landscape goals initiated by various individuals and groups, decisionmaking would be slowed considerably. One organization cautioned, “Decisions not incorporating all the conflicting goals will end up in litigation and further waste of taxpayer resources.”

Response: The proposed rule provided that collaboration in land and resource management planning “enhances the ability of people to work together, build their capacity for stewardship, and achieve ecological, economic, and social sustainability.” In section 219.12(a) of the final rule, the Department has strengthened this provision by stating “to promote sustainability, the responsible official, must seek to actively engage the American public, interested organizations, private landowners, state, local, and Tribal governments, and other federal agencies in the stewardship of National Forest System Lands by providing early and frequent opportunities for people to participate openly and meaningfully in planning.” The Department continues to believe that meaningful collaboration by the agency with all interested parties is the best way to manage the national forest and grasslands. With respect to potential litigation and collaboratively developed landscape goals, section 219.4(b) of the final rule provides that the responsible official has the discretion to determine “whether and to what extent an issue is appropriate for consideration.” Litigation risks cannot be determined at this time. Collaboratively developed landscape goals are not subject to Forest Service NEPA procedures. Section 219.12(b)(3) of the final rule provides that cooperatively developed landscape goals are considered as an issue within the framework of planning. Section 219.12 of the final rule encourages an efficient and effective approach among interests to utilize limited human and financial resources that enable use of the latest technology and adoption of creative approaches to collaboration. It positions the agency in a leadership role and commits, as appropriate and practical, the responsible official to use creative collaborative approaches to supplement traditional NEPA processes.

Comment: Local Groups. Some people worried that Forest Supervisors may interpret the guidance in the proposed rule encouraging responsible officials to “initiate or seek to join ongoing collaborative efforts to develop or propose landscape goals” as a mandate to rely on local groups such as the Quincy Library Group. These people did not want the Forest Service to give special consideration to local collaborative groups and recommended that the proposed rule explicitly state that input from collaborative groups will be considered equally with input from other sources.

Response: The proposed rule provided that the responsible official and those involved in planning should invite and encourage others to engage in the collaborative development of landscape goals. Section 219.12(b)(1) of the final rule retains this language. The Department believes that this language is broad enough to ensure that one group does not have special consideration during the planning process. The intent of this section is to provide opportunities for all parties interested in forest planning to have an active role in the development of landscape goals and the collaborative process. As noted in the Committee of Scientists Report, collaborative planning is a shared process within which agencies cooperate with one another, work with other public and private organizations, and engage communities and citizens in envisioning and working toward a sustainable future of the national forests and grasslands.

Proposed Section 219.13—Coordination among federal agencies. This section of the proposed rule addressed coordination with other federal agencies in national forest and grassland planning and decisionmaking.

Comment: Sentiments were mixed among those respondents who specifically addressed coordination among federal agencies in national forest planning. While some supported the proposed planning rule's emphasis on participation and coordination of various federal agencies in forest planning, others were concerned that this focus on coordination might unduly influence other agencies' management actions.

Response: Section 219.13 of the proposed rule provided that the responsible official must provide “early and continuous coordination” for other interested or affected federal agencies to participate in identification of issues and formulation of proposed actions that may affect their programs. Section 219.13 of the final rule changed the language from “continuous coordination” to “frequent coordination” for working with other federal agencies. This change was made to clarify that there would be multiple opportunities for other federal agencies to participate in planning. Agencies are also urged to contribute to streamlined coordination of federal agency policies, resource management plans, or programs. Other federal agencies may further engage in a variety of tasks throughout the NEPA process, examples include: assist the agency in EA and EIS development, participate in public scoping, develop information and analyses in which they have special expertise, contribute staff and resource support, participate on interdisciplinary planning teams, and share information and data. These actions strengthen the final outcome for sound management of public resources.

In regard to the comment on the influence of the Forest Service to other agency management actions, section 219.12 of the final rule recognizes the distinct jurisdictions, policies and legislative mandates of the other federal agencies. This language was retained from the proposed regulations.

Proposed Section 219.14—Involvement of state and local governments. This section of the proposed rule described the involvement of state and local governments in the land and resource management planning and decisionmaking.

Comment: Suggestions for creating a useful collaboration process. Many people who responded to the proposed planning regulations support the idea that the Forest Service should actively collaborate with state and local governments. Forest Service officials, several respondents claimed, often require state and local governments to participate in planning in the same manner as members of the public rather than create specific outreach mechanisms for these governmental entities. These people offered a variety of suggestions for creating a useful collaboration process designed for state and local governments. These included requiring early and continuous coordination with state and local governments, consulting with state and local government officials, establishing state and local agencies as cooperating agencies under NEPA, obtaining the consensus of local governments before establishing topics of concern, providing documented rationale for the acceptance or rejection of local governmental concerns and suggestions, and establishing a process for intergovernmental information exchange.

Response: Section 219.14 of the proposed rule stated that the responsible official must provide opportunities for involvement of state and local governments in the planning process, including opportunities to participate in identification of topics of interest or concern related to the planning area. Based on comments, the Department has strengthened section 219.14 of the final rule to provide “early and frequent” opportunities for state and local governments to be actively involved in the planning process. In addition, the Department has also included language in section 219.14(b) of the final rule that acknowledges the need to coordinate resource management plans and programs with state and local governments. The final rule directs the continued building and fostering of these relationships.

Comment: Resolving conflict. Some respondents expressed reservations regarding the potential success of collaborative efforts with local and state governments. “Local governments,” one organization claims, “may exercise their rights to maintain roads and trails counter to the desires of other interests within the ‘collaborative’ decisionmaking process—leading to additional conflict, litigation, and wasted resources.”

Response: Section 219.12(a) of the final rule provides that the responsible official should recognize the “distinct roles, jurisdictions, and relationships of interested and affected governments, organizations, groups and individuals.” The Forest Service will conduct collaborative planning consistent with all applicable federal laws and regulations. This rule does not abrogate any federal responsibility to state government.

Comment: Discretionary authority. Although many respondents like the proposed planning rule's general emphasis on collaboration with state and local governments, several argued that the rule does not provide adequate assurance that these governments will be meaningfully involved in collaborative efforts. These people suggested that the Forest Service clarify how local and state governments will be engaged in forest planning by eliminating discretionary language and providing more specific direction in the proposed planning regulations. In particular, the proposed rule, one person suggested, should specify that municipalities and special districts would be consulted in forest planning. This respondent asserted that national forest management often affects water and sewage districts; thus, the Forest Service should involve these affected parties.

Response: Section 219.14 of the final rule identifies some of the key steps where state and local governments will be engaged in planning. State and local governments will be involved in the identification of issues as described in section 219.4(a) of the final rule. Further, section 219.14 in the final rule provides that the responsible official must provide early and frequent opportunities for state and local governments to participate in the planning process. This language strengthens the intent of the rule to have the agency work with state and local governments in planning. In addition the rule recognizes the need for the Forest Service and state and local governments to coordinate plans and programs.

Comment: Coordination. Several people suggested this is a critical component of effective collaboration procedures. Whether they want the Forest Service to retain existing requirements for coordination and review procedures or adopt the Bureau of Land Management's coordination requirements, these people generally believed that the rule must be explicit in requiring the Forest Service to strive for consistency among various plans and policies.

Response: Based on comments, the Department has added section 219.14(b) that recognizes the need for the Forest Service to coordinate resource management plans and programs with state and local governments. In addition, section 219.13 of the final rule describes the process for the Forest Service to coordinate their plans and programs with other federal agencies.

Proposed Section 219.15—Interaction with American Indian Tribes and Alaska Natives. This section of the proposed rule described the interaction with American Indian Tribes and Alaska Natives in National Forest System planning and decisionmaking.

Comment: Several people believed that the proposed planning rule should more explicitly recognize the Forest Service's responsibility to consult with American Indian tribes and Alaska Natives in forest planning. The proposed rule, one respondent asserted, must require that Forest Service decisions that may potentially impact tribal trust resources be specifically analyzed for compliance with fiduciary obligations of the United States. According to this respondent, “More emphasis needs to be placed on the recommendations and desires of American Indian Tribes and Alaska Natives through the planning process because much of these lands involve aboriginal and ancestral lands of American Indian Tribes and Alaska Natives.” The involvement of tribes and natives in forest planning was important for several respondents who do not think tribes should be treated in the same manner as members of the public or state agencies are treated. American Indian Tribes and Alaska Natives, these people asserted, must be partners in the initial, pre-scoping stages of Forest Service planning. Another respondent recommended that formal agreements be developed with tribal governments regarding planning priorities and joint management in areas where common boundaries exist.

Response: Section 219.15 of the final rule retains language from the proposed rule declaring that the Forest Service shares in the federal government's overall trust responsibilities and recognizes the government-to-government relationships with American Indian Tribes and Alaska Natives. It also retains language calling for collaboration in the early identification of treaty rights, treaty-protected resources, tribal trust resources, and other tribal consultation and participation. Section 219.3(c) of the final rule provides that American Indian tribes and Alaska Natives are to be engaged in an “interdisciplinary, collaborative approach to planning.” The Department believes that section 219.15(c) of the proposed rule, which is retained in the final rule, provides explicit language for the Forest Service to consult with American Indian tribes. There is no discretionary language in this section of the rule.

Comment: Tribal treaty requirements. In order to exercise their rights, one tribal organization asserted that the Forest Service must acknowledge the significant treaty requirements for protection of fish, wildlife, and plants. This organization claimed that national forest lands must be managed for a productive yield to allow tribes to exercise their preexisting legal rights.

Response: Section 219.15 of the final rule emphasizes identification of treaty rights and treaty and trust resources. The planning regulations provide for early and frequent communication among Forest Service personnel and American Indians and Alaska Natives. The planning rule does not modify tribal treaty requirements.

Proposed Section 219.16—Relationships with interested individuals and organizations. This section of the proposed rule addressed relationships with interested individuals and organizations in national forest and grassland planning and decisionmaking.

Comment: Encouraging public involvement. Many people who commented on the proposed planning rule agreed that public involvement should be an integral part of forest planning. However, respondents' perceptions varied as to whether the proposed planning regulations will, in effect, increase or decrease public involvement opportunities. Nevertheless, the Forest Service, they contended, should encourage more public involvement throughout the entire forest planning process to account for the needs and wants of different forest users. Some further suggested that the Forest Service clarify what incentives will be offered to encourage people to become involved early in the planning process.

Response: Section 219.16 of the proposed rule, which is retained in the final rule, described a process for the responsible official to involve the public in the planning process. Based on comments, the Department has strengthened this section in the final rule by describing specific steps where interested individuals and organizations will be “actively” engaged in planning. As noted in the Committee of Scientists Report, multiple mechanisms of public dialogue need to be devised to enhance the capacity of the American people to effectively engage in the planning process. The Committee of Scientists also wrote that planning must provide mechanisms for broad-based, vigorous, and ongoing opportunities for open public dialogue. These dialogues must be open to any person, conducted in non-technical terms, and structured to accommodate differing schedules, capabilities, and interests. The Department continues to support a comprehensive public involvement process that has multiple opportunities for diverse interests to participate in the forest planning process. It recognizes that the planning process must be fair, meaningful, and open to persons with diverse opinions and values. Through this process, the responsible official must provide early and frequent opportunities for interested parties to participate, work together, and collaborate to improve understanding. A central function of the planning process aims at facilitating community building by providing opportunities for people to come together. There are not explicit incentives to participate in the collaborative planning process in the rule; however, the rule does ensure the opportunity for the agency and interested parties to collaboratively develop plans for our national forests and grasslands.

Comment: Reducing bias in decisionmaking. Many people asserted that when the Forest Service develops public outreach strategies, it must both engage a broad range of constituents in the collaborative process and equally consider the diverse interests of these constituents. Whether they believe the Forest Service may give undue preference to the views of local residents, logging companies, or environmentalists, many respondents strongly insisted that the proposed planning rule should reduce bias in decisionmaking by requiring equal outreach and consideration processes for different stakeholders. The Forest Service, some contended, must clarify how collaborative processes will weigh the input from different interests. Offering a specific suggestion for reducing bias in forest planning, one person proposed “each national forest be governed by a set of elected officials who would be responsible to the public for the management of the national forests.” By electing designated representatives, the Forest Service, this person contended, would be able to balance non-local interests and local interests as well as the interests of those who have the time and resources to participate and those that do not.

Response: The final rule retains the language in section 219.16 of the proposed regulations that recognized the need for engaging diverse interests in collaborative planning. As noted in the Committee of Scientists Report, collaborative planning must recognize the inevitability of legitimate, yet competing, values in National Forest System management. It must encourage divergent interests to collectively deal with their differences while pursuing shared goals for the national forests and grasslands. With respect to the comments on bias of planning, this rule provides a framework for developing plans that provides equal opportunities for all interested parties to participate in a meaningful and open collaborative planning process.

Comment: Involvement in collaborative planning. Some respondents offered specific ideas regarding who should or should not be involved in collaborative efforts. Several people argued that the Forest Service must focus collaboration at the local level and give priority consideration to local concerns. In the words of one person, the Forest Service should “listen to the local people who use the forests.” Others did not want corporate interests involved in collaboration; these “faceless corporate giants,” they perceived, used money and well-spoken representatives to unjustly influence the decisionmaking process. Similarly, some people suggested that paid lobbyists be excluded from the collaborative process as well. Some town meeting attendees felt that the Forest Service should clarify the difference between interested and affected parties in the collaboration process.

Response: The proposed rule provided language that would “encourage participants to work collaboratively and directly with one another to improve understanding.” In the final rule, the Department has expanded the language to “encourage interested individuals and organizations to work collaboratively and directly with one another to improve understanding.” In addition, section 219.16(b) of the final rule includes language that directs the responsible official to initiate a planning process that is “fair, meaningful, and open to persons with diverse opinions.” The Department believes that this language encompasses not only local citizens and interest groups, but a national constituency as well. The Department recognizes that all Americans own the national forests. The language in the final rule provides a framework for all interested parties to actively participate in the planning process. Section 219.12 of the final rule provides that the responsible official has the authority to consider the distinct roles, jurisdictions, and relationships in identifying participants in the collaborative process.

Comment: Outreach methods for soliciting public comment. Some respondents asserted that the Forest Service does not currently do enough to encourage involvement of all interested parties and should explore more creative ways of informing people about public involvement opportunities. Several people offered a variety of different suggestions for improving Forest Service outreach efforts. These included using different media to disseminate information such as the telephone, internet sites, industry-specific newsletters, radio programs, and bulletin boards, providing adequate notice and time for public comment opportunities, holding meetings within local communities and at convenient times, using neutral group facilitators and a small group format for public meetings, incorporating funding for outreach efforts in the annual Forest Service budget, maintaining databases of people who have expressed interest in forest planning, establishing partnerships with interested groups and individuals, and training Forest Service personnel in collaboration procedures. Regardless of which specific outreach method the Forest Service uses in planning, some respondents asked that the proposed rule include the NFMA mandate that requires the Forest Service to “hold public meetings or comparable processes at locations that foster public participation in the review of such plans and revisions.”

Response: The proposed rule provided a framework to actively engage the public in a meaningful collaborative planning process. The Department continues to support that framework in the final rule. The Department acknowledges that the agency has multiple roles in the collaborative process including leader, organizer, facilitator, or participant. As noted in the Committee of Scientists Report, information is a key element in building an accessible planning process and an honest relationship between the agency and communities. The Committee further noted that where key information about the resources and management of national forests and grasslands is readily available in a range of locations and formats, open information policies could provide any interested individual the ability to understand, critique, and participate in planning processes. The Department agrees with the respondents about using different media and requires alternative formats for persons with disabilities when disseminating information to the public. The planning framework outlined in the final rule requires the Forest Service to use a variety of media to engage the public and tribal governments in planning. The overall intent of the rule is to “actively engage” the public in collaborative planning. The rule emphasizes the need to utilize multiple methods to disseminate planning information.

In regard to the comment about holding public meetings on changes in the plans, the agency will continue to have public involvement in accordance with Forest Service NEPA procedures. There is no intent to eliminate these requirements from Forest Service planning.

Comment: Role as an educator. The Forest Service's role as an educator evoked comments from several respondents. These people believed the Forest Service should establish educational programs that provide the public with both environmental and forest management planning information. These people contended that informed stakeholders will help expedite the planning process and contribute to improved forest plans.

Response: The proposed rule acknowledged the multiple roles the agency has in the collaborative planning process. The final rule retains the multiple roles for the agency in the collaborative planning process. The Department acknowledges that the agency will not only be a convener, facilitator, leader, or participant, but will also be an educator. The principles in the final rule provide that “planning meaningfully engages the American people in the stewardship of their national forests and grasslands.” The Department believes that the agency will be learning along with the public in a collaborative planning process. One of the themes of the rule is to inform and educate the public about the Forest Service's planning process. Section 219.16(e) of the final rule provides for the Forest Service to work with parties to identify information needs for planning. The rule provides a framework for the Forest Service to be an educator as well as a participant in the planning process.

Proposed Section 219.17—Interaction with private landowners. This section of the proposed rule described the interaction with private landowners in National Forest System planning and decisionmaking.

Comment: Few people specifically addressed this section. One individual believed that the language of the proposed rule is too discretionary about requirements for engaging private landowners in forest planning.

Response: Section 219.17 of the final rule describes the process for the responsible official to engage private landowners in the planning process. The final rule provides that the Forest Service will work with adjacent landowners on issues of mutual concern that may affect them or management of National Forest System lands.

The final rule retains the requirement that the responsible official seek to engage private landowners. The information to be requested is expanded by the Department to include local knowledge, potential actions and partnerships, potential conditions and activities on National Forest System lands that may affect adjacent private lands, and issues relating to the plan area. The Department added these provisions to more clearly identify the types of information that were being sought from private landowners.

The Department has removed the phrase in the proposed regulations “consideration of the pattern and distribution of land ownership in assessment and plan areas is critical” in the final rule. The Department is confident that the language in the final rule adequately recognizes the interrelationships between private landowners and the Forest Service. The Department has added a new item (b) in the final rule that recognizes opportunities for partnerships between Forest Service and private landowners.

Proposed Section 219.18—Role of advisory groups and committees. This section of the proposed rule described the role of advisory committees and groups in land and resource management and decisionmaking. This section has been renamed in the final rule to “Role of advisory committees.”

Comment: Influence of local interests. Many who wanted the proposed provision for advisory groups eliminated from the planning regulations claim that local commodity or economic interests will dominate these groups. Advisory groups composed of mostly local interests, these people argued, will likely advocate damaging land management practices rather than emphasizing the needs and desires of a broad spectrum of interests. In contrast, some respondents believed that local advisory groups are long overdue in national forest planning. They contended that these groups are needed to provide a means for rural communities to voice concerns about Forest Service projects that may have local impacts. In formalizing the concept of the proposed advisory groups, several people suggested that the Forest Service establish the groups as permanent committees accountable to the Forest Service leadership team.

Response: Because the Forest Service cannot carry out the mission of sustainability alone, the Committee of Scientists recommended that it develop both formal and informal collaborative structures that engage the broader community of interests and responsible governments to work together. Mechanisms for ensuring ongoing, long-term, broadly inclusive public relationships that build the capacity for creating effective collaborative stewardship are necessary for effective planning. It is the obligation of every line officer to build and maintain strong relationships with members of the public, interested organizations, other governments, and appropriate federal agencies. In some areas, especially when communities are spread over a large area, multiple, informal, localized networks can be a useful approach to maintaining these relationships. In other cases, especially when large landscape plans cross multiple social communities and other political boundaries, formal advisory boards may be the appropriate mechanism for ensuring full and representative participation. Section 219.18 of the final rule describes the roles and responsibilities of advisory committees in the planning process. The Department believes that Forest or Grassland Supervisors must have access to an advisory committee. These groups can raise issues and communicate other information vital to the planning process. They should not be construed to only allow local participation. Effective committees will respect all of those interested in or affected by national forest system management. The Department believes these groups will provide important information for planning and decisionmaking.

Comment: Composition of advisory groups. Whether they explicitly expressed support of or opposition to the proposed advisory groups, many respondents asked that the groups represent diverse interests. Fearing that these advisory groups may be biased toward one particular interest group, these people requested that specific guidance be included in the planning regulations directing the Forest Service to create well-balanced committees. Several respondents offered suggestions for the specific guidance they wanted included in the regulations. These included criteria for selection of committee members, requirements to ensure that groups represent diverse values, and clarification regarding the relationship between proposed advisory groups and the Federal Advisory Committee Act. In addition, some people made specific requests for the composition of these groups such as excluding vested financial interests from participating and ensuring American Indian and Alaska Native representation.

Response: As noted by the Committee of Scientists, formal advisory boards, chartered under the Federal Advisory Committee Act and appointed by the Secretary of Agriculture, can provide an immediate, legitimate, representative, and predictable structure within which public dialogue can occur so that Forest Service relationships with a broad and dispersed community of interests can be efficiently maintained. The NFMA authorizes the formation of such advisory committees. These committees should contain representatives of the diversity of interested institutions and individuals, as currently required in the law. Thus, when they are the appropriate mechanism, the Forest Service should not hesitate to formally charter advisory boards at the individual national forest level or at the large landscape level, whichever provides the greatest opportunity to gain representative, structured, and focused public interactions through which the key issues can be most effectively and meaningfully addressed. Section 219.18 also provides for the Forest Service to utilize groups already established by other governmental agencies. In addition, the Department has added a new subparagraph (c) that provides for the responsible official to emphasize the importance of Forest Service participation in community based groups such as local watershed councils. With respect to the concern about providing specific guidance in the planning regulations, the rule provides only the framework for establishing advisory committees. It does not include specific language for representation on these advisory committees. This will be determined by the specific circumstances and needs for an advisory committee.

Ecological, Social, and Economic Sustainability

Section 219.19—Ecological, social, and economic sustainability. This section of the proposed rule described goals and priorities for sustainable management of National Forest System lands.

Comment: Definition of sustainability. The definition of sustainability evoked numerous concerns from the people responding to the proposed planning regulation. Some believed that the ambiguity of the term needed to be addressed. Because there are many different meanings of sustainability, its use created confusion throughout the proposed rule, according to one respondent. Many felt that the term should be used consistently throughout not only the proposed planning regulations but also the entire federal planning process.

Response: The Department agrees that the inconsistent use of sustainability in the proposed rule was a source of potential confusion. A definition of sustainability has been included in the final rule. Section 1(b)(3) defines sustainability as being composed of interdependent ecological, social, and economic elements, embodying the principles of multiple-use and sustained-yield without impairment to the productivity of the land, and meeting needs of the present generation without compromising the ability of future generations to meet their needs. Impairment of the productivity of the land means managing lands in a manner inconsistent with the requirements of ecological sustainability in section 219.20. It is beyond the scope of the current rule-making effort to propose consistent treatment of sustainability in all federal planning processes.

Comment: Implications for resource management. Some respondents were concerned that the adoption of the sustainability goal will prescribe activities on national forests that are considered nonrenewable. They felt the proposed rule should address how actions such as mining can be conducted in a sustainable manner. Others were equally concerned that their personal access to national forests will be limited by the proposed rule. They questioned what activities would be allowed and feared their activity on national forests might be excluded by the attempt to attain the goal of sustainability. These respondents sought reassurances that such a scenario will be avoided.

Response: The proposed rule did not specifically address how nonrenewable activities can be addressed in a sustainable manner or define activities that would be allowed on the national forests and grasslands. Likewise, these topics are not addressed in the final rule. Rather, the rule establishes a process for identifying, discussing, and, if appropriate, acting on issues that may emerge from a variety of sources (section 219.4).

The Department believes that this rule, and in particular, its sustainability requirements, will not by itself preclude mining activities. Analysis and collaboration conducted under the requirements of the rule, and following all applicable laws, will determine where mining is appropriate and what mitigation measures will be required. The rule's emphasis on ecosystem health, collaboration, and the role of science may very well result in the identification and implementation of effective and efficient mitigating measures applicable to mining operations, improving the overall sustainability of the use and development of what are commonly referred to as nonrenewable resources.

Comment: Assessing ecological, social, and economic sustainability. Many respondents felt the ecological, economic, and social benefits derived from national forest management must outweigh the costs involved. This is the standard by which the Forest Service should measure sustainability, according to these citizens. Others asserted that ecological, economic, and social sustainability should receive equal consideration in the proposed rule. Citing the fact that social and economic sciences are currently not being integrated into Forest Service decisions, they believed that this perceived oversight be corrected in the final planning rule. In addition, one respondent wanted the proposed rule to set a discrete time period over which sustainability is to be measured. Finally, other people applauded the choice of sustainability as the guiding principle of forest management because they believe such a goal is admirable and attainable.

Response: Requirements for achieving sustainability are found in sections 219.19, 219.20, and 219.21 of the final rule. The proposed rule did not specify how social and economic sustainability was to be achieved in relation to ecological sustainability. In the final rule, social and economic sustainability is achieved by providing a range of uses, products, services, and values, consistent with ecological sustainability (section 219.20(b)). The first priority for stewardship of the National Forest System, which is to maintain and restore ecological sustainability, is unchanged from the proposed rule. The Department believes that these requirements will result in ecological, economic, and social benefits that are greater than the costs. As noted by the Committee of Scientists, “* * * ecological sustainability lays a necessary foundation for national forests and grasslands to contribute to the economic and social components of sustainability, making contributions to strong productive economies and creating opportunities for enduring human communities.”

In the proposed rule, information on ecological sustainability is collected at a variety of spatial and temporal scales. This requirement has been retained in the final rule. The proposed and final rules are silent on the temporal scale for the evaluation of social and economic sustainability. The proposed rule acknowledges social and economic analyses being undertaken at various spatial scales. The final rule requires the planning process to include analyses for social and economic information at variable scales, including national, regional, and local scales. The responsible official has the authority to determine the appropriate scope and scale of analysis and data collection. In making this determination, the responsible official appropriately applies collaboration and the best available science.

As noted in section 219.20(a) of the final rule, the collection and analysis of information at a variety of spatial and temporal scales is important in providing for maintenance or restoration of ecosystems. These scales include geographic areas such as bioregions and watersheds, scales of biological organization such as communities and species, and scales of time ranging from months to centuries. For this reason, the Department has not adopted a discrete time period over which sustainability is to be measured.

The Department agrees that sustainability is the guiding principle of National Forest System management. This section of the proposed rule referred to sustainability as the overall goal for the management of National Forest System land. The Department has retained this reference in the final rule.

Comment: Linkage between ecological, economic, and social sustainability. Some people believed that the Forest Service should emphasize the link among the three types of sustainability outlined in the proposed planning regulations. Others sought clarification regarding the link between ecological and socioeconomic sustainability, as well as what role extraction industries will play in achieving ecological sustainability.

Response: The Department agrees that the linkage between ecological, social and economic sustainability was not sufficiently emphasized in the proposed rule. Language was added to the final rule to rectify this insufficiency. In the final rule, sustainability, composed of interdependent ecological, social, and economic elements, embodies the MUSYA without impairment to the productivity of the land and is the overall goal of management of the National Forest System. The first priority for stewardship of the national forests and grasslands is to maintain or restore ecological sustainability to provide a sustainable flow of uses, values, products, and services from these lands.

To contribute to economic and social sustainability, the responsible official involves interested and affected people in planning for National Forest System lands (§ 219.12-219.18), provides for the development and consideration of relevant social and economic information and analyses, and a range of uses, values, products, and services. Plan decisions contribute to social and economic sustainability by providing a range of uses, products, services, and values, consistent with ecological sustainability (section 219.21(b)).

The proposed rule did not define a specific role for extractive industries in achieving ecological sustainability. Nor has such a role been defined in the final rule. The final rule does include provisions such as § 219.21(a)(1)(iii) that require the responsible official to consider opportunities to provide social and economic benefits to communities through natural resource restoration strategies. The rule establishes a process for identifying, discussing, and, if appropriate, acting on issues that may emerge from a variety of sources (section 219.4). The Department believes that the role of extractive industries in achieving ecological sustainability is most appropriately addressed using this process.

The final rule would not, by itself, result in environmental consequences. Rather, adverse effects or benefits would only be realized when the new rule is applied on national forests and grasslands through forest and project level planning. Because application of the rule requires consideration of site-specific information that pertains to the planning unit, it is not possible, from a programmatic viewpoint, to determine short or long-term environmental, social, or economic consequences of the final rule. The Department believes that this rule, and in particular, its sustainability requirements, will not by itself preclude mining or other economic activities. Analysis and collaboration conducted under the requirements of the rule, and following all applicable laws, will determine where mining is appropriate and what mitigation measures will be required. The rule's emphasis on ecosystem health, collaboration, and the role of science may very well result in the identification and implementation of effective and efficient mitigating measures applicable to mining operations, improving the overall sustainability of the use and development of what are commonly referred to as nonrenewable resources. As noted above, mitigation of the effects of mining activities through the application of the planning rule may reduce the overall environmental impacts of mining within national forests and grasslands.

Similarly, any short-term or long-term effects on the availability of forest products and services would occur on a forest-by-forest basis once forest plans were revised under the final rule. For this reason, quantifiable impacts to the availability of forest products and services cannot be determined at this time. The Forest Service speculates that by implementing the rule, the Forest Service will put greater emphasis on maintaining and restoring ecosystem health in order to promote sustainable forest use. As a result, it is possible that there could be less timber volume made available for commodity purposes in the future. At the same time, more timber volume could be made available as a result of efforts to increase timber harvest for stewardship purposes.

Comment: Adoption of Montreal Criteria: One respondent recommended that the rule be used to build greater consistency between sustainable forest management, including national commitments to sustainable forestry and the Forest Service Natural Resource Agenda, and national forest planning. Adoption of the seven Montreal Process Criteria within the regulation was specifically recommended to provide a framework for measuring and organizing information and performance related to sustainability.

Response: The Committee of Scientists, while acknowledging their potential usefulness, had a number of qualifications about the use of criteria and indicators for gauging sustainability on the National Forest System lands. First, the Committee found that they might not be sufficient, by themselves, to gauge ecological sustainability. As an example, the “maintenance of productive capacity of forest ecosystems” does not appear to include the amount of dead trees for wildlife habitat as an indicator. Second, the Committee believed that the criteria and indicators are generally non-spatial and seem to lack a landscape view. They focus on measuring acres in certain condition without the aggregation needed for judgments about areas. The lack of integrative concepts on the use of the criteria and indicators may make it difficult to use them to make overall judgments. Finally, the Committee felt that they could consume much of the agency's resources for inventorying and monitoring, leaving little to other important measures of sustainability.

The Department is guided by the qualifications of the Committee of Scientists concerning the use of criteria and indicators for gauging sustainability on National Forest System lands. The specific framework for illustrating the linkage between sustainability and the Montreal Criterion are under development and are expected to be included in Forest Service directives as they become available.

Other changes: The final rule refers to sustainability as the embodiment of the principles of multiple-use and sustained-yield without impairment to the productivity of the land. This language is not contained in the proposed rule. The Department has included this language to more clearly describe the linkage of sustainability to the requirements of the MUSYA. The phrase “without impairment to the productivity of the land” in this statute is key in defining both multiple-use and sustained-yield and is acknowledged in the final rule.

Other changes in the final rule are made to eliminate redundancy, improve clarity, or incorporate changed terminology. The proposed rule required that management be consistent with laws and regulations. This reference is removed from the final rule because this is a requirement of all actions by each civil servant and not unique to management of national forests or grasslands. The proposed rule referred to sustainability as the overall goal of National Forest System management and this reference is retained in the final rule. Similar language is found in section 219.1(b) of the final rule. Finally, section 219.1(b)(3) of the proposed rule made reference to the interdependent elements of sustainability. This reference is included in this section of the final rule to emphasize the importance of consideration of the interdependent nature of ecological, social, and economic sustainability.

Section 219.20—Ecological sustainability. This section of the proposed rule described the key principles and desired outcomes for ecological sustainability.

Comment: The definition of ecological sustainability. Some felt that the proposed regulations should include humans and their impacts on the environment in the definition. Of those respondents that use the terms ecological sustainability and forest health interchangeably, some suggested the proposed rule clarify the definition of forest health.

Response: The Department believes that humans and their impacts on the environment are included in the definition of ecological sustainability. The Department also believes that forest health is also encompassed in this definition. Ecological sustainability is defined in section 219.36 of the final rule as the maintenance or restoration of the composition, structure, and processes of ecosystems including the diversity of plant and animal communities and the productive capacity of ecological systems.

Comment: Ecological sustainability and discretionary language. Numerous people cited the use of discretionary language, such as “may” and “should,” as a serious flaw in the proposed regulations. These individuals would like to see the inclusion of imperative language, such as “shall” and “must,” to ensure that ecological sustainability is achieved.

Response: The Department has retained the discretionary language in the final rule. It does not believe that the use of discretionary language in referring to ecological sustainability is a serious flaw. The planning rule is intended to provide numerous opportunities to reach well-reasoned and sustainable solutions to natural resource issues. Discretionary authority often provides flexible and appropriate solutions to complex natural resource issues among competing interests. It has been the experience of the Forest Service and others that the net result of inflexible policies often results in poorer solutions.

Comment: Specific guidelines for ecological sustainability. Several respondents that supported the goal of ecological sustainability felt that the proposed planning rule lacks specific guidelines. They requested that the Forest Service include clear, direct standards and goals for achieving ecological sustainability in the final rule. Others asserted that ecosystem recovery should occur before the maintenance of sustainability is undertaken. A few respondents urged the Forest Service to recognize the link between timber harvest and ecological sustainability. They were adamant that fuel loads and overstocked forests pose a more serious threat to forest health than logging does.

Response: The Department agrees that the proposed rule did not include clear, direct standards and goals for achieving ecological sustainability. This section of the final rule was revised in response to this concern. Requirements for achieving ecological sustainability are found in section 219.20(b) of the final rule.

The proposed rule did not require ecosystem recovery to occur before the maintenance of sustainability is undertaken. Nor did it recognize the link between timber harvest and ecological sustainability. The Department did not include either of these issues in the final rule. The rule does establish a process for identifying, discussing, and, if appropriate, acting on issues that may emerge from a variety of sources (section 219.4). The Department believes that these issues are most appropriately addressed using this process.

Finally, as noted above, the Department believes that the definition of ecological sustainability encompasses forest health.

Comment: Ecological sustainability as the over-reaching goal of forest planning. Some respondents cited the loss of jobs and an increase of appeals and litigation as reasons not to support the goal of ecological sustainability. One respondent asserted that ecological sustainability is unattainable under the current ecological circumstances. Invasive species such as cheatgrass have irretrievably altered the landscape, this person contended, precluding the possibility of attaining ecological sustainability. Others believed the goal of ecological sustainability is too nebulous a concept to use as a standard upon which to judge forest health.

Response: The Department does not believe that the goal of ecological sustainability will result in a loss of jobs or an increase in appeals and litigation. As noted by the Committee of Scientists, “* * * ecological sustainability lays a necessary foundation for National Forests and Grasslands to contribute to the economic and social components of sustainability, making contributions to strong productive economies and creating opportunities for enduring human communities.” The intent of the objection process (section 219.32) is to encourage resolution of issues before decisions are made. In the long run, the objection process is expected to resolve many potential conflicts, reducing litigation.

The proposed rule stated that where ecosystems have been altered to the extent that it is not possible to return them to conditions within the historical range, other scientifically credible approaches may be used to maintain or restore ecological sustainability. The final rule states that where it is not practicable to make measurable progress toward conditions within the expected range of variability, plan decisions may provide for ecosystem composition and structure outside the expected range of variability. Other independently peer-reviewed methods must be used to provide for ecosystem diversity. The Department believes this language in the final rule provides for ecological sustainability where circumstances, such as invasive species, have irretrievably altered the landscape.

Finally, as noted above, the Department changed this section to provide clear, direct standards and goals for achieving ecological sustainability.

Comment: The maintenance of the composition, structure, and processes of ecosystems. Some respondents asserted that the discretionary and nebulous nature of this mandate will lead to arbitrary and inconsistent decisions. Others believed that the proposed rule does not address the physical characteristics of ecosystems. According to these individuals, the Forest Service should emphasize soil, water, and air as much as biological factors when conducting ecological analyses.

Response: As noted above, the Department changed this section to provide clear, direct standards and goals for achieving ecological sustainability. As also noted above, the use of discretionary language in referring to ecological sustainability is appropriate.

The proposed rule required ecological information and analyses on the following physical characteristics: soil conditions, air and water quality, stream channel morphology, and instream flows. The final rule requires evaluations of soil resources, including soil productivity, physical, chemical and biological properties, soil loss, and compaction, and air resources, including air quality, visibility, and other air resource values. The final rule also requires an evaluation of the effects of air quality in ecological systems, including water, and an estimate of current and foreseeable future Forest Service consumptive and non-consumptive water uses and the quantity and quality of water needed to support those uses and contribute to ecological sustainability. The Department believes the requirements in the final rule appropriately address the physical characteristics of ecological sustainability.

Comment: Value of medicinal plants. The extraction of trees, while fostering immediate economic gains, may be destroying valuable plants, according to one respondent. Claiming that medicinal plants have the potential to not only generate income but also save lives, this respondent requested that the value of medicinal plants growing in national forests be considered in the final rule.

Response: Medicinal plants will continue to be an important consideration in the management of national forests and grasslands. The procedures for the identification of functioning ecosystems described in section 219.5 and the use of the issue identification process in section 219.4 ensure appropriate attention and management action is directed toward medicinal plants on National Forest System lands.

Comment: Pre-European settlement conditions. A few respondents supported the concept of pre-European settlement conditions as it is presented in the proposed regulations. They felt that using such a standard would help the Forest Service avoid past mistakes. A majority of respondents, however, presented numerous and diverse reasons for not supporting these concepts. Many believed that the goal of pre-European settlement conditions was unattainable. One individual cited airplane over-flights as an example of the impossibility of returning forests to the pre-European settlement conditions. Some respondents requested the Forest Service clarify exactly what pre-European settlement conditions are. Other respondents feared that this benchmark would be used to restrict human access to national forests. One respondent believed that adopting the pre-European settlement standard will shift forest product demands onto less resilient forests around the world. Such a shift will impact global biodiversity according to this respondent. Others believed that the goal of pre-European settlement conditions contradicts the letter and the spirit of the MUSYA. The resource needs of the nation today cannot be met, they asserted, if such a standard is adopted.

Response: The Department agrees that a goal of pre-European settlement conditions is unattainable. Given climate change, land-use change, and changing landscape conditions, the use of the conditions of pre-European settlement as a reference was not realistic for many environments. For this reason, the Department has eliminated the use of this terminology from the final rule.

As discussed for more fully below, the final rule partially relies on information from the historical natural disturbance regimes of ecosystems, but does not purport to return ecosystems to the dynamics of pre-European settlement. Rather, these requirements use the regimes of natural disturbances of the current climatic period to estimate an expected range of variability for characteristics of ecosystem composition and structure that can be used in planning at broad spatial scales across major ecological types.

Comment: Historical range of variability. Some respondents believed that a lack of information makes a definitive determination of historical range of variability unattainable. They felt that the Forest Service should clearly define what the historical range of variability means and how it will be applied. Others felt the term is too discretionary and will allow the Forest Service to make arbitrary management decisions. Some felt that the proposed planning regulations should account for potential misuse of the historical range of variability. They asserted that the concept can be exploited to support extractive activities that do not necessarily support ecosystem sustainability. Various respondents suggested that the final planning rule provide specific guidance for instances when the historical range of variability for a site is not clearly defined. Because they believed that the determination of historical range of variability for specific sites could take years to complete, several individuals requested that the proposed planning regulations require the implementation of interim protection guidelines for areas of high ecological value. Some respondents wished to see the incorporation of heritage research in the ecosystem management process. They believed such research was essential to determine the historical range of variability. Some respondents supported the benchmark of historical range of variability to measure ecosystem integrity.

Response: The proposed rule described the concept of ecological integrity and the historical range of variability, which, in turn, used pre-European settlement as a reference period. Considering variable and changing climate, land-use, and landscape conditions, the approach in the proposed rule was changed.

The proposed rule contained important, essential ideas about natural history and disturbances. It is well accepted in the scientific community that the ecosystems and species of today are a product of historical disturbance regimes as well as current environments. It is also widely accepted that disturbances play a major role in creating ecological diversity and productivity. The current species are adapted to recent climatic and disturbance regimes of landscapes and contain a long record of environmental history in their genetic structure. Consequently, one cannot ignore the role of the past when attempting to sustain ecological conditions into the future, even when that future environment will be different.

Human desires, however, need to be in sync with ecological capacities. When those desires include maintaining and enhancing current biological diversity, or slowing the rate of its change, then information from the past must be used to help sustain or transition ecosystems into future states at rates that are socially acceptable. The role of ecosystem management in this process is to manage change in ecosystems such that the rate and direction of change is consistent with ecological potential and social desires. It is extremely difficult to establish desired conditions for species and complex ecosystems without some reference to how they have functioned in the past. When used carefully and in a limited way, historical information can play an important role in sustaining desired ecosystems into the future.

The final rule uses information from the historical natural disturbance regimes of ecosystems, but does not purport to return ecosystems to the dynamics of pre-European settlement. Rather, these requirements use the regimes of natural disturbances of the current climatic period to estimate an expected range of variability for characteristics of ecosystem composition and structure. The expected range of variability for characteristics of ecosystem composition and structure in a landscape or region can be estimated from general knowledge of disturbance frequencies, severities, and rates of vegetation development.

The Department believes that providing ecological conditions within the expected range of variability across all major ecological types will reduce threats and risks to the sustainability of native and desired non-native species and ecosystems on national forests and grasslands. Many of the current threats to species and ecosystems on these lands have their origin in accelerated rates and intensities of human activities such as intensive management for timber production and overgrazing or reduced rates of disturbance from fire suppression that have altered the abundance, structure and composition of ecosystems at multiple spatial scales. Providing ecological conditions within the expected range of variability will also contribute to ecosystem productivity and diversity and options for sustaining social, and economic goods and services such as water, forage, and wood and recreation. This requirement is intended to be set at relatively broad province scales and for major ecological types that correspond to potential natural vegetation series.

The proposed rule did not include interim protection guidelines for areas of high ecological value; nor has the Department included such interim guidelines in the final rule. The Department believes that, unlike the historic range of variability, the estimation of the expected range of variability can be accomplished without the need to provide interim protection for areas of high ecological value.

The use of the expected range of variability is not intended to preclude commercial timber harvest. Any short-term or long-term effects on the availability of forest products and services would occur on a forest-by-forest basis once forest plans were revised under the final rule. For this reason, quantifiable impacts to the availability of forest products and services cannot be determined at this time.

Comment: Reference landscapes. Some citizens suggested that the final planning rule clarify the process of identifying reference landscapes. They felt specific guidelines would help define which landscapes will be deemed suitable for such a designation. A few respondents questioned the possibility of finding suitable areas for reference landscape designation. They believed the Forest Service will be hard pressed to find large areas affected by natural disturbance regimes yet still undisturbed by human activity. One individual believed the establishment of reference landscapes is a usurpation of Congressional authority. Since these landscapes are to be set aside in perpetuity as benchmarks, this individual asserted that such an action is a de facto wilderness designation. This respondent felt that such a designation can be exploited to amass large land areas and then exclude access to these lands.

Response: The Committee of Scientists noted that managers need some guidance about the amount of environmental variation that is acceptable and is within the biota's ability to respond adaptively to it. Estimates of an acceptable range of variability in composition, structures, and processes provide reference distributions or conditions against which competing management scenarios are compared. The conditions found in reference landscapes may be the “coarse filters” within which the current physical landscape and biota evolved. To the degree that future management scenarios can achieve the conditions in reference landscapes, the more likely it is that the “coarse filter” will achieve the objectives for ecological sustainability and the less likely that “fine-filter” strategies will be needed for individual species.

The Department has not included specific guidelines in the final rule to define which landscapes will be deemed suitable for such a designation. Reference landscapes are rarely uniform “snapshots” of the past. Considerable variability caused by climate change and disturbance by fire, flood, insects, disease, and other natural factors typically affects reference conditions. Reference conditions vary within an ecosystem over time, and the proportions of old-growth forests or early seral conditions are never in a true equilibrium state. These conditions also vary between ecosystems.

The Department agrees that it will be difficult finding suitable areas for reference landscape designation. In general, it is easier to reconstruct disturbance regimes (e.g., fire frequency and intensity) than the effect of those regimes, so reference landscapes are rarely precise. Nevertheless, they play a key role in evaluating the “coarse filter” proposed by future management plans.

Finally, the establishment of reference landscapes is not a usurpation of Congressional authority. The final rule does not set aside reference landscapes in perpetuity as benchmarks.

Comment: Scientific foundation of ecosystem integrity. Some respondents felt that the concept of ecosystem integrity cannot currently be scientifically gauged. These respondents believed that the lack of scientific measurement standards has led to the unfair labeling of road building and logging activity as indicators of ecosystem integrity. Such a designation, they asserted, leads to the prohibition of road building and logging. One respondent, citing the complexity and breadth of ecosystem processes, requested clarification on the definition of the concept of a “complete” ecosystem. Another respondent asserted that, “Grouping species based on particular value judgments and then using these groupings to evaluate * * * integrity introduces enormous bias into the evaluation.”

Response: The proposed rule defined integrity as the completeness of an ecosystem, at multiple spatial and temporal scales, that maintains its characteristic diversity of biological and physical components, spatial patterns, structure, and functional processes within its approximate range of historic variability. These processes include disturbance regimes, nutrient cycling, hydrologic functions, vegetation succession, and species adaptation and evolution. Ecosystems with integrity are resilient and sustainable in the presence of human management actions and natural disturbances. Ecological integrity is an intuitively appealing concept that is well established in the ecological literature, but its definition is contentious. This contention stems from the various (and often conflicting) perspectives that include: Structural (keep the parts), functional (maintain ecosystem functions and processes), and human uses (accommodating the derivation of goods and services from ecosystems for humans).

Ecological integrity was defined in the Committee of Scientists' report as the state of being unimpaired and sound, and the quality or condition of being whole or complete. Furthermore, the Committee of Scientists recommended that a suite of indicators be used to evaluate integrity that includes species composition, ecosystem composition, ecosystem processes, and appropriate reference distributions against which to judge management decisions. This definition has its basis in the structural and functional perspectives defined above and was put forth as a way to encapsulate the state of the ecosystem in the absence of social and economic considerations.

There are a number of potential concerns tied to directly using ecological integrity in the proposed rule, including: the lack of an unambiguous definition in the literature; a tendency to be viewed as a single state of absolute condition rather than recognizing the dynamic nature of ecosystems; an inclination to link integrity measures to goals (e.g., the historical range of variability of pre-European conditions); and a redundancy with the concept of ecological sustainability.

There is a relatively rich literature on the conceptual aspects of ecological integrity. What is lacking is a generally accepted set of scientific norms regarding integrity measures. For this reason, actual applications of ecological integrity in a management context are rare in the literature, making it difficult to use the concept of ecological integrity in natural resource planning. Some applications of integrity have focused on a single ecosystem stated as having integrity. The concept does not lend itself to classify each system as having or not having integrity. This approach fails to recognize the dynamic nature of ecosystems.

The context for understanding the ecological integrity of any specific landscape must be couched in terms of the goals and expectations for the landscape. This translates, in part, to defining some standard against which integrity will be measured. Often this standard is based on some ecological condition like the historic range of variability as reflected under pre-European settlement conditions. Defining ecological integrity to be within the historic range of variability and requiring that ecological conditions should be maintained within that range does not capture the full meaning of integrity as described in the literature. Linking only to historical conditions, without framing the current and probable future climatic system, is not supported by scientific understanding of environmental change.

The proposed rule stated that “to achieve ecological sustainability, it is necessary to maintain and restore ecological integrity.” The Department found it difficult to separate ecological integrity from the broader notion of ecological sustainability. Ecological integrity and ecological sustainability are intended to reflect the overall state of an ecosystem as a whole.

The language “ecological integrity” is not included in the final rule. Integrity is viewed as a component of ecological sustainability along with other system attributes like resiliency, health, and vitality. The Department concluded that the explicit application of ecological integrity as an analysis or performance requirement in the final rule was unnecessary given the rule's focus on ecological sustainability. The Department believes the concept of ecological integrity is within the concept of sustainability as described by the rule.

Comment: Indicators of ecosystem integrity. One respondent wondered how the Forest Service will choose specific indicators to gauge the integrity of ecosystems when, by definition, ecosystems are constantly changing, dynamic systems. This person also questioned how, and by whom, good and bad effects will be determined. Some respondents supported the inclusion of water quality and water flow regimes as indicators of ecosystem integrity in the final rule.

Response: As noted above, the Department found that ecological integrity indicators are an unnecessary addition to the evaluation of sustainability.

As also noted above, the final rule requires the estimation of an expected range of variability for characteristics of ecosystem composition and structure that can be used as planning objectives at broad spatial scales across major ecological types. The expected range of variability in a landscape or region can be estimated from general knowledge of disturbance frequencies, severities and rates of vegetation development.

With respect to the integrity of ecosystems, neither the proposed nor final rule described how good and bad effects will be determined. The requirements for ecosystem diversity (section 219.20(b)(1)) use the expected range of variability to provide for the maintenance and restoration of the characteristics of ecosystem composition and structure.

The final rule provides for an evaluation of ecological sustainability, which includes characteristics of ecosystem and species diversity (section 219.20(a)). The characteristics to be evaluated include water quality and flow regimes.

Comment: Species definitions. While some respondents sought general clarification of focal species, others suggested the final rule specifically elucidate the distinction between focal species and management indicator species. Another respondent questioned whether introduced species, such as the wolf, can be considered under the definition of species-at-risk. In addition, certain respondents felt the proposed definitions of focal species and species-at-risk create a statutory conflict with endangered and threatened species under the Endangered Species Act. Some respondents wonder whether the Forest Service or the Fish and Wildlife Service will designate focal species and species-at-risk. One individual believed the definition of species-at-risk should be expanded to include any species identified by conservation organizations or state natural heritage programs as imperiled. Another felt any documented declining species should be designated. Conversely, numerous respondents supported the concept of focal species, species-at-risk, and demand species as they are currently defined in the proposed rule.

Response: In the current rule, management indicator species (MIS) are selected in order to estimate the effects of management actions on fish and wildlife populations. MIS include, where appropriate, threatened and endangered species; species with special habitat needs that may be significantly influenced by planned management programs; species commonly hunted, fished, or trapped; non-game species of special interest; and species whose population changes are believed to indicate the effects of management activities on other species of selected major biological communities or on water quality.

In the proposed rule, focal species are selected for use as surrogate measures in the assessment of ecological integrity, including the diversity of native and desired non-native species. Their status and time trend provide insights to the integrity of the larger ecological system to which they belong. Species selected would represent the range of environments within the assessment area, and would serve an umbrella function, or play key roles in maintaining community structure or processes. Focal species have been retained in the final rule.

In the proposed rule, species-at-risk were defined as endangered, threatened, candidate, proposed, and sensitive species, and species for which significant local reductions in distribution or density are concerns. The final rule defines species-at-risk as federally listed endangered, threatened, candidate, and proposed species and other species for which loss of viability, including reduction in distribution or abundance, is a concern. In the final rule, an introduced species could be designated as a species-at-risk.

The Department does not believe the definitions of focal species and species-at-risk in the proposed rule created a statutory conflict with endangered and threatened species under the Endangered Species Act. In addition, the responsible official designates focal species and those species-at-risk not designated as threatened, endangered, candidate, and proposed species by the U.S. Fish and Wildlife Service in the proposed rule. This language is retained in the final rule (section 219.20(a)).

The proposed rule did not require inclusion of species listed by state natural heritage programs or conservation organizations as species-at-risk. The Department believed that the state natural heritage programs or conservation organizations listed species for reasons other than viability concerns. In defining species-at-risk, the Department sought a grouping of species based solely on viability concerns. For this reason, the Department inserted language in the final rule that species-at-risk include other species for which loss of viability, including reduction in distribution or abundance, is a concern within the plan area. These other species-at-risk may include sensitive species and state listed species. Viability is the criterion which determines what is included as a species-at-risk.

Comment: Game species. Some respondents felt habitats for abundant game species have been enhanced at the expense of habitats for less common and more sensitive species. They asserted that such practices indicate the need for a shift of emphasis from demand species to focal species and species-at-risk. In contrast, some felt that many species of big game are not receiving the management attention they warrant.

Response: Demand species are those plants and animal species of high social, cultural, or economic value. In the proposed rule, plan decisions must provide for ecological conditions needed to achieve sustainable use levels of demand species. This provision was deleted from the final rule to ensure that the treatment of demand species would not take place at the expense of habitats for focal species and species-at-risk.

Comment: Use of focal species. Some respondents believed the Forest Service should reconsider the use of focal species as indicators of ecosystem integrity. One citizen asserted, “There is not enough money in the federal treasury to fund the numerous surveys and analyses that will ultimately be required.” Others agreed with this sentiment, and added that the emphasis of the final rule should be shifted from focal species to habitat capability. The Forest Service should be monitoring for habitat, they declared, because it is not only easier than monitoring for populations, but it also allows the appropriate entity, the individual stated, to manage and monitor wildlife species.

Response: The Department acknowledges an increase in analysis and monitoring in the proposed rule for ecological sustainability, including focal species. Continued declines in the cost of analysis and monitoring are expected in the future, however, with advances in information technology. Furthermore, the Department believes that no significant additional resources will be required for implementation of the final rule as the planning framework shifts resources from later to earlier in the planning process. For these reasons, the Department has retained the provisions for appropriate analysis and monitoring in the final rule.

Comment: Assessing viable populations of species. Population sampling and monitoring of species, especially threatened and endangered species, needs to be a mandate in the final rule, some respondents asserted. These respondents felt that without actual population surveys, species viability will not be sustained. Another individual wondered if scientists have reached any consensus on broad-scale methods and strategies for providing species viability. This person asserted that such a model does not exist and hence the attainment of species viability will be marred by confusion and conflict.

Response: In the proposed rule, population sampling is appropriate when the risk of local or broader extirpation is high or there is high uncertainty about the habitats and conditions needed for species viability. In the final rule, the plan monitoring strategy may require population monitoring for some focal species and some species-at-risk as appropriate.

The responsible official's decision to monitor populations and the responsible official's choice of methodologies for monitoring selected focal species and selected species-at-risk in the final rule may be based upon factors that include, but are not limited to, the degree of risk to the species, the degree to which a species' life history characteristics lend themselves to monitoring, the reasons that a species is included in the list of focal species or species-at-risk, and the strength of association between ecological conditions and population dynamics. The Department believes this language provides assurance that species viability will be sustained.

Many scientists have reached a consensus on broad scale methods and strategies for providing species viability. These scientists believe that taking an ecosystem diversity approach increases the potential to meet the needs of the preponderance of species. This is particularly important because it is financially and technically impractical to individually assess each species.

Ecological sustainability has two primary indicators in the final rule: ecosystem diversity and species diversity. Ecosystem diversity provides a “coarse filter” approach for sustaining ecosystems. Ecological diversity is defined in a broad context by language throughout section 219.20 of the final rule. Characteristics of ecosystem diversity include, but are not limited to, major vegetation types, water resources, soil resources, air resources, and focal species. Evaluation of ecological diversity includes information about focal species, biological and physical properties, principal ecological processes, effects of human activities, estimations of the range of variability of characteristics, effects of air quality, water uses, and reference landscapes. Species diversity provides a “fine filter” approach for sustaining ecosystems in the final rule by addressing those species that may not remain viable under the coarse filter approach. These species typically include those that are currently thought to have a high extinction risk within an area of interest. The combination of coarse and fine filters in the final rule has the advantage of efficiency; the responsible official assumes adequate representation of ecological conditions by maintaining or restoring a diversity of ecosystems and checks this assumption through assessments of viability of a subset of individual species.

Comment: Use of plant and invertebrate species in evaluating species viability. Many respondents exhorted the Forest Service to reconsider the use of plant and invertebrate species in evaluating species viability. Most of these respondents felt that insufficient scientific data exists to implement this increase in the scope of analysis. Other respondents applauded the inclusion of plant and invertebrate species viability as an indicator of ecological integrity. Of these respondents, at least one individual suggested the Forest Service expand the species viability criteria to include organisms from all the biological kingdoms.

Response: The proposed rule implemented the NFMA requirement to provide for the diversity of plant and animal communities by expressly defining species to include any taxon of the plant or animal kingdom. The current rule only requires that viable populations of vertebrate fish and wildlife be maintained. In the final rule, a species is defined as any member of the animal or plant kingdom that is described as a species in a peer-reviewed scientific publication and is identified as a species by the responsible official pursuant to a plan decision.

The Department acknowledges an increase in requirements for species viability. But as noted above, continued declines in the cost of information technology, such as personal computers and the application of remote sensing technologies, are anticipated. In addition, it is expected that the application of broad-scale assessments and subsequent smaller-scale analyses and decisionmaking will build on one another and improve the overall efficiency and effectiveness of planning activities.

The Department has not expanded the species viability criteria to include organisms from all the biological kingdoms. NFMA's requirement is specific to plant and animal communities.

Comment: Sustaining viable populations of non-native species. Some respondents wondered why the Forest Service would wish to maintain species that, by definition, disrupt the ecological integrity of an ecosystem. One respondent wanted the Forest Service to recognize that planning, in and of itself, cannot ensure species viability. This person supported this assertion by noting that the American Chestnut, once the dominant, climax tree species in eastern forests, has been wiped out by chestnut blight. Forest planning has no effect on the loss of such major ecosystem components, this respondent asserted. Another citizen applauded the agency's acknowledgment of incomplete information, uncertainty, and the inherent variability of ecological systems. Such an acknowledgment should be heeded, this person asserted, and precaution and prudence should be used when implementing any new management practices.

Response: The proposed rule defined desired non-native species as those species of plants or animals that are not indigenous to an area but which represent a significant, and usually remnant segment of a gene pool. The final rule retains its reference to desired non-native species, which are defined as those species of plants or animals which are not indigenous to an area, but valued for their contribution to species diversity or their high social, cultural, or economic value.

The Department agrees that planning, in and of itself, cannot ensure species viability. The Forest Service can only affect certain ecological conditions on land it manages, such as the abundance and distribution of habitat, roads, other structural developments, many human uses, and some invasive or exotic species. Other factors beyond the control of the Forest Service may influence the viability of species.

As noted above, the final rule provides that where it is not practicable to make measurable progress toward conditions within the expected range of variability, plan decisions may provide for ecosystem composition and structure outside the expected range of variability. Other independently peer-reviewed methods must be used to provide for ecosystem diversity.

An alternative method of providing for ecosystem diversity, which was described in the proposed rule, is the historic range of variability referenced to pre-European settlement conditions. Yet another approach would be a range of variability referenced using a time period more recent than pre-European settlement conditions. This would provide for ecological sustainability where circumstances, such as the Chestnut blight, which have irretrievably altered the landscape. In the future there may also be other methods that have not yet been fully tested or envisioned.

The proposed rule acknowledged the uncertainty and inherent variability of ecological systems (sections 219.20(a)(10) and 219.20(b)(1)). The Department agrees with respondents that welcomed the inclusion of this language. The final rule retains this language and relocates it to section 219.22, The overall role of science in planning.

Comment: Discretionary language. Many respondents felt that specific, imperative language should be used in section 219.20 (b) of the proposed rule. Discretionary language is too vague to be enforceable, they asserted. One person asserted that phrases such as, “Maintain the more likely conditions within the range,” and “provide for * * * redundancy of habitat as necessary to buffer disturbances characteristic of dynamic systems,” needs less jargon and more clarification. Another respondent felt that the final rule should consider the variability of species distributions and density over time.

Response: The Department acknowledges a lack of clarity in the proposed rule and has revised paragraph (b) in section 219.20 to improve its clarity and readability.

The species viability criteria do not specifically address the variability of species distributions and density over time. These are factors to be addressed during plan revisions as required by NFMA, to provide for diversity of plant and animal communities based on the suitability and capability of the specific land area, in order to meet overall multiple-use objectives (16 U.S.C. 1604(g)(3)(B)).

Comment: Species viability requirements. Numerous respondents felt that the Forest Service should use clear, specific, imperative language to guide the maintenance of species viability. Some of these respondents also believed the final rule should specify a discrete time period over which species viability will be measured. Although dissent exists among the public and even within the Committee of Scientists, one respondent believed this should not preclude the Forest Service from including requirements for sustaining viable populations. The majority of respondents that supported requirements for sustaining viable populations believed the final rule should contain specific guidelines in this respect, rather than the vague “high likelihood” standard. Conversely, some respondents believe the Forest Service should reconsider the requirement in the proposed rule to sustain viable populations. They felt that such a mandate makes wildlife the dominant, if not exclusive, goal of forest planning. Others questioned whether funding sources will be available to support such a mandate.

Response: As noted above, the Department does not believe there is a lack of imperative language in section 219.20(b). It does acknowledge less than clear descriptions in this section of the proposed rule. Paragraph (b) in section 219.20 is revised in the final rule to improve its clarity and readability.

As also noted above, the collection and analysis of information at a variety of spatial and temporal scales is important in providing for maintenance or restoration of ecological sustainability. These scales include geographic areas such as bioregions and watersheds, scales of biological organization such as communities and species, and scales of time ranging from months to centuries. For this reason, the Department has not adopted a discrete time period over which species viability is to be measured.

The Department is adopting the “high likelihood” language to emphasize the importance it places on the viability of plant and animal species. The current rule states “Fish and wildlife habitat shall be managed to maintain viable populations of existing native and desired non-native vertebrate species in the planning area.” Furthermore, the rule states that “a viable population shall be regarded as one which has the estimated number and distribution of reproductive individuals to insure its continued existence is well distributed in the planning area. In order to insure that viable populations will be maintained. * * *”. Together, the phrases “shall be managed to maintain” and “ensure” have been perceived by some people to be a 100 percent certainty that all species would remain viable at all times. This expectation in the face of known as well as unknown uncertainty, imperfect and incomplete information, as well as acknowledgment of systemic environmental variation is a standard that is arguably a technical impossibility—unattainable in the absolute. The Department has adopted the high likelihood standard, as an administrative rather than technical standard, to provide a reasonable level of assurance that species will remain viable and correct what is perceived by many to be a technical conundrum.

The Department revised the language in the final rule to clearly apply the high likelihood standard to ecological conditions rather than to the populations of species and their viability. This recognizes that the Forest Service can only affect certain ecological conditions on the land it manages. These conditions include the abundance and distribution of habitat as well as other factors such as roads, other structural developments, many human uses, and some invasive or exotic species. Other factors beyond the control of the Forest Service may influence the viability of some species. These factors include fragmented land ownership patterns, adjacent activities, climate, disease, and factors that may preclude a species from maintaining viability within National Forest System lands.

The Department has retained the requirement in the final rule to sustain viable populations. As noted above, the first priority for stewardship of the National Forest System, which is to maintain and restore ecological sustainability, is unchanged from the proposed rule. Ecological sustainability has two primary indicators in the final rule: ecosystem diversity and species diversity. Ecosystem diversity provides a “coarse filter” approach to the conservation of biological diversity. Species diversity requirements specified in the final rule defines what is commonly considered a “fine filter” approach. The combination of coarse and fine filters in the final rule has the advantage of efficiency: the responsible official assumes adequate representation of ecological conditions by maintaining or restoring a diversity of ecosystems and checks this assumption through assessments of viability of a subset of individual species.

The Department acknowledges an increase in requirements for species viability. But as noted above, continued declines in the cost of information technology are expected in the future. Furthermore, the Department believes that, in total, no significant additional resources will be required for implementation of the final rule.

Comment: Mandates to maintain habitat. Many respondents support maintenance of habitat. However, several people believed that as private lands become developed, the national forests and grasslands could become increasingly important refuges for sensitive species. They felt that the proposed regulations should include requirements to restore or maintain disproportionately greater amounts of habitat in national forests and grasslands for sensitive species. One individual requested clarification regarding the concept of redundancy of habitat. One organization suggested that the requirement to provide for redundancy of habitat would only lead to more litigation.

Response: In the proposed rule, consideration is given to National Forest System lands that have a unique opportunity to provide a disproportionately greater contribution to ecological conditions needed to reduce the likelihood of species becoming listed under the Endangered Species Act or to contribute to the recovery of listed species. In response to this comment, the final rule strengthens this provision by requiring plan decisions to reflect the unique opportunities that National Forest System lands provide to contribute to recovery of listed species.

Section 219.20(b)(8)(v) in the proposed rule required structural and functional redundancy of habitat as necessary to buffer disturbances characteristic of dynamic systems. This provision was not retained in the final rule and is best addressed in site-specific planning.

Other changes. This section has been substantially reorganized from the proposed rule and terms redefined. This was done to add clarity and respond to public comments and staff review. None of the changes in section 219.20 are intended to change the overall intent of the section as originally proposed.

“Ecosystem diversity and species diversity” are specifically stated as the components of ecological sustainability in the final rule and provide a focus to reorganize information in this section. The proposed rule included, but did not explicitly identify ecosystem diversity and species diversity as the two components of ecological sustainability.

Comparison of the Components in Section 219.20
Components | Proposed rule | Final rule
Spatial and temporal scales | (a) Includes NEPA under list of methods | (a) NEPA requirement already exists and is not included. Language added for responsible official to determine information and analyses needed for plan revisions, amendments, and site-specific decisions.
Characteristics of ecosystem and species diversity |  | (a)(1) New language added for clarity.
Ecosystem diversity | (a)(1), (a)(7), (b)(6), (b)(7) | (a)(1)(i) Soil resource language added to level of detail consistent with water and air resources.
Species diversity | (a)(1), (a)(7) | (a)(1)(ii).
Evaluation of ecological sustainability | (a), (a)(5), (a)(8) | (a)(2) Language added that describes evaluations of ecological sustainability.
Focus species | (a)(7)(i) | (a)(2)(i)(A).
Biological and physical properties of ecosystems | (a)(1) | (a)(2)(i)(B).
Ecological processes | (a)(2) | (a)(2)(i)(C) Adds specific information to be included in the description of other ecological processes and feasibility of maintaining ecological processes (e.g. dispersal, migration, nutrient cycle, food web dynamics, waterfowls, etc.)
Effects of human activities | (a)(3) | (a)(2)(i)(D).
Effects of air quality | (b)(7) | (a)(2)(i)(F).
Estimates of water use | (b)(6) | (a)(2)(i)(G).
Plan decision requirements for soil, water and air | (b)(6), (b)(7) | (b)(1) Language not retained, requirements included within overall statement.
Identification of reference landscapes | (a)(6) | (a)(2)(i)(H).
Definitions: Focal species, Species-at-risk | (a)(7)(i), (a)(7)(ii) | Section 219.36, Definitions.
Species viability | (a)(8)(i) | (a)(2)(ii) Situations where risks to viability are high not included, enough language is included to analyze these situations.
Measures of ecological integrity | (a)(8)(ii) | Provides for evaluation of a comprehensive list of physical and biological indicators.
Individual and group species assessments | (a)(8)(i) | (a)(2)(ii) Language added requiring individual species assessments of federally listed species, otherwise allowing for group assessments. Group assessments necessary for financial and technical feasibility.
Variability of ecological systems | (a)(10), (b)(1) | Section 219.22.
Consistency of planning level decisions and existing rights and legal requirements | (b) | Section 219.7 adequately describes these requirements.
Plan decision for maintenance or restoration of ecosystems | (b)(2), (b)(3) | (b)(1).
Conditions within the range of variability | (b)(3)(i), (b)(3)(iv) for exception | (b)(1)(i) New language provides an exception, (b)(1)(iv), when staying within the range is unacceptable.
Conditions outside the range of variability | (b)(3)(ii), (b)(3)(iv) for exception | (b)(1)(ii) New language provides an exception, (b)(1)(v), when staying outside the range is acceptable.
Range of variability cannot be defined | (b)(3)(iv) | (b)(1)(iii) New language ensures other peer-reviewed methods are used.
Natural disturbance processes | (b)(3)(iii) | (a)(2)(i)(E).
Future stewardship choices | (b)(4) | (b)(1) Language not retained, intent addressed.
Reference landscapes | (b)(5) | (b)(1) Language not retained, intent addressed.
Plan decisions affecting species diversity | (b)(8), (b)(8)(ii), (b)(8)(iii), (b)(8)(i) replaced by new language referencing methods | (b)(2).
Exceptions for plan decisions affecting species diversity | (b)(8)(iv) (b)(8)(ii) | (b)(2)(ii). (b)(2)(iii) New language to prevent species extirpation and support viability. (b)(2)(iv) Added to support viability where infeasible to restore ecological conditions.
Redundancy of habitat to buffer disturbances | (b)(8)(v) | Language not retained, requirements of the section provide a comprehensive ecological approach.
Federally listed species | (b)(10) | (b)(3)(i) Language that actions not contribute to species listing is covered under ESA and restated only for conservation agreements.
Biological opinions and recovery plans | (b)(9) | (b)(3)(ii) Specific language for recovery plans is replaced by requirement for plan decisions and ESA.

Section 219.21—Social and economic sustainability. This section of the proposed rule described a process for developing a comprehensive understanding of sustainable social and economic environments.

Comment: Definition of economic and social sustainability. Many respondents express confusion over the myriad of definitions of social and economic sustainability contained in the proposed planning regulations. Clear, concise, and consistent definitions are needed, according to numerous citizens. Several people believe the use of discretionary language in this section is rampant, and therefore makes all the subsequent guidelines moot.

Response: The Department acknowledges a lack of clear, concise, and consistent definitions in the proposed rule concerning social and economic sustainability. The final rule has been revised in response to this concern.

In the final rule, social and economic sustainability is defined as meeting the economic, social, aesthetic, and cultural needs and desires of current generations without reducing the capacity of the environment to provide for the needs and desires of future generations, considering both local communities and the nation as a whole. It also involves the capacity of citizens to communicate effectively with each other and to make sound choices about their environment.

The Forest Service contributes to social and economic sustainability by developing and considering relevant social and economic information and analyses, providing early and frequent opportunities for interested and affected people to participate in National Forest System planning and stewardship, and providing a range of uses, values, products, and services. These uses, values, products, and services include but are not limited to outdoor recreation; forage; timber; wildlife and fish; biological diversity; productive soils; clean air and water; and minerals. They also afford intangible benefits such as beauty, inspiration, and wonder.

The final rule requires the responsible official to develop or supplement information and analyses (section 219.21(a)), including specific social and economic analyses (section 219.21(a)(1)) and analyses of community or regional risk and vulnerability (section 219.21(a)(2)).

Comment: Goal of economic and social sustainability. Several people felt that social and economic concerns have received little consideration in past Forest Service decisions. These people do not think the proposed regulations will prevent such transgressions. To help emphasize these concerns, one person requested that social and economic sustainability be split into two separate sections. Another individual asserted that the Forest Service should establish the achievement of economic and social sustainability as the first priority among the goals of the proposed rule. Of those that believe the social and economic section needs to be emphasized and expanded, many requested that the Forest Service promulgate specific, mandatory guidelines for achieving social and economic sustainability. Some believed the proposed rule should not emphasize economic and social sustainability, because they fear such an emphasis will result in the reallocation of time and money away from natural resource management. Improving local stewardship capacities and collaboration were also offered as ways to attain social and economic sustainability.

Response: In the final rule, the Department has not split social and economic sustainability into two separate sections. Nor has it established the achievement of economic and social sustainability as the first priority among the goals of the proposed rule. Finally, the Department has not included in the final rule specific, mandatory guidelines for achieving social and economic sustainability.

Requirements for achieving sustainability are found in sections 219.19, 219.20, and 219.21 of the final rule. As noted above, social and economic sustainability is achieved by providing a range of uses, products, services, and values, consistent with ecological sustainability (section 219.20(b)). The first priority for stewardship of the National Forest System, which is to maintain and restore ecological sustainability, is unchanged from the proposed rule. As noted by the Committee of Scientists, “* * * ecological sustainability lays a necessary foundation for National Forests and Grasslands to contribute to the economic and social components of sustainability, making contributions to strong productive economies and creating opportunities for enduring human communities.”

The Department agrees that improving local stewardship capacities and collaboration are ways to attain social and economic sustainability. The proposed rule provided that the responsible official and those involved in planning should invite and encourage others to engage in the collaborative development of landscape goals. This language has been retained in the final rule (section 219.12(b)(1)). As noted in the Committee of Scientists' report, collaborative planning is a shared process within which agencies cooperate with one another; work with tribes, other public, and private organizations; and engage communities and citizens in envisioning and working toward a sustainable future on the national forests and grasslands.

Comment: Role of timber harvest in economic and social sustainability. One respondent believed that the Forest Service must realize that timber harvest is necessary to achieve economic and social sustainability. In contrast, another individual asserted that the Forest Service has no responsibility or reason to sustain certain cultural and economic practices such as commodity extraction. No federal agency should maintain a particular lifestyle over another, according to this respondent.

Response: The proposed rule did not consider timber harvest or more generally, commodity extraction, necessary to achieving economic and social sustainability. Nor did the Department include either of these issues in the final rule. The rule does establish a process for identifying, discussing, and, if appropriate, acting on issues that may emerge from a variety of sources (section 219.4). The Department believes that these issues are most appropriately addressed using this process.

Comment: Analysis of economic and social sustainability. Many respondents offered various ideas to help achieve social and economic sustainability in national forest communities. One person suggested the Forest Service adopt better modeling tools to improve analysis. Others cited the need to expand the analysis criteria to include adjacent communities and elected officials in management decisions. One person believed the Forest Service should reconsider the requirement to analyze social and economic sustainability on a large scale. Such analysis, this person asserted, masks the impacts on small and sparsely populated communities.

Response: The Department agrees that better modeling tools should be adopted to improve analysis. The final rule requires that the best available science be considered in planning (section 219.22(a)).

The Department has not expanded the analysis criteria to include adjacent communities and elected officials in the analysis of management decisions. As noted above, section 219.14 of the final rule identifies some of the key steps where state and local governments will be engaged in planning. State and local governments will be involved in the identification of issues as described in section 219.4(a). In addition, the rule recognizes the need for the Forest Service and state and local governments to coordinate plans and programs. Section 219.3(c) provides opportunities for state and local governments to participate in the collaborative planning process.

The proposed rule encouraged appropriate analysis within the relevant scales of influence for national forest and grassland planning and decisionmaking. This language has been retained in the final rule. Large-scale studies may not be appropriate to determine the impacts of an action within a particular village or small town. Conversely, looking only at economic or social relationships within a village or small town may mask identification of regional trends and emerging events. As with many topics, the early identification of issues and their appropriate scope and scale are critical to successful planning and natural resource management.

Comment: Measurement of social sustainability. The exact means by which social sustainability will be measured needs to be clarified for many respondents. Some felt that the proposed regulations should expand the criteria of future social analyses to include the input of adjacent communities and their elected officials. Numerous people cited the use of discretionary language, such as “may” and “should,” as a serious flaw in the proposed regulations. These individuals would like to see the inclusion of imperative language, such as “shall” and “must,” to ensure that social analysis is, in fact, undertaken.

Response: The proposed rule did not describe the exact means by which social sustainability will be measured. This information was not included in the final rule. Instead, this information will be included in the Forest Service Manual.

As noted above, the Department has not expanded the criteria of analyses to include the input of adjacent communities and their elected officials. Section 219.14 of the final rule identifies some of the key steps where state and local governments will be engaged in planning. State and local governments will be involved in the identification of issues as described in section 219.4(a). In addition, the rule recognizes the need for the Forest Service and state and local governments to coordinate plans and programs. Section 219.3(d) provides opportunities for state and local governments to participate in the collaborative planning process.

As noted above, the Department agrees that the use of discretionary language, such as “may” and “should,” was a serious flaw in the proposed rule. The final rule requires the responsible official to develop or supplement information and analyses (section 219.21(a)), including specific social analyses (section 219.21(a)(1)(i)) and analyses of community or regional risk and vulnerability (section 219.21(a)(2)).

Comment: Social data and effects. Specific clarification regarding social data collection is needed according to many respondents. Local values, social standards, and changes in social values were mentioned as criteria that need to be further clarified. The social effects of the loss of timber industry jobs, specifically on rural communities, were also a concern. Several respondents asserted that their quality of life is at least partially, if not wholly, dependent on the health of the national forests.

Response: The Department agrees that the proposed rule was not specific concerning the collection of social information. As described above, the final rule requires the responsible official to develop or supplement information and analyses (section 219.21(a)), including specific social analyses (section 219.21(a)(1)(i)). Additional specificity will be provided in the Forest Service Manual.

Included in section 219.21(a)(1)(i) of the final rule is the requirement to develop or supplement information on social and cultural opportunities provided by National Forest System lands. The Department believes this language encompasses the social effects of the loss of timber industry jobs, including those effects on rural communities.

The Department agrees that quality of life is at least partially dependent on the health of the national forests. As noted above, the first priority for stewardship of the National Forest System, which is to maintain and restore ecological sustainability, is unchanged from the proposed rule.

Comment: Economic analysis of Forest Service management. Several people felt that previous economic analyses of national forests have been myopic in scope, and hence the proposed rule should expand the criteria of future economic analysis to include adjacent communities and elected officials in management decisions. Some cited the need for a comprehensive economic analysis of the entire Forest Service and its management activities.

Response: As noted above, the Department has not expanded the criteria of analyses to include the input of adjacent communities and local elected officials. Section 219.14 of the final rule identifies some of the key steps where state and local governments will be engaged in planning. State and local governments will be involved in the identification of issues as described in section 219.4(a). In addition, the rule recognizes the need for the Forest Service and state and local governments to coordinate plans and programs. Section 219.3(c) provides opportunities for state and local governments to participate in the collaborative planning process.

An economic analysis of the entire Forest Service and its management activities is beyond the scope of this rule.

Comment: Valuation of non-market benefits. Several respondents felt that the Forest Service has been ignoring the indirect and often time invisible benefits of forest systems. They believed that non-commodity resource benefits, such as carbon sequestration, oxygen production, and water filtration, should be factored into any economic analysis of forest management activities. One citizen urged the Forest Service to assign a monetary value to these traditionally priceless benefits. This individual felt that such an exercise would ensure that the loss of these benefits would be a factor in economic cost-benefit analysis.

Response: The proposed rule provided for, but did not require, the consideration of the financial and opportunity costs derived from market and non-market use. Section 219.21(a)(1)(ii) of the final rule requires the development of information on the range and estimated long-term value of market and non-market goods, uses, services, and amenities that can be provided by National Forest System lands consistent with the requirements of ecological sustainability. This includes the cost of providing them, and the effect of providing them on regional and community well-being, employment, and wages. The Department believes this language in the final rule requires the inclusion of commodity and non-commodity resource benefits in economic analyses, with values assigned to these benefits.

Comment: Economic impacts on ecosystems. Some respondents felt that the long-term ecological consequences have not been considered when conducting cost-benefit analysis of past forest management activities. One individual cited the long-term loss of water quality incurred from the short-term economic benefit of logging as an example. Another citizen stated that timber harvest often has adverse economic impacts, citing the loss of windbreak and temperature regulation that a nearby forest once provided local families. Some respondents suggested that the cost-benefit analysis of past logging expand in scope to include any and all costs associated with specific projects.

Response: The proposed rule did not provide for cost-benefit analysis of past forest management activities. The Department has not included such a provision in the final rule. While acknowledging that timber harvest in the past may have had adverse economic impacts, the Department does not believe that quantifying past economic impacts would significantly improve the planning process.

As noted above, the final rule requires the development of descriptions and analyses, including the estimated long-term value of market and non-market goods, uses, services, and amenities that can be provided by National Forest System lands consistent with the requirements of ecological sustainability.

Comment: Economic impacts on local economies. Some respondents felt that the final rule will further restrict timber harvest, and this restriction will adversely affect the economies of local companies and communities. Other individuals cited the need for the Forest Service to specifically identify the economic impacts the proposed rule may have on local economies. Many felt that the small, rural communities associated with national forests have experienced, and will continue to experience, the majority of impacts any change in forest management policy engenders. Thus, they asserted, local communities, especially those where the majority of adjacent land is federally owned, warrant special consideration.

Response: The proposed rule provided for, but did not require, the consideration of economic estimates of the National Forest System contribution to present and future society benefits. As noted above, section 219.21(a)(1)(ii) of the final rule requires the development of information on the range and estimated long-term value of market and non-market goods, uses, services, and amenities that can be provided by National Forest System lands consistent with the requirements of ecological sustainability. This includes the cost of providing them, and the effect of providing them on regional and community well-being, employment, and wages. The Department believes this language helps identify the economic impacts on local economies.

Comment: Direct and indirect costs. Another person felt the language in the current rule better ensures that direct and indirect costs are included in such an economic analysis. This person suggested the Forest Service retain the current language rather than adopt the less stringent proposed language. Such language will lead to more divisiveness, according to this individual. In addition to including traditional expenses, these people believed the Forest Service should include the costs of general overhead and possible litigation in their economic analysis.

Response: In the proposed rule, lands not suited for timber production included lands where the costs of timber production were not justified by the ecological, social, or economic benefits (section 219.28(b)(5)). This provision has not been retained in the final rule. In the final rule, the responsible official may establish timber production and its possible harvest as a multiple-use value and plan objective within the plan area where timber may be harvested if the costs of timber production are justified by the ecological, social, or economic benefits (section 219.28(b)). The Department believes the costs and benefits referenced in this Section of the final rule include all direct and indirect costs and benefits.

Comment: Economic analysis and demographics. Several respondents believed that the Forest Service should conduct economic analyses suited to local demographics. The densely populated, sparsely forested East Coast is demographically distinct from the sparsely populated, densely forested western regions. Some asserted that such demographics should be incorporated into the economic analysis of Forest Service activities. The dearth of forests and plethora of humans in the eastern region of the United States dictates that the value of tourism should outweigh the value of timber in eastern economic analyses, according to these respondents.

Response: The proposed rule provided for, but did not require, the consideration of the demographics, including current demographics related to direct, indirect, and induced effects on income, population, and industry employment, and the ability of communities to adapt to change. The final rule requires the development of descriptions and analyses, but its treatment of demographics is limited to social trends.

Other changes. The Department acknowledges the frequent use of discretionary language in this section of the proposed rule. In contrast, the final rule requires the responsible official to develop or supplement information and analyses, including specific social and economic analyses and analyses of community or regional risk and vulnerability, paragraph (a).

The proposed rule did not include requirements for plan decisions that may affect economic and social sustainability. The final rule requires that plan decisions contribute to social and economic sustainability by providing a range of uses, products, services, and values, consistent with ecological sustainability, paragraph (b). This paragraph also contains new language concerning the scope and scale of decisions, issues addressed, and analyses conducted in previous provision of this section. The language was added to clarify that plan decisions affecting economic and social sustainability would be made consistent with the principles of ecological sustainability and applicable laws, including the MUSYA.

The Department acknowledges respondent's concerns regarding definitions for social and economic sustainability in the proposed rule that are clear, concise, and consistent. Section 219.21 is revised to reduce redundancy and improve clarity and readability, as described below:

Comparison of the Components in Section 219.21
Components | Proposed rule | Final rule
Planning involves interested and affected people | (a) | Opening paragraph references sections 219.12 through 219.18.
Social and economic information | (b), (c), (d) | (a) Language added that requires social and economic information and analyses for planning.
Economic effect | (b)(4), (b)(5), (b)(7) | (a).
Social and economic analyses | (b)(3), (b)(4), (c)(1), (c)(2), (d)(1), (d)(2) | (a) Adds monitoring results to the list of methods.
Demographic trends | (b)(1), (e) | (a)(1)(i) Language added to include social and cultural opportunities, community assistance needs, and other appropriate information to provide a comprehensive list of social indicators.
Employment, income, and other economic trends | (b)(3-6) | (a)(1)(ii) Language added includes long-term costs and benefits provided by National Forest System lands and their effects on community well-being to provide a comprehensive list of economic indicators.
Benefits of restoration strategies | (b)(2) | (a)(1)(iii).
Other information |  | (a)(1)(iv) Added to provide for issues being considered by the responsible official, section 219.4.
Risk and vulnerability analyses | (c)(3), (g) | (a)(2).
Evaluate social and economic sustainability |  | (b) Requires responsible official to use the information analyses developed in (a).

The Contribution of Science

Section 219.22—The role of assessments, analyses, and monitoring. This section of the proposed rule described the role of assessments, local analyses, and monitoring. In the final rule, this section has been renamed “The role of science in assessments, analyses, and monitoring.” It has been designated as section 219.23.

Comment: Integrating science into the planning process. While many people agree with using science as a management tool, respondents expressed a variety of opinions on how to best integrate science into the planning process. One person suggested replacing the phrase “best available science” with the phrase “broadly accepted scientific principles, information, and analysis” in order to maintain continuity in scientific assessment. Others contended that science must be statistically sound and supportable.

Response: The Committee of Scientists' report emphasized that “Collaborative planning rests upon a foundation of scientific information developed by scientists and other knowledgeable people in an open, public process.” The Committee identified at least five different tasks for scientists in collaborative planning: creating knowledge of relevance to collaborative planning, developing integrative science for bioregional assessments, helping managers understand the application of scientific and technical knowledge, helping to design effective monitoring procedures and adaptive management experiments, and evaluating the use of scientific information in planning and implementation.

Planning is based on scientific and other forms of knowledge. Where scientific information is used, the quality of such information should be ensured by using appropriate levels of independent peer review, quality assurance protocols for monitoring and other data, as well as free and open access by the public (including the scientific community) to data, assumptions, and conclusions.

The final rule acknowledges these roles for science and the responsibilities of the Forest Service Research and Development Program. It requires the responsible official to ensure that the best available science is considered in planning (section 219.22). It also sets mechanisms in place through involvement of Forest Service Research and Development, Science Advisory Boards (section 219.25), science consistency evaluations (section 219.24), and scientific peer reviews (section 219.22) to ensure that the best science is available to decision makers, is properly analyzed and interpreted, and can be applied with scientific credibility.

Comment: Human values and multiple perspectives. Even though many believe that the use of scientists in national forest planning is important, some requested that human values and multiple perspectives be integrated with science to evaluate sustainability.

Response: The role of science in the final rule (section 219.22) is to ensure that the best available science, including social science, is available and soundly considered in planning. Collaborative planning involving other federal agencies, state and local governments, American Indian Tribes and Alaska Natives, private landowners, and other interested individuals and organizations (sections 219.12 to 219.18) is encouraged to ensure that a broad range of human values and perspectives is brought to bear, along with the best science available, in land management planning. Through these processes, a locally appropriate balance of ecological conditions and social issues, goals, and proposed actions will be identified to ensure that scientifically sound management decisions are made to sustain ecological conditions for the future while meeting current desires and requirements of humans. Furthermore, the final rule underscores that science provides information, not decisions, and it is the responsible official who has final decision authority.

Comment: Balance between economic, social, and biological sciences. Many respondents asserted that economic and social sciences must be weighed equally with biological sciences in the decisionmaking process.

Response: Section 219.22(a) of the final rule includes new language requiring consideration of the best available science in the development of recommendations or conclusions. This includes all scientific fields appropriate to natural resource issues, which will be considered by the responsible official along with other forms of input in decisionmaking.

Other changes: The introductory paragraph of the proposed rule has not been retained in final rule. This information is already contained in section 219.5.

Section 219.23—The participation of scientists in planning. This section of the proposed rule described expectations and roles for scientists in National Forest System planning and decisionmaking. In the final rule, this section has been renamed “The overall role of science in planning.” It has been designated as section 219.22.

Comment: Use of sound science. Various individuals suggested that the regulations clarify the definition of “scientist.” The real issue, according to some of these respondents, is the use of sound science information and scientific methods—not who brings the information or methods to the process.

Response: The Department agrees, and section 219.22 of the final rule shifts the emphasis from scientists, as the deliverers of scientific information, to the role of science in the planning process. This shifts the focus from individuals who may participate in the process, to an embracing of science as an integral part of National Forest System planning—thus including scientific knowledge, scientific methods, and expert scientific review and opinion, including analyses based on the latest scientific information.

Comment: Influence of science advisory panels. Enthusiasm for science in land management was tempered by concerns regarding the level of authority and influence of science advisory panels. Some felt that the scientific advisory board should support Forest Service staff and should not be involved in decisionmaking.

Response: The final rule requires the responsible official to ensure that the best available science is considered in planning. It clarifies the intent that science consistency evaluations (section 219.24) and science advisory boards (section 219.25) are to inform this process, not to advocate a particular decision, and clearly states that all decision authority rests with the responsible official.

Comment: Cost and effectiveness of scientific input. Some respondents questioned the cost and effectiveness of increasing the required levels of scientific input into the forest planning process. Others expressed concern that the Forest Service does not have the budget or resources to effectively evaluate the credentials of non-governmental science professionals.

Response: The final rule requires that the best scientific information be considered in planning (section 219.22(a)), but recognized that all plan decisions do not require detailed and costly broad-scale assessments, science consistency evaluations, or similar costly approaches, to achieve this goal (section 219.5). Concerns regarding scientific efficacy are addressed by increasing peer review of science input (section 219.22), involving the Deputy Chief for Research and Development, Research Station Directors, and Science Advisory Boards (sections 219.24 and 219.25).

Comment: Use of science advisory boards. Forest Service officials are granted too much discretion in determining the use of peer reviews and science advisory boards, many respondents contended. Additionally, many respondents worry about the potential for bias in the selection of scientists. One person recommends using professional literature searches to ensure an efficient and cost effective means for gathering and documenting information. Others recommended publishing the names and qualifications of those selected to serve on science advisory boards.

Response: The final rule requires full consideration of the best available science in plan development, including peer review and science consistency evaluations. Peer reviews and public involvement provide powerful mechanisms to detect scientific or other bias in decisionmaking. Furthermore, the final rule clarifies that the responsible official, not scientists or others, makes the decision. Membership on advisory boards would be public information, and the Department assumes that literature searches would be a part of applying the best available science where appropriate.

Other changes. Section 219.23 in the proposed rule, paragraphs (b) and (c) are not retained in the final rule. These are functions of scientists listed in the proposed rule, which are only illustrative and not needed in the final rule. In the proposed rule, general assistance in applying relevant scientific information is addressed in paragraph (a), to the extent necessary in the rule, by science consistency evaluations in section 219.25. The material related to issues in paragraph (d) of the proposed rule, is also not retained. It is referenced in section 219.4 which suggests that the responsible official consider the scientific basis and merit of available data and analyses in determining whether an issue is appropriate for consideration. Section 219.23 in the final rule addresses the role of science in information development and interpretation. Since the final rule does not focus on scientists, the last sentence in paragraph (d) of the proposed rule discussing their employer is not included.

Section 219.24—Science consistency evaluations. This section of the proposed rule described responsibilities for scientific review of planning processes to ensure that proposed actions and supporting procedures are consistent with current scientific understanding.

Comment: Some reviewers felt that the planning regulations should clarify what science consistency guidelines may be used if the responsible official chooses not to consult with the science advisory board.

Response: The final rule requires the responsible official to consider the best available science in plan development and subsequent decisions; it is at her/his discretion as to how this can best be accomplished. The final rule makes it clear that the use of advisory boards is one means identified in the final rule to assist, others include: Direct informal and formal involvement of scientists and technical experts, peer reviews of draft analyses and plans, and science consistency evaluations. All of these, as well as others, are available to the responsible official. The method employed for a planning activity is to be selected by the responsible official, but at a minimum, the responsible official must periodically consult with an advisory board.

Other changes. There are two important changes in paragraph (a). The first clarifies the purpose of science consistency evaluations. The proposed rule initially stated that decisions must be consistent with available science. It then restates the test as whether information gathered, evaluations conducted, or analyses and conclusions reached in the planning process are consistent with the best available scientific information and analysis. A finding of inconsistency that results from this process does not necessarily mean that a decision is “wrong.” It does mean that the information and analysis supporting that decision should be revisited, which may in turn lead to a change in the decision. The final rule states the purpose of the science consistency evaluation is to determine whether information, evaluations, analyses, or interpretations used in proposals for plan decisions are consistent with the best available science.

The second change in paragraph (a) concerns the role of the science advisory boards in this process. In the proposed rule, the responsible official may use them to assist in the science consistency evaluation. In the final rule, the responsible official must use them to determine when a science consistency evaluation is appropriate. This change is consistent with the change in emphasis away from who is performing analysis. While the proposed rule did not require participation of the science advisory boards, it gave too much weight to this one approach. In addition, giving the science advisory boards a role in determining when to conduct science consistency analysis addressed the concern that there are no criteria for when such an analysis should occur.

Section 219.25—Science advisory boards. This section of the proposed rule described establishment of National and Regional Science Advisory Boards and work groups

Comment: Representation of interests. A large number of comments recommended that the proposed regulations establish protections against bias and unequal representation of interests. Many people advocated that the proposed planning regulations require representation from a broad range of scientific fields in peer evaluations and advisory boards. For example, some suggested that the Forest Service should better recognize university professionals and other federal agency scientists as resources in planning. Others argued that the use of non-Forest Service scientists be explicitly required in forest planning to minimize agency influence over scientific conclusions.

Response: Sections 219.25(a) and (b) of the final rule now stipulate that: “Board membership (of National and Regional Science Advisory Boards) must represent a broad range of scientific disciplines including, but not limited to, the physical, biological, and social sciences.” The Department believes that the purpose of the science advisory boards, as specified in section 219.25(a) of the final rule, is to advise on matters of science. It is not, however, a role of Advisory Board members to represent or advocate special interests. Sections 219.22(b) and 219.24(a) should help expose and mitigate any perceived bias.

Comment: Role of Forest Service scientists. Many respondents believe the role of Forest Service scientists needs to be clarified. Several people state that the proposed regulations will unduly burden Forest Service research station personnel and potentially compromise their integrity as field experts. Conversely, several people indicate that the regulations should encourage land managers to utilize research station professionals more extensively.

Response: The final rule specifies that “the best available science” must be considered and obtained from those individuals possessing appropriate scientific credentials. In some cases this may include Forest Service scientists. In others cases it may not.

This section of the final rule differs from the proposed rule in that the Deputy Chief for Research and Development must establish a National Science Advisory Board to advise on issues of national importance, rather than the Chief as required in the proposed rule. The final rule also states that Station Directors and the Deputy Chief for Research and Development must personally chair the science advisory board(s) they establish, or appoint the chair(s).

The proposed rule states that work groups could be established with the concurrence of “Forest Service officials.” The final rule specifies that concurrence must be by the Deputy Chief for Research and Development for the National Science Advisory Board, or the Research Station Director for a Regional Science Advisory Board.

Other changes. Paragraph (a) in the final rule requires the establishment of a national science advisory board. This board is required by paragraph (b) in the proposed rule. The role remains to provide advice on issues of national significance. The final rule clarifies that the Chief of the Forest Service will identify these issues. The composition of the science advisory boards generated many public comments, including some advocating a stronger role for Forest Service research scientists. In response, the final rule gives the Deputy Chief for Research and Development the responsibility for establishing and chairing the national science advisory board. In the proposed rule, the Chief of the Forest Service is responsible for establishing the national advisory board.

Paragraph (b) in both the proposed and final rules requires the appropriate Forest Service Research Station Director(s) to establish regional science advisory boards. As a result of public comments, in the final rule, this director or directors shall chair the advisory board or appoint a chair. The final rule clarifies the geographic boundaries of the boards need not align with National Forest System Regional boundaries.

Special Considerations

Proposed Section 219.26—Identifying and designating suitable uses. This section of the proposed rule identified the suitability of various uses on national forests and grasslands and provided criteria for making a determination of suitability within the planning framework. Designation of suitable land uses was one of the decisions that must be included in plans (see Section 219.7).

Comment: Multiple-use as the guiding principle. Multiple-use should continue to be the guiding principle for management of national forests, according to many individuals. Like a number of respondents who view this section as a significant departure both from relevant statutes and from the existing planning rule, these individuals saw the proposed planning regulations as de-emphasizing multiple-use to the extent that they “violate the mandates prescribed in the NFMA and the MUSYA as well as other applicable rules and regulations.” In particular, some respondents suggested that the planning rule encourage industrial commodity production and extraction. One person, though, asked the Forest Service to define the term multiple-use since the term may include connotations other than resource extraction.

Response: National forest and grasslands will continue to be available for a wide variety of multiple uses as long as those uses do not conflict with one another and they are appropriate for the location where they may occur. This section of the planning rule provides criteria for making this determination.

Comment: Criteria to identify and designate suitable uses. Some respondents believed that in comparison to the current NFMA planning regulations, the proposed criteria to identify and designate suitable uses is thoroughly inadequate. These individuals contended that the proposed rule should provide clear suitability standards—particularly regarding livestock grazing, mineral extraction, and timber removal. To this end, some respondents suggested that the Forest Service retain the existing suitability requirements since the current guidelines are more prescriptive than those included in the proposed regulations. In addition, several people asserted that the final rule's suitability requirements must not grant excessive discretion to Forest Service land managers. Specifically, they suggested replacing the word “should” with “shall” throughout the subsection. Such a change would require land managers to consider the possible uses listed in this section, they asserted. Several other people asked the Forest Service to clarify the statutory authority by which Executive Orders can restrict suitable uses of national forests. One respondent wondered how forest plans would designate and map management areas for specific uses.

Response: The Department has added criteria to the rule related to impairment of the productivity of the land and compatibility with plan decisions. With these changes, the Department believes that it has provided sufficient guidance for amendment and revision of plans. The current regulation was put in place to enable the agency to prepare comprehensive national forest and grassland plans. Detailed instructions were necessary and appropriate for completion of the first round of planning. Each national forest and grassland now has a plan in place, and the task at hand is to evaluate and improve upon each of these. Detailed procedures regarding the integration of natural resource management practices are no longer appropriate. Rather, as described in the planning regulation, it is now appropriate to look to ways to improve existing plans and provide for needed adjustments in uses.

Comment: Access to national forests and grasslands. Several respondents feared that the proposed rule would limit access to national forest lands. Among those that felt access will be restricted, some asserted that if national forests really are the “people's lands,” then the people have the right to access them for recreation, such as hiking, biking, off-highway travel, and snowmobiling. “I have a right as a taxpayer and a law abiding citizen to use these lands,” wrote one respondent. Recreational access is especially crucial for visitors with disabilities, according to many. “I cannot park a car in a trailhead parking lot and hike into areas that non-handicapped persons can,” one citizen said. “I should be able to access the same public lands as non-handicapped persons,” this person stated.

Response: Congress has given the Secretary of Agriculture the responsibility to regulate use of the National Forests System. The MUSYA acknowledges that not all lands must be available for all uses. Any changes to access for specific uses under this rule will occur using the framework for planning, will involve collaboration with the affected and other publics, and will use the best available science to identify the uses that are suitable within the plan area.

Comment: Mining. Many respondents felt that the proposed rule fails to emphasize mining as a legitimate use of national forests. At the very least, according to one person, the proposed rule should clarify how nonrenewable resources, such as minerals, will be regulated. If mining is to be allowed, others asserted, its effects must be mitigated.

Response: Unlike current planning rule, the revised rule does not try to provide direction for specific uses. It focuses instead on sustainability of the economic, social, and ecological systems. Mining is one of many uses of national forests, and it may occur where it is a suitable use, consistent with plans. Other federal statutes applicable to mining must also be considered in determining where and how mining may occur.

The Department believes that this rule, and in particular, its sustainability requirements, will not by itself preclude mining activities. Analysis and collaboration conducted under the requirements of the rule, and following all applicable laws, will determine where mining is appropriate and what mitigation measures will be required. The rule's emphasis on ecosystem health, collaboration, and the role of science may very well result in the identification and implementation of effective and efficient mitigating measures applicable to mining operations, improving the overall sustainability of the use and development of what are commonly referred to as nonrenewable resources.

Comment: Grazing. Requiring monitoring and enforcement of grazing standards on national forest lands, some contended, will ameliorate the negative effects of grazing. To this end, wrote one person, the proposed rule should clarify how science will aid in determining the suitability of lands for grazing.

Response: This level of detail is not appropriate for this rule. The role of science is generally described in section 219.22, which requires the use of best available science in all aspects of planning, including suitability determinations.

Comment: Recreation. One respondent contended that limiting access to portions of public land might shift increasing visitor pressure into other, ever-dwindling, public use areas. Conversely, others specifically requested access restrictions for types of recreation that degrade public lands. Activities that are allowed on Forest Service lands—be they recreational or commercial-must not degrade forest resources, many argued. Still others questioned what role recreation should have in forest planning.

Response: Outdoor recreation is one of the uses of national forests recognized in the MUSYA. The NFMA requires that plans provide for these uses. In accordance with this rule, all potential uses, and decisions to limit access must be considered in the context of overall sustainability.

Comment: Biodiversity. One respondent suggested that the planning rule should require that public lands be evaluated for their role in maintaining and protecting biodiversity.

Response: Section 219.20 requires this evaluation.

Comment: Relationship with private land. Several respondents suggested that the proposed planning rule address the relationship between resource extraction on national forests and that on private lands. Another respondent argued for conservation easements across deeded lands.

Response: Section 219.17 requires the Forest Service to interact with private landowners, which may include the relationship between resource extraction on national forests and that on private lands and conservation easements across deeded lands.

Other changes. The final rule characterizes the process as identifying lands not suited for particular uses, whereas the proposed rule required identification of lands suited for certain uses. The approach in the final rule is more in line with the introductory statement that national forests and grasslands are suitable unless they are designated unsuitable.

Additional criteria are added to the final rule for identifying lands not suitable for particular uses. These are: (1) Incompatibility with policies of the National Forest System, (2) causing substantial and permanent impairment of the productivity of the land, and (3) incompatibility with one or more plan decisions. With these changes, the Department believes that it has provided sufficient guidance for amendment and revision of plans. The current regulation was put in place to enable the agency to prepare comprehensive national forest and grassland plans. Detailed instructions were necessary and appropriate for completion of the first round of planning. Each national forest and grassland now has a plan in place, and the task at hand is to evaluate and improve upon each of these. Detailed procedures regarding the integration of natural resource management practices are no longer appropriate. Rather, as described in the planning regulation, it is now appropriate to look to ways to improve existing plans and to provide for needed adjustments in uses.

Proposed Section 219.27—Special designations. The proposed rule identified types of special designations the Forest Service can recommend through the plan amendment or revision process. It required all roadless, undeveloped areas of sufficient size to be considered for wilderness designation. It required special areas designated by statute to be incorporated in the plan.

Comment: List of special designations. A state agency believed that the proposed planning regulations should clarify which special designations, in addition to those listed, will be allowed. In the minds of some respondents, the list in section 219.27 contains too many designations. In particular, many believed that public access would be unnecessarily limited by special designations such as wilderness and research natural areas. Others contended that Forest Service officials simply have too much discretion to authorize special designations. This, they believed, is an abrogation of Congressional powers. Conversely, several people suggested that the Forest Service broaden the list of special designations to include heritage management areas, unique botanical areas, indigenous religious sites, and utility corridors. Some recommended protecting and strengthening existing special designations areas such as reference landscape areas and research natural areas.

Response: The lists of both Congressionally and administratively designated areas are examples, and not all-inclusive. The recommendation or designation of these or other kinds of special areas is within the scope of existing laws and regulations and is within the authority of planning as designated in NFMA. The framework for planning allows for the development of issues leading to the proposal of special designations, and also gives ample opportunity for the public and others to collaborate on the issue at all levels of planning.

In response to comments, and to more clearly delineate the authorities related to special designations, the final rule separates Congressionally designated areas, paragraph (a), from administratively designated areas, paragraph (c). Based on public comment, specific requirements for evaluating inventoried roadless areas and unroaded areas are included in section 219.9(b)(8) of the final rule to emphasize that the responsible official must evaluate these areas during the revision process. The Forest Service may adopt special designations or recommend designation to higher authorities through the planning process. In the final rule, the Forest Service is not limited to the classifications listed in the rule, and the Forest Service, Department, or Administration may designate areas as appropriate.

Comment: Wild and Scenic Rivers. Many respondents urged the Forest Service to protect watersheds, wetlands, and riparian areas. According to a few respondents, affected rivers must be evaluated for Wild and Scenic River designation as per the Wild and Scenic Rivers Act. Specifically, The Draft Unified Federal Policy for Ensuring a Watershed Approach to Federal Land and Resource Management was cited by a state agency as a model for watershed restoration. Correspondingly, a water users' association believed that the Forest Service's founding mandate dictates that the agency ensure certain and stable water flows from national forests. “While the Cache La Prouder Water Users Association approves in concept the long-term, sustainable management of the forests, we are concerned that the proposed rule's emphasis on sustainability may in practice subvert and cripple one of the original purposes of the national forests—favorable conditions of water flows for use by the people.” Conversely, one respondent asked the Forest Service to justify the purpose of maintaining riparian buffer zones.

Response: Authorities governing the development and the management of the National Forest System include the Organic Administration Act, the Clean Water Act, and the Wild and Scenic Rivers Act. The requirements of these must be followed. This rule does not reiterate those requirements, but it does create a framework for planning to meet them. Specific methods for the protection of watersheds, wetlands, and riparian areas and the use of riparian buffer zones are not addressed in this rule. These are developed through the planning process using the best available science.

Comment: Evaluating areas for wilderness. One respondent stated that the language of section 219.27(a) “clearly singles out and emphasizes wilderness as a consideration for management and in the next paragraph says that roadless areas should receive a full range of management options.” The wilderness biases should be eliminated from the text of the rule, this person believed. During any analysis of proposed wilderness, wrote one organization, an ecological, social, and economic cost-benefit analysis should be conducted. Some respondents suggested specific suitability criteria. “There should be some sort of release criteria to prevent unsuitable areas from remaining in ‘limbo' for decades as wilderness study areas do now,” one respondent stated. Others called for using either environmental impact statements or site-specific analyses (in accordance with RARE I and II) as the appropriate tools to evaluate roadless areas for wilderness designation. Others questioned the efficacy of considering roadless areas for wilderness designation at this time—they suggest changing section 219.27(a) to exempt wilderness consideration “during this round of plan revisions.”

Response: The Department believes that the best process for determining suitability for wilderness designation is the planning process embodied in this rule, and conducted at a scale that can address unique characteristics of each area. The Department does not see a need to change the wilderness suitability process significantly from the one that was used to develop current plans. Wilderness review is intrinsic to planning. Wilderness designation will be subject to the planning and public involvement requirements of this rule. A responsible official may establish management direction for areas not recommended for wilderness, consistent with requirements of this and other applicable rules. The Department does not believe this section of the rule establishes a bias or preference for wilderness designation.

Comment: Evaluating roadless areas. Many people supported the proposed rule's directive to evaluate roadless areas for wilderness designation. One person suggested that, at the very least, commercial activities should be prohibited in roadless areas.

Response: The Forest Service's proposed Roadless Area Conservation Rule would provide protections for inventoried roadless areas by prohibiting certain activities in inventoried roadless areas. In addition, as discussed above, the final planning rule clarifies that the responsible official will have to evaluate inventoried roadless and unroaded areas and consider additional protections during the time of plan revision.

Comment: “Roadless” and “unroaded” areas. A pervasive theme among respondents” comments was the need for the Forest Service to clarify the definition and relationship of “roadless area” and “unroaded area.” Specifically, some questioned the appropriateness of using the term unroaded since, according to one group, “Congress has never legally recognized the term.” Another respondent, however, asked that the final planning rule clarify the definition of unroaded to address the size, configuration, composition, and inherent values of unroaded areas. The proposed rule was vague, according to a recreational organization, as to whether “the Forest Service will undertake a comprehensive inventory of the unroaded areas.” Many feel that the Forest Service should perform such an inventory since, according to one individual, “the existing inventories on many forests were never performed accurately during the RARE II process.”

Response: To reduce this confusion, the final planning rule renames “roadless” areas “inventoried roadless areas.” Definitions of inventoried roadless area and unroaded areas in the final planning rule are consistent with the Forest Service's proposed roadless area conservation rule and road management policy. An unroaded area is any area, without the presence of a classified road, of a size and configuration sufficient to protect the inherent characteristics associated with its roadless condition. As noted above, the final rule clarifies that during the revision process the responsible official must evaluate inventoried roadless areas and unroaded areas and identify areas that warrant protection and the level of protection to be afforded.

Comment: Protection of roadless areas. Many believed all remaining roadless areas on National Forest System lands—particularly roadless areas of 1,000 acres or more—should be protected. A primary reason cited for this view was the need to preserve ecologically significant areas upon which plant and animal species are dependent. Some believed the Tongass National Forest exhibited these qualities and argued that the Tongass not be exempted from roadless area protection. Others suggested biodiversity protection can be achieved by basing roadless area management on the recommendations found in the Committee of Scientists' report.

Response: The Forest Service's proposed Roadless Area Conservation Rule would provide protections for inventoried roadless areas by prohibiting certain activities in inventoried roadless areas. In addition, as discussed above, the final planning rule (section 219.9(b)(8)) clarifies that the responsible official must evaluate inventoried roadless and unroaded areas and consider additional protections during plan revision. This evaluation must include information and analyses developed to assess ecological sustainability, including assessments of ecosystem and species diversity at the appropriate spatial and temporal scale. The final planning rule does not include special provisions for the Tongass National Forest.

The Department believes it inappropriate to predetermine the size or configuration of unroaded areas to be analyzed and considered through plan revisions. In some areas, 1,000-acre unroaded areas may be an appropriate standard. In other areas, management criteria, such as the scarcity or abundance of unroaded and inventoried roadless areas, may require the consideration of smaller or larger sized areas. Responsible officials may determine that other size, configuration, or resource criteria may be appropriate to best evaluate and protect the important social and ecological characteristics of unroaded and inventoried roadless areas. Unroaded areas should be of a size, shape, and position within the landscape to reasonably achieve the long-term conservation of roadless characteristics such as soil, water, and air quality; sources of drinking water; diversity of plant and animal communities; habitat for threatened, endangered, proposed, candidate, and sensitive species and for those species dependent on large, undisturbed areas of land; primitive, semi-primitive non-motorized, and semi-primitive motorized classes of dispersed recreation; reference landscapes, landscape character and scenic integrity; traditional cultural properties and sacred sites; and other locally identified unique characteristics. Areas may include those that provide important corridors for wildlife movement, or areas that share a common boundary of considerable length with an inventoried roadless area, with a component of the National Wild and Scenic River System, or with unroaded areas 5,000 acres or more on lands administered by other federal agencies. In selecting areas, the responsible official should consider the distance from, and the scarcity of, other unroaded areas, particularly for those areas east of the 100th meridian.

Comment: Access to public lands. Many argued against the withdrawal of roadless areas because access for active management practices was needed to maintain forest health. Additionally, many stated that access to public lands for recreation was an essential component of multiple-use. Furthermore, the fact that motorized vehicle use had been authorized in certain areas in the past should ensure future access for this activity, according to some.

Response: This final rule does not withdraw roadless areas from active management or prohibit access to public lands. The proposed Roadless Area Conservation Rule proposes prohibiting certain activities in inventoried roadless areas, but it does not propose closing trails or roads, prohibiting off-road vehicle use, changing current forest access, or interfering with access granted by statute, treaty, or reserved or outstanding rights. Under the proposed roadless rule, decisions about recreational activities (other than those that depend on road construction and reconstruction) on National Forest System lands would continue to be made through the planning process with the full involvement of trail riders and other interested people.

Indeed, the final planning rule establishes a process for identifying, discussing, and, if appropriate, acting on issues that may emerge from a variety of sources and on a variety of special and temporal scales (section 219.3). This rule anticipates that issues will be resolved at the appropriate level—national, regional, or local—through the planning process. In some places, activities such as mineral exploration or recreational access to the national forests and grasslands may become issues. As such, these issues would be considered using the explicit collaboration, science, sustainability, and planning requirements articulated in the final planning rule.

Comment: Legal mandates and proposed roadless area conservation rule. Many respondents felt the proposed roadless rule must not violate existing statutes such as the Wilderness Act and the MUSYA. Several individuals expressed concern that the proposed roadless rule circumvents Congressional authority to designate wilderness areas. Among those who explicitly argued against the proposed roadless rule, the need to comply with forest management and multiple-use mandates were two prominent reasons offered in support of their position.

Response: Consistent with all applicable law, the Forest Service's proposed Roadless Area Conservation Rule would provide protections for inventoried roadless areas by prohibiting certain activities in inventoried roadless areas. In addition, as discussed above, the final planning rule (section 219.9) clarifies that the responsible official will have to evaluate inventoried roadless and unroaded areas and consider additional protections during the time of plan revision. These procedures are in accordance with existing statutory direction, including the Wilderness Act and the MUSYA.

Other changes. The final rule expanded the list of special designations to be more inclusive than that of the proposed rule. The final rule clarifies that an amendment or revision of a plan is a mechanism by which the Forest Service establishes management direction for special designations.

Section 219.28—Determination of land suitable for timber harvest. This section of the proposed rule established two classifications of land suitability for timber harvest. The first was the classification of lands not suited for timber production. The second was the classification of lands where timber harvest would be permitted.

Comment: Suitability classifications. The proposed rule listed two classifications of land relative to timber production: “land not suited for timber production” and “land where timber harvest is permitted.” A number of respondents claimed that these classes are not consistent with NFMA. Others suggested retaining the suitability determination requirements in the existing regulations. Some individuals suggested adding additional classifications such as “lands unavailable for timber production” or other classifications that take into account forest health harvests or long-term harvest rotations.

Response: The final rule has been reorganized to better incorporate the intent of the NFMA, and also to better accommodate innovative management approaches to achieving sustainability. The final rule, identifies three separate classifications of land in section 219.28: (a) Lands where timber may not be harvested; (b) lands where timber may be harvested for timber production; and (c) lands where timber may be harvested for other multiple-use values.

Comment: Consistency with NFMA requirements. Some respondents wanted the proposed planning rule to include various specific provisions from NFMA. Other people voiced reservations regarding the criteria for determining lands not suited for timber production as detailed in the proposed rule. These criteria are too vague and should be eliminated, according to several people. Expressing a common sentiment among respondents, one wood products industry representative believed that “interpretation of the phrases ‘ecosystem integrity,’ and ‘lands where the costs of timber production are not justified by the ecological, social, or economic benefits,’ would be costly and controversial at best, and most likely would contribute to further planning gridlock.”

Response: Criteria for lands where timber harvest may not occur are taken directly from NFMA section 6(e). In order to determine lands where timber harvest is an objective, the responsible official must complete the planning process to determine that the projected costs of timber production are justified by the overall benefits. The Department believes that these criteria are straightforward and legally sound. In the final rule, criteria for where timber may be harvested from lands not suited for timber production, include the term “ecological sustainability” instead of “ecosystem integrity,” and the rule elaborates on its meaning in 219.20. The rule also defers the determination of the need to harvest timber until site-specific information is available.

Comment: Land withdrawn form timber harvest. The proposed rule lists a number of lands not suited for timber production—one category being “lands that have been withdrawn from timber harvest by the Secretary of Agriculture or the Chief of the Forest Service.” Several respondents question this executive branch authority that they believe is reserved for Congress alone.

Response: Authority to withdraw land from availability for timber harvest may be undertaken by the Secretary of Agriculture or Chief of the Forest Service for specific reasons such as, but not limited to, public health and safety, accomplishments of other multiple-use objectives, and other appropriate uses of the land.

Comment: Lands where technology is not available for conducting timber harvesting. The proposed planning rule also describes lands “where technology is not available for conducting timber harvesting * * *” as another land-class not suited for timber production. One wood products industry representative recommends striking this provision based on the belief that “technology is ever changing, and tomorrow systems will be available that we aren't even thinking of today.”

Response: This language is a requirement of NFMA. The fact that technology changes was recognized by the additional requirement in NFMA (and this section of the rule) to review lands determined to be not suited for timber production at least every ten years, or as prescribed by law.

Comment: Lands where the costs of timber production are exceeded by benefits. The proposed planning regulations defined one classification of lands not suitable for timber production as “lands where the costs of timber production are not justified by the ecological, social, or economic benefits” (section 219.28(b)(5)). Respondents raised a number of related concerns regarding this classification.

First, some believed that timber production costs should be exempted from consideration during suitability determinations for timber production because to do otherwise, they contended, would constitute a violation of NFMA suitability criteria. Second, a number of people asked the Forest Service to clarify what they mean by below-market cost timber sales. In other words, what “costs” are being considered in such determinations? Are they ecological, social, or economic? A possible solution offered by one respondent requires the Forest Service to conduct a cost-benefit analysis of ecological, social, and economic factors in conjunction with proposed timber removal actions. Third, if ecological, social, or economic benefits do not outweigh the cost of conducting a timber sale; such projects should be prohibited, according to some.

Response: Section 6(k) of the NFMA requires the Secretary of Agriculture to identify lands, which are not suited for timber production, considering physical, economic, and other pertinent factors. Under this authority, it is appropriate to consider the relative costs and benefits from timber production. In the final rule, regarding lands that are not classified as unsuitable for timber, the responsible official may establish timber production as a multiple-use objective in the plan if the costs of timber production are justified by the ecological, social, or economic benefits. With regard to individual timber sales, no economic test is required on lands where timber production has been established as a plan objective based on plan-level analysis. On lands where timber production is not an objective, analysis must be used to determine that timber harvest is necessary to achieve other objectives. However, the Department does not believe this rule should limit use of timber harvest as a management tool in these situations based on the ability to recover economic costs.

Comment: Lands where timber harvest is permitted. Several respondents argued that in order to achieve the goals of multiple-use sustained-yield, the Forest Service must require active timber management through its planning regulations. For some, this even meant harvesting timber from roadless areas. In addition to the statutory foundation for this position, these individuals cited the need to improve both forest health and wildlife habitat.

Response: Plans prepared pursuant to this planning regulation may, in response to issues that have been identified, require active timber management to achieve their objectives, the Department does not believe that it is appropriate to mandate such action on each national forest and grassland at the national level. The planning rule provides ample direction and opportunity for the responsible official to provide for timber production.

Comment: Salvage and Sanitation harvests. A few people asked the Forest Service to clarify the language of section 219.28(d), which, according to one person, “seems to allow salvage logging on all national forest lands not protected by wilderness status.” The bottom line for these individuals is that the Forest Service needs to clearly differentiate between salvage, sanitation, and green timber harvests. However, assuming that the proposed rule does, in fact, allow salvage logging on all non-wilderness lands, other respondents urged the Forest Service to eliminate salvage and sanitation harvests entirely. They questioned the efficacy of such harvests to actually control fires or curb insect infestations. They also cited perceived past abuses of the salvage sale program as reason enough to be skeptical of the program in the future. In contrast, others supported planning rule provisions for salvage and sanitation harvests. These, they claimed, are essential to local economies and to improving forest health.

Response: Both sanitation and salvage harvest of timber are legitimate, tested, silvicultural practices that may be appropriate to curb or manage the harmful impacts of undesirable insect and disease attacks. The Department believes that the language in this section on suitability is appropriate regardless of the kind of timber harvesting activity. The reference to the sanitation and salvage harvest has been removed from this section. No exceptions are made for salvage and sanitation harvests in this rule. They will be allowed on lands where timber may be harvested for timber production, and on lands where it may be harvested for other values as long as the criteria for harvest from such lands are met. NFMA requires keeping separate records of salvage and sanitation harvest volume.

New language has been added to section 219.29 which states, based on NFMA: “For purposes of limiting the amount of timber harvest, the harvest of timber from areas that are substantially affected by fire, wind, or other events, or for which there is an imminent threat from insects or disease may either substitute such timber for timber that would otherwise be sold or, if not feasible, sell such timber over and above the plan volume * * *”

Other changes. The final rule emphasizes that a decision to harvest timber must be consistent with plan decisions, in accordance with section 219.10.

Paragraph (b)(2) in the proposed rule designated all lands that do not meet the definition of forested land as not suited for timber production. That provision is not in the final rule; rather, paragraph (b) allows a decision on such lands to be based on an evaluation of the costs and benefits of timber production. Lands that do not meet the definition of forested land are by their nature, not suitable for timber production. NFMA requires that lands determined to be not suitable for timber production be reviewed at least once every ten years. In accordance with paragraph (b), all lands other than those selected pursuant to this paragraph are not suited for timber harvest, and subject to this review requirement.

Proposed Section 219.29—Limitation on timber harvest. This section of the proposed rule required the estimation of the long-term sustained-yield capacity of timber. In addition, it provided for the calculation of an allowable sale quantity for any decade that departs from the projected long-term average sale quantity.

Comment: Exceeding sustained-yield limits. Most respondents agreed that the concept of sustained-yield is, in principle, a positive goal. However, some people took exception to how this actually will be implemented through the proposed regulations. For example, some saw section 219.29(c)(2) as providing a loophole for truly sustainable timber removal. These people argued that this section allows the responsible officials the discretion to exceed sustained-yield limits “whenever they want as long as the sale is disclosed.”

Response: The text of the proposed rule regarding the procedures that must be used when a departure in timber harvest levels is necessary is not retained in the final rule. Because this text was taken from the language of NFMA, it is believed that in the rare circumstance when a departure in projected timber harvests may be necessary, it is best to rely on the exact language of NFMA. Also, the calculation for long-term, sustained-yield limitations is separated into two categories in the final rule. The first is a limitation on the harvests that may take place from timber production lands. The second is a limitation on the harvests that may take place for the removal of timber to accomplish multiple-use objectives other than timber production. The two calculations cannot be combined to increase harvest levels from either category of land.

Comment: Ecologically sustainable timber harvest. Some respondents urged the Forest Service to adopt specific standards and criteria to achieve ecologically sustainable timber harvests. Several respondents suggested possible means to this end: adopting guidelines to ensure a diversity of tree age classes on national forests rather than simply evaluating sustainable biomass removal; measuring sustained-yield at a finer scale than the current provision that allows combining forests less than 200,000 acres in size; or using the Sustainable Fisheries Act as a model for sustainable logging. Sections 219.29(a) and (c) of the proposed rule used the term “perpetuity.” One respondent wondered how “perpetuity” will be calculated-is this a mathematical estimation and who would determine this figure?

Response: In accordance with section 219.20, plans must provide for ecosystem diversity, which includes many characteristics such as distribution and abundance of successional stages of vegetation. The Department intends and believes that timber harvest levels that result from implementation of this rule will be consistent with ecological sustainability.

Comment: Allowable sale quantity. Many public concerns centered on the concept of allowable sale quantity (ASQ). Some saw the proposed rule as a detrimental move away from existing ASQ requirements, which were thought to be important for sustaining the economies of timber-dependent communities. Moreover, one wood products industry representative contended that pursuant to NFMA requirements, the proposed rule should require that ASQ determinations be made at the forest level and that “any significant up or down departure from planned allowable sale quantities should trigger a forest plan amendment.” In contrast, others requested that ASQ provisions be entirely eliminated from the proposed rule or revised to require that ASQ determinations reflect salvage and sanitation harvest volumes.

Response: The topic of ASQ has long caused confusion for those concerned with the management of the national forests. NFMA authorizes, but does not require, the establishment of an ASQ where it is necessary to plan harvest of more timber in a decade than what could be removed on a sustained-yield basis (16 U.S.C. 1611). The current planning rule required the establishment of an ASQ for every plan based on its projected sale schedule (36 CFR 219.16(b)). In accordance with NFMA, both the sustained-yield quantity (long-term sustained-yield capacity) and ASQ were intended to impose limits on the sale of timber from a national forest rather than to establish targets. Nevertheless, many individuals have viewed ASQ as a target to be achieved. However, many factors beyond the control of the agency have influenced and will continue to influence actual harvest levels. These include the budget received from Congress, new listings and designations of critical habitat under the Endangered Species Act, weather, and the requirements of other statutes and Executive Orders.

The proposed rule, while not requiring the establishment of an ASQ, did require the establishment of a long-term sustained-yield capacity at the forest level, which set the upper cap on the sale of timber from lands where timber production was an objective. In addition, the proposed rule required that plans contain a display of actions, outcomes, and projected products and services that could be used for reasonable estimates of likely timber harvest levels. These provisions are retained in the final rule. In addition, a limitation on the amount of timber that may be removed from lands unsuited for timber production is added to the final rule. Language from NFMA has been added to clarify the relationship of salvage and sanitation sales to harvest volume limits. To simplify the text and acknowledge the intended limited use of the term, “allowable sale quantity,” it is no longer used in the rule, but may be found in the referenced section of NFMA.

Comment: Logging methods. Logging methods and techniques were very important for many who comment on the proposed planning rule. In order to ensure minimal environmental impact during logging activities, some suggested using small equipment for timber cutting and removal procedures. One person requested that the Forest Service design timber harvest units to mimic stand composition and structure created by natural disturbance events. Indeed, to some, mimicking disturbance events requires an explicit commitment by the Forest Service to continue the practice of clearcutting. Clearcuts, they claimed, contribute to a multi-age forest structure and serve as habitat for a variety of wildlife species. Still, there must be limits on individual clearcut size, some argued. One person suggested using the Committee of Scientists report as a guide for establishing size limits based on the characteristics of natural disturbance regimes. Many other respondents called for a complete ban on clearcutting in national forests. To them, clearcuts are ecologically destructive and reduce the capacity of forests to act as wind buffers for human communities in some regions of the country.

Response: Clearcutting is a legitimate and sometimes needed silvicultural tool for managing certain forested landscapes. Forest silviculture and ecosystem disturbance ecology support this view. At the same time, the Department shares the concerns over inappropriate application of clearcutting. The Department is confident that the planning framework and the collaborative, science-based approach to ecological diversity it contains will result in clearcutting being used appropriately. It remains agency policy that clearcutting be used only when and where it is appropriate and fully supported by science.

Other changes. Paragraph (a) in the final rule requires calculation of the amount of timber that could be sold in perpetuity on a sustained-yield basis from lands where timber harvest is not prohibited. In the proposed rule, this calculation was required only for those lands where timber production was identified as an objective. NFMA does not make this distinction, and in the final rule the requirement applies to all lands not identified in paragraph (a). Estimates for lands that may be harvested for other purposes may be difficult to make and less reliable than for timber production lands. For that reason, and to avoid excessive harvest from either type of land, the volume estimates for the two areas may not be combined. Paragraph (b) imposes separate limits on the volume that may be sold from lands that are suited for timber production and those lands that are not suited for timber production, but available for the harvest of timber to fulfill other multiple use objectives.

Planning Documentation

Proposed Section 219.30—Land and resource management plan documentation. This section of the proposed rule described the documentation requirements for the plan, including the summary document, a display of land suitable for selected uses, a display of decisions for the plan area, a list of actions to achieve desired conditions, the minimum level of monitoring and evaluation, a display of budgetary information, and a list of reference materials. In the final rule, this section has been renamed “Plan documentation.”

Comment: Many people found the “living document” idea appealing although they doubt the ability of the Forest Service to meet the goals set out in this subsection of the proposed rule. Some people claimed that “existing forest plans are already living documents” due to rapidly changing conditions which require revisions. Other people questioned the ability of the Forest Service to keep up with expectations outlined in the proposal. “This is a lot of disparate information to keep track of, connected, integrated, and continually updated.” A few respondents asked how the documentation will work and how it will be organized. Will the living document result in “the same sort of unintelligible documents that appeared during the first round of planning,” another person asked? Others had specific suggestions for the kind of budget and output information to include.

Response: In general, section 219.30 of the final rule retains the language in the proposed rule. The Department does not view the plan documentation as an undue burden. The items to be displayed already exist within agency records. By following the plan documentation process, information relative to plan and site-specific decisions as well as future implementation would be readily available to the public. The intent of this section of the rule is to provide one location for all the documents that pertain to plan decisions on the forest or grassland. As noted in the Committee of Scientists Report, the integrated plan is the assemblage of all policies and decisions affecting an administrative unit. The Department agrees with the comment that forest plans currently can be viewed as “living documents.” However, the Department believes that the planning structure outlined in the final rule provides for more timely and flexible planning based on the appropriate scale of the issue.

Other Changes. The term “guidelines” in the proposed rule has been removed from this section in the final rule. There was some confusion about the terms “standards and guidelines” and their meaning in the proposed rule. The term “standards” has been retained in the final rule. New language is added in the final rule referring to “maintenance or restoration of sustainability.” This language has been added to emphasize the goals of sustainability in the final rule. The language referring to “watershed protection or restoration” in paragraph (a) from the proposed rule is removed in the final rule. The Department believes that the language in the final rule referring to “ecological” environments within the plan area encompasses watershed protection and restoration.

Some editing and clarifying changes to paragraph (b), “Display of public uses,” and paragraph (c), “Plan decisions,” are made in the final rule. There is also some editing and clarifying changes to paragraph (d), “Display of actions and outcomes.” Paragraph (d)(4), regarding the projected range of outcomes for uses, values, and services is changed from 10-year projection in the proposed rule to a 15-year projection in the final rule to coincide with the required revision schedule for plans.

Proposed Section 219.31—Maintenance of the plan and planning records. This section of the proposed rule described the requirements that keep plans up-to-date and readily available to the public. It also described the types of administrative changes to plans that are considered maintenance.

Comment: Many people believed that the maintenance of planning documents under the proposed rule would become an insurmountable obstacle to effective management. They were concerned about the staff time it will take to comply with the reporting periods. One person wrote that at a two-year cycle for documentation maintenance would be a better use of staff time. Others argued that posting the entire plan record on the Internet is not feasible. Some people requested that complete sets of documents be maintained at district offices. Distances can sometimes be “unduly burdensome for staff and citizens to have to travel to the Supervisor's office,” they asserted. Some respondents feared that special interest groups would be able to unduly influence management by initiating revisions. Other people felt that stability is more important than flexibility in a forest plan.

Response: The Department believes it is reasonable to expect the requirements under this provision to be successfully followed by the Forest Service. The documents should be available in an electronic format. However, the reference to the Internet in section 219.31(a) in the proposed rule has been eliminated from the final rule to allow for development and use of other applicable electronic media for information exchange. The Department has removed the language in section 219.31(b) of the proposed rule referring to “complete and current data” associated with planning records. This language was removed because these terms have specific legal interpretations.

The Department has also added a new item (4) under subsection (b) that would exempt changes in monitoring methods from Forest Service NEPA procedures. The Department made this change to make sure that any changes in monitoring methods would be considered administrative corrections, and not plan revisions or amendments subject to NEPA.

Objections and Appeals

Proposed Section 219.32—Objections to amendments or revisions. In the proposed rule, this section described the process by which the public could challenge plan revisions or amendments. This process will provide the public an opportunity to challenge Forest Service planning prior to the responsible official making a final decision. This section requires the responsible official in the planning process to respond to all objections prior to approving an amendment or revision of the plan. This process will provide the Forest Service and the public with an opportunity to address issues before a final decision is made.

Comment: Objection process. Many people feared the objection process would reduce the influence that the current appeals process provides to some individuals. They claimed the 30-day objection period is insufficient time to identify issues and generate an administrative record. Many believed the proposed objection process would undermine their ability to establish standing for possible litigation. Although some respondents felt that the objection process is an inadequate protection of public interests, others felt that requirements for standing should be much more stringent to prevent needless obstruction. Many respondents noted that there is no time limit for the agency to respond to objections. To achieve conflict resolution and efficiency in the objection process, “time limits are essential,” wrote one individual. However, one forest products industry representative believed that the pre-decisional objection process would allow managers to implement decisions without “excessive appeals.”

Response: The objection process applies only to amendments and revisions of a land and resource management plan. The process recognizes the interest of people engaged in stewardship and the achievement of sustainability is grounded in the recommendations of the Committee of Scientists. It furthers the intent of the collaborative dialogue outlined in sections 219.12 to 219.18 and supports the premise of the problem-solving and decisionmaking model envisioned in the framework for planning (sections 219.3 to 219.11). The process complements and is consistent with the maintenance of established relationships, commitments, and responsibilities necessary to continuing solving problems for effective stewardship prior to finalizing a pending plan amendment or revision.

The final rule, as a whole, addresses the weaknesses in the current 36 CFR part 217 appeal process through integration of the objection process with the framework for planning (sections 219.3 to 219.11) and supplementing traditional NEPA public involvement with collaborative planning for sustainability (sections 219.12 to 219.18). In the long run, the objection process is expected to resolve many potential conflicts. The purpose of the objection process is to encourage resolution of issues before decisions are made. The intent is to provide the reviewing officer with an opportunity to work more closely with the responsible official and those filing objections to resolve the objections before a decision is made. A predecisional objection process will also enhance interagency collaboration by standardizing objection procedures and provide incentives to work out substantive differences rather than focus on procedural errors.

Critical to the success of the objection process is the active effort of the responsible official and others to engage in early and frequent opportunities for public involvement and dialogue. An objection must be filed, in writing, within 30 calendar days of public notice of the appropriate NEPA documentation. The 30-day objection period mirrors a similar existing process used successfully by the Bureau of Land Management, and the Department feels that it should not prove a barrier to those who wish to utilize it—particularly if they have been involved in the collaborative processes. Establishing a time limit for the agency to respond to objections would burden the collaborative process with an unnecessary constraint. The focus of the objection process is on joint problem solving to resolve issues, not on pressing a decision to meet an artificial deadline.

Comment: Current appeals process. Many respondents argued for the retention of the current appeal process. They felt that appeals ensure cumulative analysis, allow public oversight of Forest Service policy, and are a citizen's right. Changing the process, some declared, will destroy confidence in the integrity of the Forest Service. Many people believed an appeals process provides the option to resolve conflict before litigation becomes necessary.

Response: Under the current 36 CFR part 217 appeal process, the agency and the public expend significant human and financial resources in fulfillment of procedural requirements. Under the existing rule, some individuals and interest groups have little trust in the integrity of the current process and perceive they have a better chance of achieving their interests through costly appeal and litigation processes. Often, a polarized relationship develops where there is no real incentive to address natural resource issues, creating a cycle of “bulletproofing environmental documentation” and expending both human and financial capital, often without long-lasting solutions. The objection process provides for the consideration of a pending plan amendment or revision without restricting citizens' legal rights. The responsible official, the reviewing officer and the objector have the opportunity to seek reasonable solutions to conflicting views before a plan amendment or revision is adopted.

Comment: Analysis of prior appeals. Some respondents suggested that the Forest Service address prior appeals against Forest Service decisions as part of the proposed planning rule. They believed that interviews with people who filed appeals should be incorporated into the planning process.

Response: Appeals and the concerns of national forest and grassland users were considered in the development of the final planning rule. The team that developed the proposed rule and response to public comment based their work on years of experience in addressing the concerns of interested citizens. The increased emphasis that the planning rule places on collaboration is a direct response to improve working relationships among interested citizens. In the objection process, the reviewing officer can step in and review the procedures as well as the substance of a pending decision and seek a suitable resolution of an objection.

Subparagraph (b) has been added to the final rule which provides for objectors and other parties to participate in meetings with the responsible official to discuss their objection, narrow differences, agree on facts, and explore opportunities for resolution. Any person would be allowed to object to a pending decision. The objection submittal requires copies of all documents addressing the issue or issues that were submitted during the planning process by the objecting party or an indication of the date the issue or issues were discussed for the record. Unlike the current 36 CFR part 217 rule, the objection process in section 219.32 of the final rule does not have a specific time limit for resolving objections. The current appeal process prevents a higher level intervention or participation in issue resolution or problem solving because of the need to avoid ex parte communication by higher-level reviewing authorities and also to maintain an independent, objective review of the record, at the higher level of appeal. Under the objection process, to expedite resolution of any objection, the responsible official would not be allowed to approve an amendment or revision under objection until a decision on the objection has been reached and documented in an appropriate decision document. Also, the reviewing officer must promptly render a response, in writing, setting forth the rationale for the response. The reviewing officer's response regarding an objection is the final decision of the Department of Agriculture.

Other changes. The Department added new language in paragraph (a) in the final rule, which requires the responsible official to publish notice of all objections in a newspaper of record. This language was added to ensure that the list of objections would be disclosed to the public. The Department removed the section of paragraph (b) in the proposed rule pertaining to the Notice of Intent and multi-agency planning. The Department believes that this language is not necessary in the final rule. The Department also removed paragraph (c) of the proposed rule pertaining to review and final response to an objection. The Department determined that the objection process should not be viewed as a legal process.

Proposed Section 219.33—Appeals of site-specific decisions. This section of the proposed rule addressed appeals of site-specific decisions. The appeal process is the same as the existing requirements provided in 36 CFR part 215.

Comment: Although many people wanted to keep the existing appeals process, some felt that the objection process is a good direction for the Forest Service and is appropriate for site-specific decisions as well. Others believed that the Forest Service must clarify the relationship between the pre-decision objection process for plan decisions and the appeal process for site-specific decisions. A few people argued that objection process violates due process requirements for site-specific decisions.

Response: While there is merit in having an objection process for site-specific decisions, amending the appeal process is beyond the scope and authority for developing these planning regulations under the NFMA. For this reason, the administrative appeal process for site-specific decisions remains unchanged in the final rule.

The Department added language to this section to clarify the relationship between the objection processes for plan decisions and the appeal process for site-specific decisions. Other revisions have been made to incorporate changed terminology.

The Department does not believe that objection process violates due process requirements for site-specific decisions. The agency's NEPA procedures provides for both public comment and appeal of site-specific decisions.

Applicability and Transition

Proposed Section 219.34—Applicability. This section of the proposed rule provided that the direction in the rule applied to all units of the National Forest System and remains unchanged in the final rule. The agency did not receive any specific comments on this section.

Proposed Section 219.35—Transition. This section of the proposed rule addressed the shift in planning from the use of the existing regulation to the new rule, including the initiation of transition, the length of time existing plans remain in effect, the review of unsuitable land for timber production, the timing for completion of ongoing amendment or revision efforts, the relationship between transition and site-specific decisions, and the withdrawal of regional guides. This section outlined the process by which the Forest Service will transition from the 1982 planning regulations.

Comment: Many respondents requested a clear distinction between forest plans and project-level plans in terms of when they must conform to requirements in the proposed rule. Existing NEPA regulations still apply to project plans, stated one person. In addition, the application of the proposed regulations to recently revised forest plans was a significant concern of many people. One respondent said that the new regulations could overturn environmental safeguards developed in revised forest plans. Some commented that a timeframe must be set in order that proposed projects, which can take years to develop, don't come into conflict with forest plans under the new regulations.

Response: The final rule adequately describes the relationship between plan decisions, site-specific decisions, and the agency's NEPA procedures. The transition from the existing regulations to the new rule and the relationship between transition and site-specific decisions is addressed in section 219.35. The Department does not believe that the new rule could overturn environmental safeguards developed in revised forest plans. For site-specific decisions, section 219.35(d) provides a three-year time period for transition between the existing regulations and the new rule.

Comment: The use of Regional Guides after implementation of the proposed planning regulations should be discussed in more detail some contended. One respondent suggested that Regional Guides should be withdrawn “on a forest-by-forest basis.” Another requests they not apply until the next scheduled plan revision. Several people asserted that provisions must be in place to prevent delays in revision of forest plans through “endless extensions.” On a separate note, one person wanted requirements for evaluating suitability for multiple-uses specified in the transition section instead of “just sustainability.”

Response: The management direction contained within each Regional Guide would be transferred to the Forest Service directives system or to applicable plans. The direction contained within Regional Guides will be used to develop plan revisions. Section 219.35(f) of the final rule provides that the Regional Forester will have 1 year from the effective date of this rule to withdraw the regional guide. In regard to the comment about delays in planning, the rule provides a transition framework that will expeditiously amend or revise existing forest plans. In addition, the rule establishes a framework for incorporating this new planning structure into project planning as well as forest and grassland plans. In regard to the comment about suitability, the identification and designations of suitable uses will be implemented in accordance with Section 219.26 of the final rule. It is the intent of this rule to provide that suitable uses will be evaluated during the transition period.

Other Changes. Some editing and clarifying changes are made to this section of the final rule. In addition, the Department has added new text in paragraph (a) of the final rule requiring the responsible official to consider the “best available science to implement, and, if appropriate, amend the current plan.” This text is added in the final rule in order to require the Forest Service to incorporate the best science within current plans. The Department intends this to be incorporated within existing forest plans that have been prepared under the 1982 planning structure, too.

New text in paragraph (b) of the final rule is added to allow for the completion of an ongoing plan amendment or revision under the 1982 rule if an environmental assessment or draft environmental impact statement has been issued within six months of the effective date of the new planning rule. The responsible official may complete the amendment or revision under the new rule. This addition to the final rule was made to ensure that ongoing plan amendments or revisions nearing completion were not delayed. Implementation of the new planning rule would take place as described by the transition process.

New language in paragraph (e) requiring the Regional Forester to withdraw the regional guide within one year of the effective date of the regulation is added to the final rule. The language in the proposed rule that required all the forests within a region to complete their revisions prior to withdrawal of the regional guide has been removed. This change was made to ensure the expeditious withdrawal of regional guides. The information in the regional guide will be transferred to a regional supplement of the Forest Service directives system or to existing forest plans. Public notice for these actions will be announced in the Federal Register. The Department has included new language in paragraph (f) of the final rule that provides for the transfer of information from the regional guide to other plans does not constitute new decisionmaking subject to additional Forest Service NEPA procedures.

A new subparagraph (g) is added to the final rule that requires the Chief of the Forest Service to prepare a schedule for completion of the plan revisions within one year. This section was moved from section 219.9, Revision, of the proposed rule to this section in the final rule. The change was made to emphasize this is one of the major responsibilities during the transition period. This language will enable the Chief of the Forest Service to prioritize plan revisions and provide the necessary resources to complete them in a timely manner.

Definitions

Proposed Section 219.36—Definitions. This section of the proposed rule defines terms used in the rule. This section has been retained in the final rule, with some changes in terms.

Comment: Many people requested that a variety of terms be defined this section of the proposed planning rule. Other respondents offered specific comments regarding the need for the clarification of terms already defined in the proposed planning regulations.

Response: The changes in the definitions and terms from the proposed rule to the final rule are as follows:

Assessment or analysis area. The definition of assessment or analysis area was retained from the proposed rule, with some minor clarifying language. The term “geographic” has been added to describe the area of analysis.

Broad-scale assessment. The proposed rule included a definition for this term. The definition of broad-scale assessment has been moved to section 219.5(a) of the final rule.

Candidate species. The term candidate species has been retained in the final rule. The phrase “a list of such species prepared by the USFWS and published in the Federal Register” has been removed. The Department believes that this language is unnecessary and redundant.

Conservation agreement. The term conservation agreement was defined in the proposed rule has been retained in the final rule. There are no changes to the definition.

Current climatic period. This term has been added to the final rule. The Department believes that this term is important to understand the timeframe for species and ecosystems within the final rule.

Demand species. This term was defined in the proposed rule. It has been removed from the final rule. The Department believes that the final rule should concentrate on protection of species that may have viability concerns. Demand species, as defined in the proposed rule, may not have viability concerns.

Desired condition. This term has been modified in the final rule by deleting the phrases pertaining to the description of the range of natural variability. The Department removed this language because there is a new definition for range of variability.

Desired non-native species. This term has been modified in the final rule to recognize that non-native species can have “high social, cultural, or economic value.” This term could include “demand species,” as defined in the proposed rule.

Disturbance processes. This term has been changed from “disturbance processes” to “disturbance regime” in the final rule. The Department believes that this term better describes disturbances. The Department also removed the term “land use development” from the list of human caused disturbances. The Department believes that the list of disturbances in the final rule describes all of the activities that could occur on national forests and grasslands.

Diversity of plant and animal communities. The Department has retained this term in the final rule.

Ecological composition. This term, which was defined in the proposed rule, has been removed from the final rule. The Department believes that the characteristics of ecological composition are defined in the definitions for the terms ecosystem composition, ecosystem processes, and ecosystem structure.

Ecological conditions. The Department has removed the term “ecological sustainability” from the list of components of the biological and physical environment. The term “ecological sustainability” has been defined in the final rule. The Department has also added the phrase “abundance and distribution” to the list of ecological conditions. This phrase was added to ensure that planning takes into consideration these factors in identifying ecological conditions.

Ecological sustainability. This term, which was defined in the proposed rule, has been retained in the final rule with some modifications. The Department has removed the language in the proposed rule referring to “plan area.” The Department believes that this definition should not be limited to only the plan area.

Ecosystem. This term, which was defined in the proposed rule, has been removed from the final rule. The Department believes that this term is adequately defined within the definitions of ecosystem structure, ecosystem processes, and ecosystem composition.

Ecosystem composition. The Department has added this definition to the final rule to clarify what ecological elements are included within this term.

Ecosystem integrity. This term has been removed from the final rule. The Department believes that the terms ecosystem composition, ecosystem processes, and ecosystem structure provide adequate definitions for this term in the final rule.

Ecosystem processes. The Department has added this term to the final rule. The Department believes that it is important for participants in the planning process to have an understanding of the elements of ecological processes.

Ecosystem structure. This term was defined in the proposed rule. It has been retained in the final rule, with some modifications. The Department has removed the language listing the specific characteristics for identifying ecosystem structure. The Department believes that this information is not necessary.

Focal species. The proposed rule did not define this term. The Department has added this term to the final rule because of its importance in determining viability of species. This is a term that is used broadly by the scientific community.

Forest Service NEPA procedures. The Department has retained this definition in the final rule.

Historical range of variability. The Department has removed this term from the final rule. It has included a new definition for range of variability in the final rule. The Department removed this term because it wanted to ensure that range of ecosystem processes considered in the new planning process are within the current climatic period, but not limited to pre-European settlement time period.

Inherently rare species. This term was not defined in the proposed rule. The Department has added this term to the final rule. The Department has defined this term because it is important for the agency and public to understand that there may be species that are “rare” because of natural circumstances.

Inventoried roadless areas. The Department has added this term in the final rule. This was done to further clarify the terms of “roadless areas” and “unroaded areas” in the proposed rule and make the definition consistent with Forest Service Roadless Area Conservation Draft Environmental Impact Statement Summary and Proposed Rule, dated May 2000.

Local analysis. The Department has removed this definition from the final rule. This term is defined in Section 219.5, Information development and interpretation.

Major vegetation types. The Department has added a definition of this term to the final rule. This term was added to describe the predominant plant communities within a region or sub-region.

Native species. The Department has made minor editorial changes to this definition in the final rule. The substance of the definition remains unchanged.

Plan area. This term was defined in the proposed rule. It is defined in the final rule, with some modifications. The Department has added the term “geographic.” The Department believes that this addition is important for describing the plan area.

Productive capacity of ecosystems. The Department has changed this term to “productive capacity of ecological systems” in the final rule. The Department believes that this better describes ecosystem processes in the planning structure.

Range of variability. The Department has added this term to the Definition section in the final rule. As mentioned above, the definition on historical range of variability is no longer included in the final rule. The new definition states that the natural disturbance regimes are in the current climatic period. The Department believes that this language better characterizes the range of variability for planning on national forests and grasslands.

Reference landscapes. The Department has redefined this term in the final rule. The Department removed the phrases referring to “historical range of variability” and “terrestrial and aquatic areas.” The Department has added new language that describes the “reference landscapes” as places within the “plan area.” The Department believes that this new language better describes the types of reference landscapes that can be used in the planning process.

Responsible official. The Department has modified this definition in the final rule by removing the language referring to more than one line officer. The Department believes that this phrase is not necessary. The Department has also removed the language referring to “line officer,” and has added new language that provides for the responsible official to be the person who oversees the planning process.

Reviewing officer. The Department has added this term in the final rule. The Department wanted to clarify who this individual is and what their responsibility is in the planning framework.

Roadless areas. The Department has renamed this term “inventoried roadless areas” to further differentiate it from unroaded areas.

Salvage harvest of timber. The Department has removed this definition from the final rule. The Department believes that it is not necessary to specifically define this term.

Sanitation harvest of timber. The Department has removed this definition from the final rule. The Department believes that this term does not need to be defined in the final rule.

Sensitive species. The Department has removed this definition from the final rule. The term is only referred to in the Definition section for “species-at-risk” in the final rule and the Department believes it is not necessary to specifically define it.

Social and economic sustainability. The Department added this definition in the final rule based on public comment.

Species. The definition in the proposed rule stating that “any native taxon of the plant or animal kingdom” is defined as a species has been changed in the final rule to “any member of the plant or animal kingdom.” The Department made this change to broaden the definition to include native and non-native species.

Species-at-risk. The Department has defined this new term in the final rule. The Department wanted to clarify that these are federally listed and other species that have a viability risk within the plan area.

Species viability. The Department has retained this definition in the final rule, with some modifications. The Department has removed the language in the proposed rule referring to the “genetic diversity” of self-sustaining populations. The Department removed this language because it believes that viability should be interpreted in the broadest manner.

Successional stages. The Department has added this term to the final rule. The Department believes there is a need to define the various phases of vegetation development within the context of sustainability.

Timber production. This definition is unchanged from the proposed rule.

Undeveloped areas. This term was added to the final rule. This term refers to all areas of sufficient size that are “untrammeled” by human beings that are appropriate to evaluate for wilderness designation in the planning process.

Unroaded areas. This term is revised to be consistent with the definition used in Forest Service Roadless Area Conservation Draft Environmental Impact Statement Summary and Proposed Rule, dated May 2000.

Vegetation Management. This term has been removed from the final rule. The term is defined within the content of sections 219.4, Identification and consideration of issues, 219.28, Determination of land suitable for timber harvest, and 219.29, Limitation on timber harvest.

Watershed integrity. This term has been removed from the final rule. It is defined within the content of section 219.20, Ecological Sustainability.

Regulatory Certifications

Regulatory Impact

This rule has been reviewed under USDA procedures and Executive Order 12866 on Regulatory Planning and Review. It has been determined that this is not an economically significant rule. This rule will not have an annual effect of $100 million or more on the economy nor adversely affect productivity, competition, jobs, the environment, public health or safety, nor state or local governments. This rule will not interfere with an action taken or planned by another agency nor raise new legal or policy issues. Finally, this action will not alter the budgetary impact of entitlements, grants, user fees, or loan programs or the rights and obligations of recipients of such programs. However, because of the extensive interest in National Forest System planning and decisionmaking, the Office of Management and Budget has determined this rule to be significant and thus, subject to OMB review under Executive Order 12866.

The cost-benefit analysis focused on key activities in land and resource management planning for which costs could be estimated under the existing and final planning rules. Those major activities included regional guides, land and resource management plan revisions, land and resource management plan amendments, and advisory committees. The final rule would reduce costs by eliminating regional guides and reducing the length of the planning process. Increased costs would result from new requirements for FACA-type advisory boards and science advisory boards. The cost of broad-scale assessments will also be a new planning expense, which is assumed to be at least equal to the cost of maintaining regional guides. Based on the quantified costs, the final rule is estimated to result in an average annual cost savings of $2.4 million compared to the existing rule. This estimate is a conservative estimate of cost savings, since it is assumed that the cost of significant amendments under the existing rule is zero (based on the rarity of application), and no cost savings are estimated as a result of improved efficiencies, streamlined processes, and reduced litigation costs because of improved methods for dealing with planning conflicts. The cost-benefit analysis can be obtained by contacting: the Director, Ecosystem Management and Coordination, Forest Service, USDA, P.O. Box 96090, Washington, DC 20090-6090, (202) 205-1697.

Moreover, this rule has been considered in light of the Regulatory Flexibility Act, as amended (5 U.S.C. 601 et seq.), and it has been determined that this rule will not have a significant economic impact on a substantial number of small entities as defined by that Act. The rule imposes no requirements on either small or large entities. Rather, the rule sets out the process the Forest Service will follow in planning for the management of the National Forest System. The rule should increase opportunities for small businesses to become involved in both site-specific and national forest and grassland plan decisions. Moreover, by streamlining the planning process, small businesses should see more timely site-specific decisions that affect outputs of products and services.

Eight comments from law firms or representatives of small mining operators, outfitters and guide permit holders, and small timber companies challenged the Forest Service assertion that the proposed rule, if adopted, would not have a significant economic impact on small businesses and other entities. Several of these reviewers asserted that the shift to ecological sustainability would result in reductions in resource allocations and thus would have severe adverse effects on small businesses and communities within and adjacent to National Forests. One commenter also challenged the assertion that the proposed rule streamlined the planning process. One organization representing the 8,000 recreation outfitters and guides operating under permit on the national forests and grasslands contended that the proposed planning rule would reduce recreation opportunities with corollary reductions in commercial outfitting and guiding.

Several representatives of small mining operators also asserted that the proposed planning rule, in combination with actions by the Bureau of Land Management, would violate the small miners Constitutional rights. Finally, all these respondents quoting various provisions of the Regulatory Flexibility Act, believed that the Forest Service had not complied with the Act, either by not preparing Initial Regulatory Flexibility Act, or not presenting a factual basis for why an IRFA was not required.

The Department finds that the planning rule would not result in a significant economic impact on a substantial number of small entities as defined by the Small Business Act. Those who allege severe shifts in resource allocations have not offered facts and data to prove their point.

This planning rule establishes a process for planning of national forest and grasslands and does not directly regulate any business. The process that is being established under this rule offers greater opportunity for small entities to actively participate in the planning process than in the past. Forest dependent businesses and communities may choose to become involved in planning if the issues are relevant and important to them.

No Takings Implications

This rule has been analyzed in accordance with the principles and criteria contained in Executive Order 12630, and it has been determined that the rule does not pose the risk of a taking of Constitutionally protected private property. This rule establishes a process for amending and revising land and resource management plans for national forests and grasslands. Several respondents commented that the proposed regulations would impose “takings” of private property. After careful review of the proposed and final regulations, the Department finds that there are no “takings” implications by this rule. As stated previously, the rule establishes a process and only applies to national forests and grasslands, not private property.

Civil Justice Reform Act

This rule has been reviewed under Executive Order 12988, Civil Justice Reform. As adopted, (1) all state and local laws and regulations that are in conflict with this rule or which would impede its full implementation are to be preempted; (2) no retroactive effect is given to this rule; and (3) it does not require administrative proceedings before parties may file suit in court challenging its provisions. Several respondents commented about the federal government's authority to preempt state and local laws. The Department has carefully reviewed this language and finds that this is entirely consistent with the legal responsibilities of the federal government.

Unfunded Mandates Reform

The President signed into law on March 22, 1995, direction regarding unfunded mandates. The Department has assessed the effects of this rule on state, local, and tribal governments, and the private sector. This rule does not compel the expenditure of $100 million or more by any state, local, or tribal governments or anyone in the private sector. Therefore, a statement under section 202 of the Act is not required. Several respondents commented that the proposed regulations imposed an “unfunded mandate” on state and local governments. The Department disagrees with this comment. These regulations do not impose any mandatory requirements on states, tribes, or local governments. These regulations only apply to land and management planning for national forests and grasslands. It is discretionary for state and local governments and tribes to participate in the planning process detailed in this rule.

Environmental Impact

This rule deals with the development and adoption of Forest Service land and resource management plan decisions as well as procedures for developing site-specific decisions that may include decisions regarding the occupancy and use of National Forest System land. An environmental assessment has been completed with a finding of no significant impact. Several respondents asked why the Forest Service did not prepare an environmental impact statement. As stated previously, the Department prepared an environmental assessment consistent with the National Environmental Policy Act. The environmental assessment prepared by the Forest Service includes a Cost-Benefit Analysis and Civil Rights Impact Analysis. The environmental assessment can be obtained by contacting: Director, Ecosystem Management and Coordination, Forest Service, USDA, P.O. Box 96090, Washington, DC 20090-6090, (202) 205-1697. Subsequent NEPA documents will be written when land and resource management plans and site-specific plans are undertaken.

Controlling Paperwork Burdens on the Public

In accordance with the Paperwork Reduction Act of 1995 (44 U.S.C. 3501 et seq.), the information collection or reporting requirements included in the rule have been approved by the Office of Management and Budget (OMB) and assigned control number 0596-0158.

Section 219.32 Objections and Appeals would establish a new process for citizens and groups to object to a forest plan amendment or revision decision. Instead of appealing a decision after it is made under the rules of 36 CFR part 217, the rule would allow interested and affected persons and groups to file an objection before the decision is made. The final rule also includes a provision for other parties to participate in the objection process. The objection process should be open and inclusive of all parties. In addition, language has been added to the final rule that provides for objectors and other parties to participate in meetings with the reviewing officer to discuss their concerns regarding a proposed plan amendment or revision. This is an opportunity for all parties to explore possible resolution of their concerns with the responsible official.

The rule sets out the information that an objector would need to provide in order to file an objection to a proposed decision. This information is the same information that is currently required by the rules at 36 CFR part 217, which provides post-decisional administrative appeal and review of land and resource management plan decisions. An agency may not conduct or sponsor, and a person is not required to respond to, a collection of information unless it displays a currently valid OMB initialed number.

The agency received comments on this section for the proposed regulation. Respondents indicated that language in the proposed rule was nebulous and confusing. There were concerns stated for replacing the appeal process with a pre-decisional objection process and including site-specific decisions in the land and resource management plan. Respondents said that the direction for analysis and documentation would not reduce paperwork under the proposed rule.

The language in the final rule clarifies the language used in the proposed rule. The new objection process replaces the paperwork required in the appeal process with upfront discussions until the objection is resolved. Site-specific decisions are required to be identified in the two-year budgetary documentation of the Land and Resource Management Plan and be consistent with the planning processes. Site-specific decisions will continue to be conducted consistent with applicable NEPA procedures.

Use of Comments—Federalism

The agency has considered this rule under the requirements of Executive Order 12612 and made a preliminary assessment that the rule will not have substantial direct effects on the states, on the relationship between the national government and the states, or on the distribution of power and responsibilities among the various levels of government. Therefore, the agency has determined that no further assessment on federalism implications is necessary at this time. In addition, the agency has reviewed the consultation requirements under Executive Order 13132, which is effective on November 2, 1999. This Order calls for enhanced consultation with state and local governmental officials and emphasizes increased sensitivity to their concerns. In the spirit of these new requirements, the agency consulted with the Western Governors' Association and the Natural Resources Committee of the National Governors' Association for comments on a draft version of the rule. Representatives of the Western Governors' Association indicated that the rule fits the principles espoused in their organization's ENLIBRA policy, which encourages greater participation and collaboration in decisionmaking, focuses on outcomes rather than programs only, and recognizes the need for a variety of tools beyond regulation that can improve environmental and natural resource management. The National Governors' Association also has adopted the ENLIBRA policy. Many state and local government representatives attended town meetings on the proposed rule. Department representatives also met with and shared information about the proposed planning rule with the International City and County Management Association, National Conference of State Legislators, The Council of State Governments, National Association of Counties, Western Governors Association, U.S. Conference of Majors, and National League of Cities.

The rule calls for enhanced collaboration with state and local governments. Section 219.14 shows sensitivity to federalism concerns from a substantive standpoint. Under the rule, the responsible official must provide opportunities for involvement of state and local governments in the planning process, including opportunities to participate in the identification and consideration of issues related to planning.

Respondents appreciated the consultation required with state and local governments in the proposed rule. One respondent felt the role of states and local governments was diminished by so much emphasis on collaborative relationships with the public. Respondents were concerned that public meetings on the proposed rule were not held in more local communities. In the context of planning activities, there was concern that this was the province of the city and county governments and that the Forest Service should not promote community organization around a set of agency determined goals.

List of Subjects

36 CFR Part 217

Administrative practice and procedure, National forests.

36 CFR Part 219

Administrative practice and procedure, Environmental impact statements, Indians, Intergovernmental relations, Forest and forest products, National forests, Natural resources, Reporting and recordkeeping requirements, Science and technology.

Therefore, for the reasons set forth in the preamble, and under the authority of 16 U.S.C. 551, chapter II of title 36 of the Code of Federal Regulations is amended as follows:

PART 217—[REMOVED]

1. Remove Part 217.

2. Revise Part 219 to read as follows:

PART 219—PLANNING

Subpart A—National Forest System Land and Resource Management Planning
Purpose and Principles
Sec.
219.1 Purpose.
219.2 Principles.
The Framework for Planning
219.3 Overview.
219.4 Identification and consideration of issues.
219.5 Information development and interpretation.
219.6 Proposed actions.
219.7 Plan decisions.
219.8 Amendment.
219.9 Revision.
219.10 Site-specific decisions.
219.11 Monitoring and evaluation for adaptive management.
Collaborative Planning for Sustainability
219.12 Collaboration and cooperatively developed landscape goals.
219.13 Coordination among federal agencies.
219.14 Involvement of state and local governments.
219.15 Interaction with American Indian tribes and Alaska Natives.
219.16 Relationships with interested individuals and organizations.
219.17 Interaction with private landowners.
219.18 Role of advisory committees.
Ecological, Social, and Economic Sustainability
219.19 Ecological, social, and economic sustainability.
219.20 Ecological sustainability.
219.21 Social and economic sustainability.
The Contribution of Science
219.22 The overall role of science in planning.
219.23 The role of science in assessments, analyses, and monitoring.
219.24 Science consistency evaluations.
219.25 Science advisory boards.
Special Considerations
219.26 Identifying and designating suitable uses.
219.27 Special designations.
219.28 Determination of land suitable for timber removal.
219.29 Limitation on timber removal.
Planning Documentation
219.30 Plan documentation.
219.31 Maintenance of the plan and planning records.
Objections and Appeals
219.32 Objections to amendments or revisions.
219.33 Appeals of site-specific decisions.
Applicability and Transition
219.34 Applicability.
219.35 Transition.
Definitions
219.36 Definitions.
Subpart B—[Reserved]

Subpart A—National Forest System Land and Resource Management Planning

Authority: 5 U.S.C. 301; and Secs. 6 and 15, 90 Stat. 2949, 2952, 2958 (16 U.S.C. 1604, 1613).

Purpose and Principles

§ 219.1 Purpose.

(a) Land and resource management planning guides how the Forest Service will fulfill its stewardship of the natural resources of the National Forest System to fulfill the designated purposes of the national forests and grasslands and honor their unique place in American life. The regulations in this subpart set forth a process for amending and revising land and resource management plans, hereafter referred to as plans, for the National Forest System and for monitoring the results of plan implementation under the Forest and Rangeland Renewable Resources Act of 1974, as amended by the National Forest Management Act of 1976, 16 U.S.C. 1600 et seq. The regulations in this subpart also guide the selection and implementation of site-specific actions. The principal authorities governing the development and the management of the National Forest System include: the Organic Administration Act of 1897, as amended (16 U.S.C. 473 et seq.); the Multiple-Use Sustained-Yield Act of 1960 (16 U.S.C. 528 et seq.); the Wilderness Act (16 U.S.C. 1121 et. seq.); the National Environmental Policy Act of 1969 (42 U.S.C. 4321 et seq.); the Endangered Species Act of 1973, as amended (16 U.S.C. 1531 et seq.); the Forest and Rangeland Renewable Resource Act of 1974, as amended by the National Forest Management Act of 1976 (16 U.S.C. 1600 et seq.); and the Clean Water Act of 1948, as amended by the Federal Water Pollution Control Act Amendments of 1977 and the Water Quality Act of 1987 and other laws (33 U.S.C. 1251 et seq., 1323 et seq.).

(b) The National Forest System constitutes an extraordinary national legacy created by people of vision and preserved for future generations by diligent and far-sighted public servants and citizens. These are the peoples' lands, emblems of the nation's democratic traditions.

(1) The national forests and grasslands provide a wide variety of uses, values, products, and services that are important to many people, including outdoor recreation, forage, timber, wildlife and fish, biological diversity, productive soils, clean air and water, and minerals. They also afford intangible benefits such as beauty, inspiration, and wonder.

(2) To assure the continuation of this array of benefits this regulation affirms sustainability as the overall goal for stewardship of the natural resources of each national forest and grassland consistent with the laws that guide management of these lands.

(3) Sustainability, composed of interdependent ecological, social, and economic elements, embodies the principles of multiple-use and sustained-yield without impairment to the productivity of the land. Sustainability means meeting needs of the present generation without compromising the ability of future generations to meet their needs. Planning contributes to social and economic sustainability without compromising the basic composition, structure, and functioning of ecological systems. The progress toward achievement of sustainability is assessed through monitoring and evaluation.

§ 219.2 Principles.

The planning regulations in this subpart are based on the following principles:

(a) The first priority for planning to guide management of the National Forest System is to maintain or restore ecological sustainability of national forests and grasslands to provide for a wide variety of uses, values, products, and services. The benefits sought from these lands depend upon long-term ecological sustainability. Considering increased human uses, it is essential that uses of today do not impair the functioning of ecological processes and the ability of these natural resources to contribute to sustainability in the future.

(1) Planning provides the guidance for maintaining or restoring the diversity of plant and animal communities and the productive capacity of ecological systems, the core elements of ecological sustainability.

(2) Planning is based on science and other knowledge, including the use of scientifically based strategies for sustainability and benefits from independent scientific peer review.

(3) Planning is based on the temporal and spatial scales necessary for sustainability.

(4) Planning includes the monitoring and evaluation of the achievement of goals.

(b) Planning contributes to social and economic sustainability by providing for a wide variety of uses, values, products, and services without compromising the basic composition, structure, and function of ecological systems.

(1) Planning recognizes and fosters a broad-based understanding of the interdependence of national forests and grasslands with economies and communities.

(2) Planning fosters strategies and actions that provide for human use in ways that contribute to long-term sustainability.

(c) Planning is efficiently integrated into the broader geographic, legal, and social landscape within which national forests and grasslands exist. Other agencies, governments, corporations, and citizens manage land in and around the national forests and grasslands. Planning, therefore, is outward looking with the goal of understanding the broader landscape in which the national forests and grasslands lie.

(1) Planning fosters coordination among all affected federal agencies.

(2) Planning proceeds in close cooperation with state, tribal, and local governments.

(3) Planning recognizes the rights of American Indian tribes and Alaska Natives.

(4) Planning is interdisciplinary, providing analyses and options that are responsive to a broad range of ecological, social, and economic.

(5) Planning acknowledges the limits and variability of likely budgets.

(d) Planning meaningfully engages the American people in the stewardship of their national forests and grasslands. Just as the Forest Service can help the American people learn about the limits and capabilities of the national forests and grasslands, managers also should be guided by the knowledge and values of the American people.

(1) Planning encourages extensive collaborative citizen participation and builds upon the human resources in local communities and throughout the nation.

(2) Planning actively seeks and addresses key issues and promotes a shared vision of desired conditions.

(3) Planning and plans are understandable.

(4) Planning restores and maintains the trust of the American people in the management of the national forests and grasslands.

(e) Planning is an ongoing process, where decisions are adapted, as necessary, to address new issues, new information, and unforeseen events.

(1) Planning is innovative and practical.

(2) Planning is expeditious and efficient in achieving goals.

(f) Planning seeks to manage National Forest System resources in a combination that best serves the public interest without impairment of the productivity of the land consistent with the Multiple-Use Sustained-Yield Act of 1960.

The Framework for Planning

§ 219.3 Overview.

(a) The planning framework. Land and resource management planning is a flexible process for fitting solutions to the scope and scale of needed action. Planning, conducted according to the planning framework outlined in §§ 219.3-219.11, involves engaging the public (§§ 219.12-219.18) and applying the best available science (§§ 219.22-219.25) to contribute to sustainability (§§ 219.19-219.21) in the use and enjoyment of National Forest System lands.

(b) Levels of planning. Planning may be undertaken at the national, regional, national forest or grassland, and/or ranger district administrative levels depending on the scope and scale of issues.

(1) The Chief of the Forest Service is responsible for national planning. National planning includes the Forest Service national strategic plan required under the Government Performance and Results Act of 1993 (5 U.S.C. 306, 31 U.S.C. 1115-1119 and 9703-9704) that establishes national long-term goals, outcome measures, and strategies to be considered in managing the National Forest System and the Resources Planning Act Program (16 U.S.C. 1600).

(2) The Forest or Grassland Supervisor is the responsible official for a plan amendment or revision, except to the extent the Regional Forester or Chief decides to act as the responsible official.

(3) When appropriate, two or more Forest or Grassland Supervisors, one or more Regional Foresters, or the Chief of the Forest Service may undertake planning which may amend or revise one or more plans.

(4) The Chief of the Forest Service, Regional Foresters, National Forest and Grassland Supervisors, or District Rangers may authorize and implement site-specific actions.

(c) An interdisciplinary, collaborative approach to planning. An interdisciplinary, collaborative approach to planning may be achieved by engaging the skills and interests of appropriate combinations of Forest Service staff, consultants, contractors, other federal agencies, states, American Indian tribes, Alaska Natives, or local government personnel, or other interested or affected people consistent with applicable laws.

(d) Key elements. The planning cycle begins with the identification and consideration of issues and concludes with the monitoring and evaluation of results. Based upon the scope and scale of issues, planning includes one or more of the following key elements:

(1) Identification and consideration of issues (§ 219.4);

(2) Information development and interpretation (§ 219.5);

(3) Proposed actions (§ 219.6);

(4) Plan decisions (§ 219.7);

(5) Amendment (§ 219.8);

(6) Revision (§ 219.9);

(7) Site-specific decisions (§ 219.10); and

(8) Monitoring and evaluation for adaptive management (§ 219.11).

§ 219.4 Identification and consideration of issues.

(a) Origination of issues. Issues may originate from a variety of sources including, but are not limited to: inventories, assessments, analyses, monitoring and evaluation of projects; discussions among people and proposals by organizations or governments interested in or affected by National Forest System management; Presidential, Departmental, and Forest Service conservation leadership initiatives; cooperatively developed landscape goals (§ 219.12(b)); evaluation of sustainability (§ 219.9(b)(4)); enactment of new laws; policies such as the Forest Service national strategic plan; and applications for authorization for occupancy and use of National Forest System lands.

(b) Consideration of issues. The responsible official has the discretion to determine, at any time, whether and to what extent an issue is appropriate for consideration.

(1) In making this determination, the responsible official should consider:

(i) The scope, complexity, and geographic scale of potential actions that may address an issue;

(ii) Statutory requirements;

(iii) Organizational and community capabilities and available resources, including current and likely Forest Service budgets;

(iv) The scientific basis and merit of available data and analyses;

(v) The relationship of possible actions to the Forest Service national strategic plan, other existing plans, adopted conservation strategies, biological opinions, or other strategies applicable within all or a portion of the plan area; and

(vi) The opinions of interested or affected individuals, organizations, or other entities and the social and cultural values related to an issue.

(2) The responsible official should consider the extent to which addressing the issue relates to or provides:

(i) Opportunities to contribute to the achievement of cooperatively developed landscape goals;

(ii) Opportunities for the national forests and grasslands to contribute to the restoration or maintenance of ecological sustainability, including maintenance or restoration of watershed function, such as water flow regimes to benefit aquatic resources, groundwater recharge, municipal water supply, or other uses, and maintaining or restoring ecological conditions needed for ecosystem and species diversity;

(iii) Opportunities for the national forests or grasslands to contribute to social and economic sustainability;

(iv) Opportunities to recover threatened or endangered species and maintain or restore their habitat;

(v) The potential for negative environmental effects, including human health, economic and social effects, upon minority and low income communities;

(vi) Opportunities to maintain or restore ecological conditions that are similar to the biological and physical range of expected variability (§ 219.20(b)(1)); and

(vii) Opportunities to contribute to knowledge about and preservation of historic and cultural resources.

§ 219.5 Information development and interpretation.

If the responsible official determines an issue should receive consideration, the responsible official should review relevant information such as inventories, broad-scale assessments, local analyses, or monitoring results to determine if additional information is desirable and if it can be obtained at a reasonable cost and in a timely manner. The responsible official, at his or her discretion, may choose the methods and determine the scope of information development and interpretation for an issue under consideration. A broad-scale assessment or a local analysis may be developed or supplemented if appropriate to the scope and scale of an issue. Broad-scale assessments, local analyses, monitoring results, and other studies are not site-specific or plan decisions or proposals for agency action (§ 219.6(a)) subject to Forest Service NEPA procedures.

(a) Broad-scale assessments. Broad-scale assessments provide information regarding ecological, economic, or social issues that are broad in geographic scale, sometimes crossing Forest Service regional administrative boundaries. Ecological information and analyses that may be provided in an assessment are addressed in § 219.20(a). Social and economic information and analyses that may be provided in an assessment are addressed in § 219.21(a).

(1) Broad-scale assessment should provide the following as appropriate:

(i) Findings and conclusions that describe historic conditions, current status, and future trends of ecological, social, and/or economic conditions, their relationship to sustainability, and the principal factors contributing to those conditions and trends. The responsible official may use these findings and conclusions to identify other issues (§ 219.4), develop proposals for action (§ 219.6), or for other purposes.

(ii) Identification of needs for additional research to develop new information or address conflicting interpretations of existing information.

(2) Station Directors and Regional Foresters must have joint responsibility for Forest Service participation in broad-scale assessments. Each broad-scale assessment should be designed and conducted with the assistance of scientists, resource professionals, governmental entities, and other individuals and organizations knowledgeable of the assessment area.

(b) Local analyses. Local analyses provide ecological, social, or economic information as deemed appropriate by the responsible official. Local analyses may cover watersheds, ecological units, and social and economic units, and may tier to or provide information to update a broad-scale assessment. Local analyses should provide the following, as appropriate:

(1) Characterization of the area of analysis;

(2) Description of issues within the analysis area;

(3) Description of current conditions;

(4) Description of likely future conditions;

(5) Synthesis and interpretation of information; and

(6) Recommendations for proposals (§ 219.6(a)) or identification of other issues (§ 219.4).

§ 219.6 Proposed actions.

(a) Proposal. The responsible official may propose to amend or revise a plan, propose a site-specific action, or both.

(b) NEPA requirements. Unless otherwise provided by law, the responsible official must analyze the effects of the proposal and alternative(s) in conformance with Forest Service NEPA procedures. The responsible official may use issues identified and information reviewed pursuant to §§ 219.4-219.5 for scoping required in Forest Service NEPA procedures.

§ 219.7 Plan decisions.

Plan decisions guide or limit uses of National Forest System resources and provide the basis for future agency action. Plan decisions link the requirements of laws, regulations, Executive Orders, policies, and the Forest Service national strategic plan to specific national forests and grasslands. While plan decisions generally do not commit resources to a site-specific action, plan decisions provide a framework for authorizing site-specific actions that may commit resources. In making decisions, the responsible official should seek to manage National Forest System resources in a combination that best serves the public interest without impairment of the productivity of the land consistent with the Multiple-Use Sustained-Yield Act of 1960. Plan decisions may apply to all or part of a plan area. Paragraphs (a) through (e) of this section describe the decisions in a plan.

(a) Desired resource conditions. These plan decisions define the resource conditions sought within all or portions of the plan area. Desired resource conditions may include, but are not limited to, the desired watershed and ecological conditions and aquatic and terrestrial habitat characteristics.

(b) Objectives. These plan decisions are concise statements describing measurable results intended to contribute to sustainability (§ 219.19), including a desired level of uses, values, products, and services, assuming current or likely budgets and considering other spending levels as appropriate. Objectives include an estimate of the time and resources needed for their completion.

(c) Standards. These plan decisions are the requirements and limitations for land uses and management actions necessary for the achievement of desired conditions and objectives and compliance with applicable laws, regulations, Executive Orders, and policies. Standards include, but are not limited to:

(1) Limitations on even-aged timber harvest methods;

(2) Maximum size openings from timber harvest;

(3) Methods for achieving aesthetic objectives by blending the boundaries of vegetation treatments; and

(4) Other requirements to achieve multiple-use of the national forests and grasslands.

(d) Designation of suitable land uses. These plan decisions identify lands within the National Forest System that are or are not suitable for specific uses (§ 219.26), including, but not limited to: the transportation system; livestock grazing; special designations as described in § 219.27; and lands where timber production is an objective (§ 219.28).

(e) Monitoring strategy. A monitoring strategy is required by each plan as described in § 219.11(a).

§ 219.8 Amendment.

(a) Amending plans. A plan amendment may add, modify, or rescind one or more of the decisions of a plan (§ 219.7). An amendment decision must be based on the identification and consideration of issues (§ 219.4), applicable information (§ 219.5), and an analysis of the effects of the proposed amendment (§ 219.6). In developing an amendment, the responsible official must provide opportunities for collaboration consistent with § 219.12 through § 219.18.

(b) Environmental review of a proposed plan amendment. For each proposal for a plan amendment, the responsible official must complete appropriate environmental analyses and public involvement in accordance with Forest Service NEPA procedures. A proposed amendment that may create a significant environmental effect and thus require preparation of an environmental impact statement is considered to be a significant change in the plan. If a proposal for amendment requires the preparation of an environmental impact statement, the responsible official must give public notice and an opportunity to comment on the draft environmental impact statement for at least 90 calendar days.

§ 219.9 Revision.

(a) Application of the revision process. Revision of a plan is required by 16 U.S.C. 1604(f)(5). The revision process is a review of the overall management of a unit of the National Forest System and an opportunity to consider the likely results if plan decisions were to remain in effect.

(b) Initiating revision. To begin the revision process, the responsible official must:

(1) Provide opportunities for collaboration consistent with § 219.12 through § 219.18;

(2) Summarize those issues the responsible official determines to be appropriate for consideration (§ 219.4), any relevant inventories, new data, findings and conclusions from appropriate broad-scale assessments and local analyses, monitoring and evaluation results, new or revised Forest Service policies, relevant portions of the Forest Service national strategic plan, and changes in circumstances affecting the entire or significant portions of the plan area;

(3) Develop the information and complete the analyses described in § 219.20(a) and § 219.21(a);

(4) Evaluate the effectiveness of the current plan in contributing to sustainability (§§ 219.19-219.21) based on the information, analyses, and requirements described in § 219.20(a) and (b) and § 219.21(a) and (b), and provide for an independent scientific peer review (§ 219.22) of the evaluation;

(5) Identify new proposals for special areas, special designation, or for recommendation as wilderness (§ 219.27);

(6) Identify specific watersheds in need of protective or restoration measures;

(7) Identify lands classified as not suitable for timber production (§ 219.28);

(8) Identify and evaluate inventoried roadless areas and unroaded areas based on the information, analyses, and requirements in § 219.20(a) and § 219.21(a). During the plan revision process or at other times as deemed appropriate, the responsible official must determine which inventoried roadless areas and unroaded areas warrant additional protection and the level of protection to be afforded; and

(9) Develop an estimate of outcomes that would be anticipated, including uses, values, products, or services, for a 15-year period following initiation of the revision process, if the plan decisions in effect at the time the revision process began remain in effect.

(c) Public notice of revision process and review of information. After the responsible official has compiled the information required under paragraph (b) of this section, the responsible official must give public notice of the plan revision process and make the information compiled under paragraph (b) of this section available for public comment for at least 45 calendar days.

(d) Notice of Intent. Based upon the information compiled under paragraph (b) of this section and any comments received during the comment period required under paragraph (c) of this section, the responsible official must publish a Notice of Intent to prepare an environmental impact statement to add, modify, remove, or continue in effect the decisions embodied in a plan. The responsible official must give the public notice and an opportunity to comment on the draft environmental impact statement for at least 90 calendar days. Following public comment, the responsible official must oversee preparation of a final environmental impact statement in accordance with Forest Service NEPA procedures.

(e) Final decision on plan revision. The revision process is completed when the responsible official signs a record of decision for a plan revision.

§ 219.10 Site-specific decisions.

To the extent appropriate and practicable and subject to valid existing rights and appropriate statutes, the responsible official must provide opportunities for collaboration consistent with § 219.12 through § 219.18, follow the planning framework described in §§ 219.4-219.6 and comply with § 219.11 to make site-specific decisions. All site-specific decisions, including authorized uses of land, must be consistent with the applicable plan. If a proposed site-specific decision is not consistent with the applicable plan, the responsible official may modify the proposed decision to make it consistent with the plan, reject the proposal; or amend the plan to authorize the action.

§ 219.11 Monitoring and evaluation for adaptive management.

(a) Plan monitoring strategy. Each plan must contain a practicable, effective, and efficient monitoring strategy to evaluate sustainability in the plan area (§§ 219.19-219.21). The strategy must require monitoring of appropriate plan decisions and characteristics of sustainability.

(1) Monitoring and evaluation of ecological sustainability. The plan monitoring strategy for the monitoring and evaluation of ecological sustainability must require monitoring of:

(i) Ecosystem diversity. Monitoring must be used to evaluate the status and trend of selected physical and biological characteristics of ecosystem diversity (§ 219.20(a)(1)). The plan monitoring strategy must document the reasons for selection of characteristics to be monitored, monitoring objectives, methodology, and designate critical values that will prompt reviews of plan decisions.

(ii) Species diversity. Monitoring must be used to evaluate focal species and species-at-risk as follows:

(A) The status and trends of ecological conditions known or suspected to support focal species and selected species-at-risk must be monitored. The plan monitoring strategy must document the reasons for the selection of species-at-risk for which ecological conditions are to be monitored, including the degree of risk to the species, the factors that put the species at risk, and the strength of association between ecological conditions and population dynamics.

(B) In addition to monitoring of ecological conditions, the plan monitoring strategy may require population monitoring for some focal species and some species-at-risk. This monitoring may be accomplished by a variety of methods including population occurrence and presence/absence data, sampling population characteristics, using population indices to track relative population trends, or inferring population status from ecological conditions.

(C) A decision by the responsible official to monitor populations and the responsible official's choice of methodologies for monitoring selected focal species and selected species-at-risk may be based upon factors that include, but are not limited to, the degree of risk to the species, the degree to which a species' life history characteristics lend themselves to monitoring, the reasons that a species is included in the list of focal species or species-at-risk, and the strength of association between ecological conditions and population dynamics. Monitoring of population trend is often appropriate in those cases where risk to species viability is high and population characteristics cannot be reliably inferred from ecological conditions. The reasons for selection of species, monitoring objectives, and methodologies must be documented as part of the plan monitoring strategy. Critical values that will prompt reviews of plan decisions must be designated in the monitoring strategy.

(iii) Monitoring effectiveness. As a part of the plan monitoring strategy, the responsible official must evaluate the effectiveness of selected characteristics of ecosystem diversity and species diversity in providing reliable information regarding ecological sustainability.

(2) Monitoring and evaluation of social and economic sustainability. The plan monitoring strategy for the monitoring and evaluation of social and economic sustainability should provide for periodic review of national, regional, and local supply and demand for products, services, and values. Special consideration should be given to those uses, values, products, and services that the National Forest System is uniquely poised to provide. Monitoring should improve the understanding of the National Forest System contributions to social and economic sustainability. The plan monitoring strategy must require the responsible official to evaluate the effectiveness of information and analyses described in § 219.21(a) in providing reliable information regarding social and economic sustainability.

(b) Monitoring of site-specific actions. The decision document authorizing a site-specific action should describe any required monitoring and evaluation for the site-specific action. The responsible official must determine that there is a reasonable expectation that anticipated funding is adequate to complete any required monitoring and evaluation prior to authorizing a site-specific action.

(c) Monitoring methods. Unless required by the monitoring strategy, monitoring methods may be changed to reflect new information without plan amendment or revision.

(d) Use of monitoring information. Where monitoring and evaluation is required by the plan monitoring strategy, the responsible official must ensure that monitoring information is used to determine one or more of the following:

(1) If site-specific actions are completed as specified in applicable decision documents;

(2) If the aggregated outcomes and effects of completed and ongoing actions are achieving or contributing to the desired conditions;

(3) If key assumptions identified for monitoring in plan decisions remain valid; and

(4) If plan or site-specific decisions need to be modified.

(e) Coordination of monitoring activities. To the extent practicable, monitoring and evaluation should be conducted jointly with other federal agencies, state, local, and tribal governments, scientific and academic communities, and others. In addition, the responsible official must provide appropriate opportunities for the public to be involved and utilize scientists as described in § 219.23.

(f) Annual monitoring and evaluation report. The responsible official must prepare a monitoring and evaluation report for the plan area within 6 months following the end of each fiscal year. The report must be maintained with the plan documents (§ 219.30(d)(5)), and include the following:

(1) A list or reference to monitoring required by the plan; and

(2) A summary of the results of monitoring and evaluation performed during the preceding fiscal year and appropriate results from previous years. The summary must include:

(i) A description of the progress toward achievement of desired conditions within the plan area; and

(ii) A description of the plan area's contribution to the achievement of applicable outcomes of the Forest Service national strategic plan.

Collaborative Planning for Sustainability

§ 219.12 Collaboration and cooperatively developed landscape goals.

(a) Collaboration. To promote sustainability, the responsible official must actively engage the American public, interested organizations, private landowners, state, local, and Tribal governments, federal agencies, and others in the stewardship of National Forest System lands. To engage people in the stewardship of National Forest System lands, the responsible official may assume many roles, such as leader, organizer, facilitator, or participant. The responsible official must provide early and frequent opportunities for people to participate openly and meaningfully in planning taking into account the diverse roles, jurisdictions, and responsibilities of interested and affected organizations, groups, and individuals. The responsible official has the discretion to determine how to provide these opportunities in the planning process.

(b) Cooperatively developed landscape goals. (1) The responsible official and other Forest Service employees involved in planning must invite and encourage others to engage in the collaborative development of landscape goals. Using information from broad-scale assessments or other available information, and subject to applicable laws, the responsible official may initiate or join ongoing collaborative efforts to develop or propose landscape goals for areas that include National Forest System lands.

(2) During collaborative efforts, responsible officials and other Forest Service employees, must communicate and foster understanding of the nation's declaration of environmental policy as set forth in section 101(b) of the National Environmental Policy Act, as amended (42 U.S.C. 4321-4347), which states that it is the continuing responsibility of the Federal Government to use all practicable means, consistent with other essential considerations of national policy, to improve and coordinate federal plans, functions, programs, and resources to the end that the Nation may—

(i) Fulfill the responsibilities of each generation as trustee of the environment for succeeding generations;

(ii) Assure for all Americans safe, healthful, productive, and esthetically and culturally pleasing surroundings;

(iii) Attain the widest range of beneficial uses of the environment without degradation, risk to health or safety, or other undesirable and unintended consequences;

(iv) Preserve important historic, cultural, and natural aspects of our national heritage, and maintain, wherever possible, an environment which supports diversity, and variety of individual choice;

(v) Achieve a balance between population and resource use which will permit high standards of living and a wide sharing of life's amenities; and

(vi) Enhance the quality of renewable resources and approach the maximum attainable recycling of depletable resources.

(3) Cooperatively developed landscape goals, whether the result of efforts initiated by the Forest Service or others, must be deemed an issue for the purposes under § 219.4.

§ 219.13 Coordination among federal agencies.

The responsible official must provide early and frequent coordination with appropriate federal agencies and may provide opportunities:

(a) For interested or affected federal agencies to participate in the identification of issues and formulation of proposed actions;

(b) For the streamlined coordination of federal agency policies, resource management plans, or programs; and

(c) The development, where appropriate and practicable, of joint resource management plans.

§ 219.14 Involvement of state and local governments.

The responsible official must provide early and frequent opportunities for state and local governments to:

(a) Participate in the planning process, including the identification of issues; and

(b) Contribute to the streamlined coordination of resource management plans or programs.

§ 219.15 Interaction with American Indian tribes and Alaska Natives.

(a) The Forest Service shares in the federal government's overall trust responsibility for federally recognized American Indian tribes and Alaska Natives.

(b) During planning, the responsible official must consider the government-to-government relationship between American Indian or Alaska Native tribal governments and the federal government.

(c) The responsible official must consult with and invite American Indian tribes and Alaska Natives to participate in the planning process to assist in:

(1) The early identification of treaty rights, treaty-protected resources, and American Indian tribe trust resources;

(2) The consideration of tribal data and resource knowledge provided by tribal representatives; and

(3) The consideration of tribal concerns and suggestions during decisionmaking.

§ 219.16 Relationships with interested individuals and organizations.

The responsible official must:

(a) Make planning information available to the extent allowed by law;

(b) Conduct planning processes that are fair, meaningful, and open to persons with diverse opinions;

(c) Provide early and frequent opportunities for participation in the identification of issues;

(d) Encourage interested individuals and organizations to work collaboratively with one another to improve understanding and develop cooperative landscape and other goals;

(e) Consult with individuals and organizations who can provide information about current and historic public uses within an assessment or plan area, about the location of unique and sensitive resources and values and cultural practices related to issues in the plan area; and

(f) Consult with scientific experts and other knowledgeable persons, as appropriate, during consideration of collaboratively developed landscape goals and other activities.

§ 219.17 Interaction with private landowners.

The responsible official must seek to collaborate with those who have control or authority over lands adjacent to or within the external boundaries of national forests or grasslands to identify:

(a) Local knowledge;

(b) Potential actions and partnership activities;

(c) Potential conditions and activities on the adjacent lands that may affect management of National Forest System lands, or vice versa; and

(d) Issues (§ 219.4).

§ 219.18 Role of advisory committees.

(a) Advisory committees. Advisory committees can provide an immediate, representative, and predictable structure within which public dialogue can occur and the Forest Service can develop relationships with diverse communities of interests. The responsible official may seek the assistance or advice from a committee, consistent with the requirements of the Federal Advisory Committee Act (5 U.S.C. app.) in determining whether there is a reasonable basis to propose an action to address an issue. Each Forest or Grassland Supervisor must have access to an advisory committee with knowledge of local conditions and issues, although an advisory committee is not required for each national forest or grassland. Responsible officials may request establishment of advisory committees and recommend members to the Secretary of Agriculture. Advisory committees used by other agencies may be utilized through proper agreements.

(b) Participation in other types of community-based groups. When appropriate, the responsible official should consider participating in community-based groups organized for a variety of public purposes, particularly those groups organized to develop landscape goals (§ 219.12(b)).

Ecological, Social, and Economic Sustainability

§ 219.19 Ecological, social, and economic sustainability.

Sustainability, composed of interdependent ecological, social, and economic elements, embodies the Multiple-Use Sustained-Yield Act of 1960 (16 U.S.C. 528 et seq.) without impairment to the productivity of the land and is the overall goal of management of the National Forest System. The first priority for stewardship of the national forests and grasslands is to maintain or restore ecological sustainability to provide a sustainable flow of uses, values, products, and services from these lands.

§ 219.20 Ecological sustainability.

To achieve ecological sustainability, the responsible official must ensure that plans provide for maintenance or restoration of ecosystems at appropriate spatial and temporal scales determined by the responsible official.

(a) Ecological information and analyses. Ecosystem diversity and species diversity are components of ecological sustainability. The planning process must include the development and analysis of information regarding these components at a variety of spatial and temporal scales. These scales include geographic areas such as bioregions and watersheds, scales of biological organization such as communities and species, and scales of time ranging from months to centuries. Information and analyses regarding the components of ecological sustainability may be identified, obtained, or developed through a variety of methods, including broad-scale assessments and local analyses (§ 219.5), and monitoring results (§ 219.11). For plan revisions, and to the extent the responsible official considers appropriate for plan amendments or site-specific decisions, the responsible official must develop or supplement the following information and analyses related to ecosystem and species diversity:

(1) Characteristics of ecosystem and species diversity. Characteristics of ecosystem and species diversity must be identified for assessing and monitoring ecological sustainability. In general, these identified characteristics should be consistent at various scales of analyses.

(i) Ecosystem diversity. Characteristics of ecosystem diversity include, but are not limited to:

(A) Major vegetation types. The composition, distribution, and abundance of the major vegetation types and successional stages of forest and grassland systems; the prevalence of invasive or noxious plant or animal species.

(B) Water resources. The diversity, abundance, and distribution of aquatic and riparian systems including streams, stream banks, coastal waters, estuaries, groundwater, lakes, wetlands, shorelines, riparian areas, and floodplains; stream channel morphology and condition, and flow regimes.

(C) Soil resources. Soil productivity; physical, chemical and biological properties; soil loss; and compaction.

(D) Air resources. Air quality, visibility, and other air resource values.

(E) Focal species. Focal species that provide insights to the larger ecological systems with which they are associated.

(ii) Species diversity. Characteristics of species diversity include, but are not limited to, the number, distribution, and geographic ranges of plant and animal species, including focal species and species-at-risk that serve as surrogate measures of species diversity. Species-at-risk and focal species must be identified for the plan area.

(2) Evaluation of ecological sustainability. Evaluations of ecological sustainability must be conducted at the scope and scale determined by the responsible official to be appropriate to the planning decision. These evaluations must describe the current status of ecosystem diversity and species diversity, risks to ecological sustainability, cumulative effects of human and natural disturbances, and the contribution of National Forest System lands to the ecological sustainability of all lands within the area of analysis.

(i) Evaluation of ecosystem diversity. Evaluations of ecosystem diversity must include, as appropriate, the following:

(A) Information about focal species that provide insights to the integrity of the larger ecological system to which they belong.

(B) A description of the biological and physical properties of the ecosystem using the characteristics identified in paragraph (a)(1)(i) of this section.

(C) A description of the principal ecological processes occurring at the spatial and temporal scales that influence the characteristic structure and composition of ecosystems in the assessment or analysis area. These descriptions must include the distribution, intensity, frequency, and magnitude of natural disturbance regimes of the current climatic period, and should include other ecological processes important to ecological sustainability, such as nutrient cycling, migration, dispersal, food web dynamics, water flows, and the identification of the risks to maintaining these processes. These descriptions may also include an evaluation of the feasibility of maintaining natural ecological processes as a tool to contribute to ecological sustainability.

(D) A description of the effects of human activities on ecosystem diversity. These descriptions must distinguish activities that had an integral role in the landscape's ecosystem diversity for a long period of time from activities that are of a type, size, or rate that were not typical of disturbances under which native plant and animal species and ecosystems developed.

(E) An estimation of the range of variability of the characteristics of ecosystem diversity, identified in paragraph (a)(l)(i) of this section, that would be expected under the natural disturbance regimes of the current climatic period. The current values of these characteristics should be compared to the expected range of variability to develop insights about the current status of ecosystem diversity.

(F) An evaluation of the effects of air quality on ecological systems including water.

(G) An estimation of current and foreseeable future Forest Service consumptive and non-consumptive water uses and the quantity and quality of water needed to support those uses and contribute to ecological sustainability.

(H) An identification of reference landscapes to provide for evaluation of the effects of actions.

(ii) Evaluations of species diversity. Evaluations of species diversity must include, as appropriate, assessments of the risks to species viability and the identification of ecological conditions needed to maintain species viability over time based on the following:

(A) The viability of each species listed under the Endangered Species Act as threatened, endangered, candidate, and proposed species must be assessed. Individual species assessments must be used for these species.

(B) For all other species, including other species-at-risk and those species for which there is little information, a variety of approaches may be used, including individual species assessments and assessments of focal species or other indicators used as surrogates in the evaluation of ecological conditions needed to maintain species viability.

(C) Except as provided in paragraph (a)(2)(ii)(A) of this section, for species groups that contain many species, assessments of functional, taxonomic, or habitat groups rather than individual species may be appropriate.

(D) In analyzing viability, the extent of information available about species, their habitats, the dynamic nature of ecosystems and the ecological conditions needed to support them must be identified. Species assessments may rely on general conservation principles and expert opinion. When detailed information on species habitat relationships, demographics, genetics, and risk factors is available, that information should be considered.

(b) Plan decisions. When making plan decisions that will affect ecological sustainability, the responsible official must use the information developed under paragraph (a) of this section. The following requirements must apply at the spatial and temporal scales that the responsible official determines to be appropriate to the plan decision:

(1) Ecosystem diversity. Plan decisions affecting ecosystem diversity must provide for maintenance or restoration of the characteristics of ecosystem composition and structure within the range of variability that would be expected to occur under natural disturbance regimes of the current climatic period in accordance with paragraphs (b)(1)(i) through (v) of this section.

(i) Except as provided in paragraph (b)(1)(iv) of this section, in situations where ecosystem composition and structure are currently within the expected range of variability, plan decisions must maintain the composition and structure within the range.

(ii) Except as provided in paragraph (b)(1)(v) of this section, where current ecosystem composition and structure are outside the expected range of variability, plan decisions must provide for measurable progress toward ecological conditions within the expected range of variability.

(iii) Where the range of variability cannot be practicably defined, plan decisions must provide for measurable progress toward maintaining or restoring ecosystem diversity. The responsible official must use independently peer-reviewed scientific methods other than the expected range of variability to maintain or restore ecosystem diversity. The scientific basis for such alternative methods must be documented in accordance with (§§ 219.22-219.25).

(iv) Where the responsible official determines that ecological conditions are within the expected range of variability and that maintaining ecosystem composition and structure within that range is ecologically, socially or economically unacceptable, plan decisions may provide for ecosystem composition and structure outside the expected range of variability. In such circumstances, the responsible official must use independently peer-reviewed scientific methods other than the expected range of variability to provide for the maintenance or restoration of ecosystem diversity. The scientific basis for such alternative methods must be documented in accordance with (§§ 219.22-219.25).

(v) Where the responsible official determines that ecological conditions are outside the expected range of variability and that it is not practicable to make measurable progress toward conditions within the expected range of variability, or that restoration would result in conditions that are ecologically, socially or economically unacceptable, plan decisions may provide for ecosystem composition and structure outside the expected range of variability. In such circumstances, the responsible official must use independently peer-reviewed scientific methods other than the expected range of variability to provide for the maintenance or restoration of ecosystem diversity. The scientific basis for such alternative methods must be documented (§§ 219.22-219.25).

(2) Species diversity. (i) Plan decisions affecting species diversity must provide for ecological conditions that the responsible official determines provide a high likelihood that those conditions are capable of supporting over time the viability of native and desired non-native species well distributed throughout their ranges within the plan area, except as provided in paragraphs (b)(2)(ii)-(iv) of this section. Methods described in paragraph (a)(2)(ii) of this section may be used to make the determinations of ecological conditions needed to maintain viability. A species is well distributed when individuals can interact with each other in the portion of the species range that occurs within the plan area. When a plan area occupies the entire range of a species, these decisions must provide for ecological conditions capable of supporting viability of the species and its component populations throughout that range. When a plan area encompasses one or more naturally disjunct and self-sustaining populations of a species, these decisions must provide ecological conditions capable of supporting over time viability of each population. When a plan area encompasses only a part of a population, these decisions must provide ecological conditions capable of supporting viability of that population well distributed throughout its range within the plan area.

(ii) When conditions outside the authority of the agency prevent the agency from providing ecological conditions that provide a high likelihood of supporting over time the viability of native and desired non-native species well distributed throughout their ranges within the plan area, plan decisions must provide for ecological conditions well distributed throughout the species range within the plan area to contribute to viability of that species.

(iii) Where species are inherently rare or not naturally well distributed in the plan area, plan decisions should not contribute to the extirpation of the species from the plan area and must provide for ecological conditions to maintain these species considering their natural distribution and abundance.

(iv) Where environmental conditions needed to support a species have been so degraded that it is technically infeasible to restore ecological conditions that would provide a high likelihood of supporting viability, plan decisions must provide for ecological conditions to contribute to supporting over time viability to the degree practicable.

(3) Federally listed threatened and endangered species. (i) Plan decisions must provide for implementing actions in conservation agreements with the U.S. Fish and Wildlife Service or the National Marine Fisheries Service that provide a basis for not needing to list a species. In some situations, conditions or events beyond the control or authority of the agency may limit the Forest Service's ability to prevent the need for federal listing. Plan decisions should reflect the unique opportunities that National Forest System lands provide to contribute to recovery of listed species.

(ii) Plan decisions involving species listed under the Endangered Species Act must include, at the scale determined by the responsible official to be appropriate to the plan decision, reasonable and prudent measures and associated terms and conditions contained in final biological opinions issued under 50 CFR part 402. The plan decision documents must provide a rationale for adoption or rejection of discretionary conservation recommendations contained in final biological opinions.

§ 219.21 Social and economic sustainability.

To contribute to economic and social sustainability, the responsible official involves interested and affected people in planning for National Forest System lands (§§ 219.12-219.18), provides for the development and consideration of relevant social and economic information and analyses, and a range of uses, values, products, and services.

(a) Social and economic information and analyses. To understand the contribution national forests and grasslands make to the economic and social sustainability of local communities, regions, and the nation, the planning process must include the analysis of economic and social information at variable scales, including national, regional, and local scales. Social analyses address human life-styles, cultures, attitudes, beliefs, values, demographics, and land-use patterns, and the capacity of human communities to adapt to changing conditions. Economic analyses address economic trends, the effect of national forest and grassland management on the well-being of communities and regions, and the net benefit of uses, values, products, or services provided by national forests and grasslands. Social and economic analyses should recognize that the uses, values, products, and services from national forests and grasslands change with time and the capacity of communities to accommodate shifts in land uses change. Social and economic analyses may rely on quantitative, qualitative, and participatory methods for gathering and analyzing data. Social and economic information may be developed and analyzed through broad-scale assessments and local analyses (§ 219.5), monitoring results (§ 219.11), or other means. For plan revisions, and to the extent the responsible official considers to be appropriate for plan amendments or site-specific decisions, the responsible official must develop or supplement the information and analyses related to the following:

(1) Describe and analyze, as appropriate, the following:

(i) Demographic trends; life-style preferences; public values; land-use patterns; related conservation and land use policies at the state and local level; cultural and American Indian tribe and Alaska Native land settlement patterns; social and cultural history; social and cultural opportunities provided by national forest system lands; the organization and leadership of local communities; community assistance needs; community health; and other appropriate social and cultural information;

(ii) Employment, income, and other economic trends; the range and estimated long-term value of market and non-market goods, uses, services, and amenities that can be provided by national forest system lands consistent with the requirements of ecological sustainability, the estimated cost of providing them, and the estimated effect of providing them on regional and community well-being, employment, and wages; and other appropriate economic information. Special attention should be paid to the uses, values, products, or services that the Forest Service is uniquely poised to provide;

(iii) Opportunities to provide social and economic benefits to communities through natural resource restoration strategies;

(iv) Other social or economic information, if appropriate, to address issues being considered by the responsible official (§ 219.4).

(2) Analyze community or region risk and vulnerability. Risk and vulnerability analyses assess the vulnerability of communities from changes in ecological systems as a result of natural succession or potential management actions. Risk may be considered for geographic, relevant occupational, or other related communities of interest. Resiliency and community capacity should be considered in a risk and vulnerability analysis. Risk and vulnerability analysis may also address potential consequences to communities and regions from land management changes in terms of capital availability, employment opportunities, wage levels, local tax bases, federal revenue sharing, the ability to support public infrastructure and social services, human health and safety, and other factors as necessary and appropriate.

(b) Plan decisions. When making plan decisions that will affect social or economic sustainability, the responsible official must use the information analyses developed in paragraph (a) of this section. Plan decisions contribute to social and economic sustainability by providing for a range of uses, values, products, and services, consistent with ecological sustainability.

The Contribution of Science

§ 219.22 The overall role of science in planning.

(a) The responsible official must ensure that the best available science is considered in planning. The responsible official, when appropriate, should acknowledge incomplete or unavailable information, scientific uncertainty, and the variability inherent in complex systems.

(b) When appropriate and practicable and consistent with applicable law, the responsible official should provide for independent, scientific peer reviews of the use of science in planning. Independent, scientific peer reviews are conducted using generally accepted scientific practices that do not allow individuals to participate in the peer reviews of documents they authored or co-authored.

§ 219.23 The role of science in assessments, analyses, and monitoring.

(a) Broad-scale assessments. If the Forest Service is leading a broad-scale assessment, the assessment must be led by a Chief Scientist selected by the Deputy Chief of Research and Development. When appropriate and practicable, a responsible official may provide for independent, scientific peer review of the findings and conclusions originating from a broad-scale assessment. Independent, scientific peer review may be provided by scientists from the Forest Service, other federal, state, or tribal agencies, or other institutions.

(b) Local analyses. Though not required, a responsible official may include scientists in the development or technical reviews of local analyses and field reviews of the design and selection of subsequent site-specific actions.

(c) Monitoring. (1) The responsible official must include scientists in the design and evaluation of monitoring strategies. Additionally, the responsible official must provide for an independent, scientific peer review of plan monitoring on at least a biennial basis to validate adherence to appropriate protocols and methods in collecting and processing of monitoring samples and to validate that data are summarized and interpreted properly.

(2) When appropriate and practicable, the responsible official should include scientists in the review of monitoring data and analytical results to determine trends relative to ecological, economic, or social sustainability.

§ 219.24 Science consistency evaluations.

(a) The responsible official must ensure that plan amendments and revisions are consistent with the best available science. The responsible official may use a science advisory board (§ 219.25) to assist in determining whether information gathered, evaluations conducted, or analyses and conclusions reached in the planning process are consistent with the best available science. If the responsible official decides to use a science advisory board, the board and the responsible official are to jointly establish criteria for the science advisory board and the responsible official to use in reviewing the consistency of proposed plan amendments and revisions with the best available science.

(b) The science advisory board is responsible for organizing and conducting a scientific consistency evaluation to determine the following:

(1) If relevant scientific (ecological, social, or economic) information has been considered by the responsible official in a manner consistent with current scientific understanding at the appropriate scales;

(2) If uncertainty of knowledge has been recognized, acknowledged, and adequately documented; and

(3) If the level of risk in achievement of sustainability is acknowledged and adequately documented by the responsible official.

(c) If substantial disagreement among members of the science advisory board or between the science advisory board and the responsible official is identified during a science consistency evaluation, a summary of such disagreement should be noted in the appropriate environmental documentation within Forest Service NEPA procedures.

§ 219.25 Science advisory boards.

(a) National science advisory board. The Forest Service Deputy Chief for Research and Development must establish, convene, and chair a science advisory board to provide scientific advice on issues identified by the Chief of the Forest Service. Board membership must represent a broad range of scientific disciplines including, but not limited to, the physical, biological, economic, and social sciences.

(b) Regional science advisory boards. Based upon needs identified by Regional Forester(s) or Research Station Director(s), the Forest Service Research Station Director(s), should establish and convene science advisory boards consistent with the Federal Advisory Committee Act (5 U.S.C. app.) to provide advice to one or more Regional Foresters regarding the application of science in planning and decisionmaking for National Forest System lands. At least one regional science advisory board must be available for each national forest and grassland. The Station Director(s) must chair the board or appoint a chair of such boards. The geographical boundaries of the boards need not align with National Forest System Regional boundaries. Board membership must represent a broad range of science disciplines including, but not limited to, the physical, biological, economic, and social sciences. Regional science advisory board tasks may include, but are not limited, to:

(1) Evaluating significance and relevance of new information related to current plan decisions, including the results of monitoring and evaluation; and

(2) Evaluating science consistency as described in § 219.24.

(c) Work groups. With the concurrence of the appropriate chair and subject to available funding, the national or regional science advisory boards may convene work groups to study issues and provide recommendations.

Special Considerations

§ 219.26 Identifying and designating suitable uses.

National forests and grasslands are suitable for a wide variety of public uses, such as outdoor recreation, livestock grazing, timber harvest, off-road vehicle travel, or other uses except where lands are determined to be unsuited for a particular use. Lands are not suited for a particular use if that use: is prohibited by law, regulation, or Executive Order; is incompatible with the mission or policies of the National Forest System; or would result in substantial and permanent impairment of the productivity of the land. Through a plan amendment or revision, the responsible official may determine whether specific uses may begin, continue, or terminate within the plan area. Planning documents should describe or display lands suitable for various uses in areas large enough to provide sufficient latitude for periodic adjustments in use to conform to changing needs and conditions.

§ 219.27 Special designations.

The Forest Service may recommend special designations to higher authorities or, to the extent permitted by law, adopt special designations through plan amendment or revision. Special designations are areas within the National Forest System that are identified for their unique or special characteristics and include the following:

(a) Congressionally designated areas. Congressionally designated areas may include, but are not limited to, wilderness, wild and scenic rivers, national trails, scenic areas, recreation areas, and monuments. These nationally significant areas must be managed as required by Congress and may have specific requirements for their management.

(b) Wilderness area reviews. Unless federal statute directs otherwise, all undeveloped areas that are of sufficient size as to make practicable their preservation and use in an unimpaired condition must be evaluated for recommended wilderness designation during the plan revision process. These areas may be evaluated at other times as determined by the responsible official.

(c) Administratively designated areas. Administratively designated areas may include, but are not limited to, critical watersheds, research natural areas, national monuments, geological areas, inventoried roadless areas, unroaded areas, motorized and non-motorized recreation areas, botanical areas, and scenic byways.

§ 219.28 Determination of land suitable for timber harvest.

(a) Lands where timber may not be harvested. The plan must identify lands within the plan area where timber may not be harvested. These lands include:

(1) Lands where timber harvest would violate statute, Executive Order, or regulation and those lands that have been withdrawn from timber harvest by the Secretary of Agriculture or the Chief of the Forest Service;

(2) Lands where technology is not available for conducting timber harvesting without causing irreversible damage to soil, slope, or other watershed conditions or produce substantial and permanent impairment of the productivity of the land; and

(3) Lands where there are no assurances that such lands can be adequately restocked within 5 years after harvest;

(b) Lands where timber may be harvested for timber production. The responsible official may establish timber production as a multiple-use plan objective for lands not identified in paragraph (a) of this section if the costs of timber production are justified by the ecological, social, or economic benefits considering physical, economic, and other pertinent factors to the extent feasible. Lands where timber production is not established as a plan objective are deemed not suited for timber production. These lands must be reviewed by the responsible official at least once every 10 years, or as prescribed by law, to determine their suitability for timber production considering physical, economic, and other pertinent factors to the extent feasible. Based on this review, timber production may be established as a plan objective for these lands through amendment or revision of the plan.

(c) Lands where timber may be harvested for other multiple-use values. Except for lands identified in paragraph (a) of this section, timber may be harvested from land where timber production is not established as a plan objective if, based on a site-specific analysis, the responsible official determines and documents that such timber harvest would contribute to achievement of desired conditions and ecological sustainability, and is necessary to protect multiple-use values other than timber production.

§ 219.29 Limitation on timber harvest.

(a) Estimate of the limitation of timber harvest. The responsible official must estimate the amount of timber that can be sold annually in perpetuity on a sustained-yield basis from National Forest System lands other than those identified in § 219.28(a). This estimate must be based on the yield of timber that can be removed consistent with achievement of objectives or desired conditions in the applicable plan. In those cases where a national forest has less than 200,000 acres of forested land identified in lands other than those in § 219.28(a), two or more national forests may be combined for the purpose of estimating amount of timber that can be sold annually on a sustained-yield basis. Estimations for lands where timber production is established as a plan objective § 219.28(b) and estimations for lands identified in § 219.28(c) cannot be combined.

(b) Limitation of timber harvest. The responsible official must limit the sale of timber from the lands where timber production is an objective and from other lands to a quantity equal to or less than that estimated in paragraph (a) of this section.

(c) Exceptions to limitations of timber harvest. For purposes of limiting the sale of timber, the responsible official may sell timber from areas that are substantially affected by fire, wind, or other events, or for which there is an imminent threat from insects or disease, and may either substitute such timber for timber that would otherwise be sold or, if not feasible, sell such timber over and above the plan limit established in paragraph (b) of this section. If departure from the quantity of timber removal established in paragraph (b) of this section is necessary to meet overall multiple-use objectives, the requirements in 16 U.S.C. 1611 must be followed.

Planning Documentation

§ 219.30 Plan documentation.

A plan is a repository of documents that integrates and displays the desired conditions, objectives, standards, and other plan decisions that apply to a unit of the National Forest System. The plan also contains maps, monitoring and evaluation results, the annual monitoring and evaluation report, and other information relevant to how the plan area is to be managed. Planning documents should be clear, understandable, and readily available for public review. Plan documents should be updated through amendments, revision, and routine maintenance (§ 219.31). Plan documents include, at a minimum, the following:

(a) A summary of the plan. The summary is a concise description of the plan that includes a summary of the plan decisions and a description of the plan area and appropriate planning units. The summary should include a brief description of the ecological, social, and economic environments within the plan area and the overall strategy for maintenance or restoration of sustainability, including desired conditions and objectives for their achievement. The summary also includes appropriate maps, a description of the transportation system, utility corridors, land ownership patterns and proposed land ownership adjustments, charts, figures, photographs, and other information to enhance understanding.

(b) Display of public uses. The plan documents must identify the suitability of the plan area for various uses (§ 219.26) such as recreation uses, livestock grazing, timber harvest, and mineral developments. The plan documents must identify land where timber may not be harvested and where timber production is an objective (§ 219.28). The plan documents also must describe the limitations on the removal of timber (§ 219.29) and the standards for timber harvest and regeneration methods (§ 219.7(c)).

(c) Plan decisions. The plan documents must display or describe the plan decisions (§ 219.7).

(d) Display of actions and outcomes. The plan documents must also contain:

(1) An annually updated list or other display of proposed, authorized, and completed actions to achieve desired conditions and objectives within the plan area;

(2) A 2-year schedule, updated annually, of anticipated outcomes which may include anticipated uses, values, products, or services based on an estimate of Forest Service budget and capacity to perform the identified program of work. The estimate of Forest Service budget and capacity should be based on recent funding levels;

(3) A 2-year summary, updated annually, of the actual outcomes which may include specific uses, values, products, or services provided as a result of completed site-specific actions;

(4) A projected range of outcomes which may include anticipated uses, values, products, and services for the next 15 years, assuming current or likely budgets while considering other spending levels as appropriate. These projections are estimates and as such often contain a high degree of uncertainty; they are intended to describe expected progress in achieving desired conditions and objectives within the plan area. The projections are to be updated during revision of each plan;

(5) A description of the monitoring strategy to occur in the plan area and the annual monitoring and evaluation report; and

(6) A summary of the projected program of work, updated annually, including costs for inventories, assessments, proposed and authorized actions, and monitoring. The projected program of work must be based on reasonably anticipated funding levels. Reasonably anticipated funding levels should be based on recent funding levels. The plan documents must also include a description of the total current-year budget, funded actions, projections for future budgets over the next 2 years; and a display of the budget trends over at least the past 5 years.

(e) Other components. A plan must contain or reference a list of materials, Forest Service policies, and decisions used in forming plan decisions. The information should include, but is not limited to, lists of previous decision and environmental documents, assessments, conservation agreements and strategies, biological opinions, inventories, administrative studies, monitoring results, and research relevant to adoption of plan decisions.

§ 219.31 Maintenance of the plan and planning records.

(a) Each National Forest or Grassland Supervisor must maintain a complete set of the planning documents required under § 219.30 that constitute the plan for the unit. The set of documents must be readily available to the public using appropriate and relevant technology.

(b) The following administrative corrections and additions may be made at any time, are not plan amendments or revisions, and do not require public notice or the preparation of an environmental document under Forest Service NEPA procedures:

(1) Corrections and updates of data and maps;

(2) Updates to activity lists and schedules as required by § 219.30(d)(1)-(6);

(3) Corrections of typographical errors or other non-substantive changes; and

(4) Changes in monitoring methods other than those required in a monitoring strategy (§ 219.11(c)).

Objections and Appeals

§ 219.32 Objections to amendments or revisions.

(a) Any person may object to a proposed amendment or revision prepared under the provisions of this subpart, except for an amendment or revision proposed by the Chief. The objection must be filed within 30 calendar days from the date that the Environmental Protection Agency publishes the notice of availability of a final environmental impact statement regarding a proposed amendment or revision in the Federal Register, or within 30 calendar days of the publication of a public notice of a proposed amendment not requiring preparation of an environmental impact statement. Within ten days after the close of the objection period, the Responsible Official shall publish notice of all objections in the local newspaper of record. An objection must be filed with the reviewing officer identified in the notice and contain:

(1) The name, mailing address, and telephone number of the person filing the objection;

(2) A specific statement of the basis for each objection; and

(3) A description of the objector's participation in the planning process for the proposed amendment or revision, including a copy of any relevant documents submitted during the planning process.

(b) Objectors may request meetings with the reviewing officer and the responsible official to discuss the objection, to narrow the issues, agree on facts, and explore opportunities for resolution. The reviewing officer must allow other interested persons to participate in such meetings. An interested person must file a request to participate in an objection within ten days after publication of the notice of objection as described in paragraph (a) of this section.

(c) The reviewing officer must respond, in writing, to an objection within a reasonable period of time and may respond to all objections in one response. The reviewing officer's response regarding an objection is the final decision of the Department of Agriculture.

(d) The responsible official may not approve a proposed amendment or revision until the reviewing officer has responded to all objections. A decision by the responsible official approving an amendment or revision must be consistent with the reviewing officer's response to objections to the proposed amendment or revision.

(e) Where the Forest Service is a participant in a multi-agency decision subject to objection under this subpart, the responsible official and reviewing officer may waive the objection procedures of this subpart to adopt the administrative review procedure of another participating federal agency, if the responsible official and the responsible official of the other agencies agree to provide a joint response to those who have filed for administrative review of the multi-agency decision.

(f) The information collection requirements of this section have been approved by the Office of Management and Budget and assigned control number 0596-0158.

§ 219.33 Appeals of site-specific decisions.

If a site-specific decision is proposed in conjunction with a plan amendment or revision, a person may object to the proposed plan amendment or revision as described in (§ 219.32). If a decision is made to authorize a site-specific action, a person may request administrative review of that decision as described in 36 CFR part 215.

Applicability and Transition

§ 219.34 Applicability.

The provisions of this subpart are applicable to all units of the National Forest System as defined by 16 U.S.C. 1609.

§ 219.35 Transition.

(a) The transition period begins on November 9, 2000 and ends upon the completion of the revision process (§ 219.9) for each unit of the National Forest System. During the transition period, the responsible official must consider the best available science in implementing and, if appropriate, amending the current plan.

(b) If, as of November 9, 2000, a plan revision or amendment has been initiated under the 1982 planning regulations in effect prior to November 9, 2000 (See 36 CFR part 219, revised as of July 1, 2000.) and if a notice of availability of a draft environmental impact statement or an environmental assessment is published by May 9, 2001 in the Federal Register, the responsible official may complete the amendment or revision process under the 1982 regulations or adjust the process to conform to the provisions of this subpart.

(c) If a review of lands not suited for timber production is required before the completion of the revision process, the review must take place as described by the provisions of § 219.28, except as provided in paragraph (b) of this section.

(d) Site-specific decisions made by the responsible official 3 years from November 9, 2000 and afterward must be in conformance with the provisions of this subpart.

(e) Within 1 year of November 9, 2000, the Regional Forester must withdraw the regional guide. When a regional guide is withdrawn, the Regional Forester must identify the decisions in the regional guide that are to be transferred to a regional supplement of the Forest Service directive system (36 CFR 200.4) or to one or more plans and give notice in the Federal Register of these actions. The transfer of direction from a regional guide to a regional supplement of the Forest Service directive system or to one or more plans does not constitute an amendment, revision, or site-specific action subject to Forest Service NEPA procedures.

(f) Within 3 years after completion of the revision process for a unit, the responsible official must complete the first monitoring and evaluation report as required in § 219.11(f).

(g) Within 1 year of November 9, 2000, the Chief of the Forest Service must establish a schedule for completion of the revision process for each unit of the National Forest System.

Definitions

§ 219.36 Definitions.

Definitions of the special terms used in this subpart are set out in alphabetical order in this section as follows:

Adaptive management: An approach to natural resource management wherein the effects of policies, plans, and actions are monitored for the purpose of learning and adjusting future management actions. Successive iteration of the adaptive process is essential in contributing to sustainability.

Assessment or analysis area: The geographic area included within the scope of a broad-scale assessment or local analysis.

Candidate species: Species identified by the United States Fish and Wildlife Service (USFWS) or the National Marine Fisheries Service (NMFS), which are considered to be candidates for listing under the Endangered Species Act as published in the Federal Register.

Conservation agreement: A formal agreement between the Forest Service and the USFWS and/or NMFS identifying management actions necessary to prevent the need to list species under the Endangered Species Act.

Current climatic period: The period of time since establishment of the modern major vegetation types, which typically encompass the late Holocene Epoch including the present, including likely climatic conditions within the planning period. The climatic period is typically centuries to millennia in length, a period of time that is long enough to encompass the variability that species and ecosystems have experienced.

Desired condition: A statement describing a common vision for a specific area of land or type of land within the plan area. Statements of desired conditions should include the estimated time required for their achievement.

Desired non-native species: Those species of plants or animals which are not indigenous to an area but valued for their contribution to species diversity or their high social, cultural or economic value.

Disturbance regime: Actions, functions, or events that influence or maintain the structure, composition, or function of terrestrial or aquatic ecosystems. Natural disturbances include, among others, drought, floods, wind, fires, insects, and pathogens. Human-caused disturbances include actions such as recreational use, livestock grazing, mining, road construction, timber harvest, and the introduction of exotic species.

Diversity of plant and animal communities: The distribution and relative abundance of plant and animal communities and their component species occurring within an area.

Ecological conditions: Components of the biological and physical environment that can affect the diversity of plant and animal communities, including species viability, and the productive capacity of ecological systems. These could include the abundance and distribution of aquatic and terrestrial habitats, roads and other structural developments, human uses, and invasive and exotic species.

Ecological sustainability: The maintenance or restoration of the composition, structure, and processes of ecosystems including the diversity of plant and animal communities and the productive capacity of ecological systems.

Ecosystem composition: The plant and animal species and communities in the plan area.

Ecosystem processes: Ecological functions such as photosynthesis, energy flow, nutrient cycling, water movement, disturbance, and succession.

Ecosystem structure: The biological and physical attributes that characterize ecological systems.

Focal species: Focal species are surrogate measures used in the evaluation of ecological sustainability, including species and ecosystem diversity. The key characteristic of a focal species is that its status and trend provide insights to the integrity of the larger ecological system to which it belongs. Individual species, or groups of species that use habitat in similar ways or which perform similar ecological functions, may be identified as focal species. Focal species serve an umbrella function in terms of encompassing habitats needed for many other species, play a key role in maintaining community structure or processes, are sensitive to the changes likely to occur in the area, or otherwise serve as an indicator of ecological sustainability. Certain focal species may be used as surrogates to represent ecological conditions that provide for viability of some other species, rather than directly representing the population dynamics of those other species.

Forest Service NEPA procedures: The Forest Service policy and procedures for implementing the National Environmental Policy Act (NEPA) and the Council on Environmental Quality regulations (40 CFR chapter V) as described in Chapter 1950 of the Forest Service Manual and Forest Service Handbook 1909.15, Environmental Policy and Procedures Handbook (See 36 CFR 200.4 for availability).

Inherently rare species: A species is inherently rare if it occurs in only a limited number of locations, has low population numbers, or has both limited occurrences and low population numbers, and those conditions are natural characteristics of the life history and ecology of the species and not primarily the result of human disturbance.

Inventoried roadless areas: Areas are identified in a set of inventoried roadless area maps, contained in Forest Service Roadless Area Conservation, Draft Environmental Impact Statement, Volume 2, dated May 2000, which are held at the National headquarters office of the Forest Service, or any subsequent update or revision of those maps.

Major vegetation types: Plant communities, which are typically named after dominant plant species that are characteristic of the macroclimate and geology of the region or sub-region.

Native species: Species of the plant and animal kingdom indigenous to the plan area or assessment area.

Plan area: The geographic area of National Forest System lands covered by an individual land and resource management plan. The area may include one or more administrative units.

Productive capacity of ecological systems: The ability of an ecosystem to maintain primary productivity including its ability to sustain desirable conditions such as clean water, fertile soil, riparian habitat, and the diversity of plant and animal species; to sustain desirable human uses; and to renew itself following disturbance.

Range of variability: The expected range of variation in ecosystem composition, and structure that would be expected under natural disturbance regimes in the current climatic period. These regimes include the type, frequency, severity, and magnitude of disturbance in the absence of fire suppression and extensive commodity extraction.

Reference landscapes: Places identified in the plan area where the conditions and trends of ecosystem composition, structure, and processes are deemed useful for setting objectives for desired conditions and for judging the effectiveness of plan decisions.

Responsible official: The officer with the authority and responsibility to oversee the planning process and make decisions on proposed actions.

Reviewing officer: The supervisor of the responsible official.

Social and economic sustainability: Meeting the economic, social, aesthetic, and cultural needs and desires of current generations without reducing the capacity of the environment to provide for the needs and desires of future generations, considering both local communities and the nation as a whole. It also involves the capacity of citizens to communicate effectively with each other and to make sound choices about their environment.

Species: Any member of the animal or plant kingdom that is described as a species in a peer-reviewed scientific publication and is identified as a species by the responsible official pursuant to a plan decision, and must include all species listed under the Endangered Species Act as threatened, endangered, candidate, or proposed for listing by the U.S. Fish and Wildlife Service or National Marine Fisheries Service.

Species-at-risk: Federally listed endangered, threatened, candidate, and proposed species and other species for which loss of viability, including reduction in distribution or abundance, is a concern within the plan area. Other species-at-risk may include sensitive species and state listed species. A species-at-risk also may be selected as a focal species.

Species viability: A species consisting of self-sustaining and interacting populations that are well distributed through the species' range. Self-sustaining populations are those that are sufficiently abundant and have sufficient diversity to display the array of life history strategies and forms to provide for their long-term persistence and adaptability over time.

Successional stages: The different structural and compositional phases of vegetation development of forests and grasslands that occur over time following disturbances that kill, remove, or reduce vegetation and include the major developmental or seral stages that occur within a particular environment.

Timber production: The sustained long-term and periodic harvest of wood fiber from National Forest System lands undertaken in support of social and economic objectives identified in one or more land and resource management plans. For purposes of this regulation, the term timber production includes fuel wood.

Undeveloped areas: Areas, including but not limited to inventoried roadless areas and unroaded areas, within national forests or grasslands that are of sufficient size and generally untrammeled by human activities such that they are appropriate for consideration for wilderness designation in the planning process.

Unroaded areas: Any area, without the presence of a classified road, of a size and configuration sufficient to protect the inherent characteristics associated with its roadless condition. Unroaded areas do not overlap with inventoried roadless areas.

Subpart B—[Reserved]

Dated: October 31, 2000.
Dan Glickman,
Secretary.

[FR Doc. 00-28580 Filed 11-8-00; 8:45 am]

BILLING CODE 3410-11-U